DEPARTMENT OF HOMELAND SECURITY

Coast Guard

33 CFR Parts 1, 20, 70, 95, 101, 110, 125, 141, 155, 156, 160, 162, 163, 164, and 165

46 CFR Parts 1, 4, 5, 10, 11, 12, 13, 14, 15, 16, 26, 28, 30, 31, 35, 42, 58, 61, 78, 97, 98, 105, 114, 115, 122, 125, 131, 151, 166, 169, 175, 176, 185, 196, 199, 401 and 402

[Docket No. USCG-2006-24371]

RIN 1625-AB02

Consolidation of Merchant Mariner Qualification Credentials

AGENCY: United States Coast Guard, DHS.

ACTION: Notice of proposed rulemaking.

SUMMARY: The Coast Guard proposes to streamline the existing merchant mariner credentialing process to minimize redundant requirements and simplify the credentialing program. This proposed rule works in tandem with the joint Notice of Proposed Rulemaking published by the Coast Guard and the Transportation Security Administration (TSA) entitled “Transportation Worker Identification Credential (TWIC) Implementation in the Maritime Sector; Hazardous Materials Endorsement for a Commercial Driver's License” published elsewhere in the Federal Register today. It proposes to combine the individual Merchant Mariner's Document, License, Certificate of Registry, and STCW Endorsement into a single certificate termed the Merchant Mariner Credential (MMC), which will be endorsed to reflect a mariner's qualifications. The Coast Guard also proposes to streamline the application process for the MMC by removing the requirement that all mariners appear at least once at one of 17 Regional Exam Centers (RECs). Instead, the information previously submitted by the applicant at the REC would be submitted to TSA through the TWIC enrollment process and shared with the Coast Guard by TSA.

DATES: Comments and related material must reach the Docket Management Facility on or before July 6, 2006. We will hold public meetings on Wednesday, May 31, 2006 in Newark, NJ; Thursday, June 1 in Tampa, FL; Wednesday, June 6 in St. Louis, MO; and Thursday, June 7 in Long Beach, CA.

ADDRESSES: You may submit comments identified by USCG docket number USCG-2006-24371 to the Docket Management Facility at the U.S. Department of Transportation. To avoid duplication, please use only one of the following methods:

(1) Web site: http://dms.dot.gov.

(2) Mail: Docket Management Facility, U.S. Department of Transportation, 400 Seventh Street SW., Room PL-401, Washington, DC 20590-0001.

(3) Fax: 202-493-2251.

(4) Delivery: Room PL-401 on the Plaza level of the Nassif Building, 400 Seventh Street SW., Washington, DC, between 9 a.m. and 5 p.m., Monday through Friday, except Federal holidays. The telephone number is 202-366-9329.

(5) Federal eRulemaking Portal: http://www.regulations.gov.

See SUPPLEMENTARY INFORMATION for format and other information about comment submissions.

FOR FURTHER INFORMATION CONTACT: For questions concerning this proposed rule, call Mr. Luke Harden (G-PSO-1), United States Coast Guard, 2100 Second Street, SW., Washington, DC 20593; telephone 1-877-687-2243.

For questions concerning viewing or submitting material to the docket, call Renee V. Wright, Program Manager, Docket Management System, U.S. Department of Transportation, Room Plaza 401, 400 Seventh Street SW., Washington, DC 20590-0001; telephone (202) 493-0402.

SUPPLEMENTARY INFORMATION:

I. Public Participation and Request for Comments

We encourage you to participate in this rulemaking by submitting comments and related materials. All comments received will be posted, without change, to http://dms.dot.gov and will include any personal information you have provided. We have an agreement with the Department of Transportation (DOT) to use the Docket Management Facility. Please see DOT's “Privacy Act” paragraph below.

Submitting comments: If you submit a comment, please include your name and address, identify the docket number for this rulemaking (USCG-2006-24371), indicate the specific section of this document to which each comment applies, and give the reason for each comment. You may submit your comments and material by electronic means, mail, fax, or delivery to the Docket Management Facility at the address under ADDRESSES; but please submit your comments and material by only one means. If you submit them by mail or delivery, submit them in an unbound format, no larger than 8½ by 11 inches, suitable for copying and electronic filing. If you submit them by mail and would like the Coast Guard to acknowledge receipt, please enclose a stamped, self-addressed postcard or envelope. We will consider all comments and material received during the comment period. We may change this proposed rule in view of them.

Viewing comments and documents: To view comments, as well as documents mentioned in this preamble as being available in the docket, go to http://dms.dot.gov at any time, click on “Simple Search,” enter the last five digits of the docket number for this rulemaking, and click on “Search.” You may also visit the Docket Management Facility in Room PL-401 on the Plaza level of the Nassif Building, 400 Seventh Street SW., Washington, DC, between 9 a.m. and 5 p.m., Monday through Friday, except Federal holidays.

Privacy Act: Anyone can search the electronic form of all comments received into any of our dockets by the name of the individual submitting the comment (or signing the comment, if submitted on behalf of an association, business, labor union, etc.). You may review the Department of Transportation's Privacy Act Statement in the Federal Register published on April 11, 2000 (65 FR 19477), or you may visit http://dms.dot.gov.

Public Meetings: TSA and the Coast Guard will hold four public meetings as follows: Wednesday, May 31, 2006 in Newark, NJ; Thursday, June 1 in Tampa, FL; Wednesday, June 6 in St. Louis, MO; and Thursday, June 7 in Long Beach, CA. These meetings will be held to take comments regarding both the Transportation Worker Identification Credential (TWIC) Implementation in the Maritime Sector; Hazardous Materials Endorsement for a Commercial Driver's License rule (Docket Nos. TSA-2006-24191; USCG-2006-24196) and the Consolidation of Merchant Mariner Qualification Credential rule (Docket No. USCG-2006-24371), both found in today's Federal Register. Specific times, locations and additional information for the public meetings will be announced in a subsequent notice in the Federal Register.

II. Background and Purpose

Under the current regulatory scheme, the Coast Guard may issue to a mariner any combination of four credentials: the Merchant Mariner's Document (MMD), Merchant Mariner's License (License), Certificate of Registry (COR), or the International Convention on Standards of Training, Certification and Watchkeeping for Seafarers (STCW) Endorsement. An MMD serves as a mariner's identification credential, indicates a mariner's qualifications, and is issued to mariners who are employed on merchant vessels of 100 gross register tons or more, except for those vessels employed exclusively in trade on the navigable waters of the U.S. Licenses are qualification certificates that are issued to officers. CORs are qualification certificates that are issued to medical personnel and pursers. STCW Endorsements are qualification certificates that are issued to mariners who meet international standards and serve aboard vessels to which STCW applies. The License, COR, and STCW Endorsement are qualification credentials only.

Elsewhere in this edition of the Federal Register, the Department of Homeland Security (DHS) published a joint notice of proposed rulemaking by the Coast Guard and the Transportation Security Administration (TSA), which proposes to implement the Transportation Worker Identification Credential (TWIC) in the maritime sector. A TWIC is a biometric transportation security card as contemplated under the Maritime Transportation Security Act of 2002, 46 U.S.C. 70105 (MTSA). Under the TWIC rule, workers who require unescorted access to secure areas of MTSA-regulated maritime facilities and vessels, and all merchant mariners credentialed under 46 U.S.C. part E must undergo a security threat assessment from TSA. This population includes all mariners holding active MMDs, Licenses, CORs, or STCW Endorsements. If TSA determines that the applicant does not pose a security risk, TSA will issue a TWIC to that individual. Once the DHS rule is implemented, persons without TWICs will not be granted unescorted access to secure areas at affected maritime facilities or vessels, and all merchant mariners will be required to hold a valid TWIC.

The MTSA requires DHS to issue biometric transportation security cards to, among others, merchant mariners. Because only the MMD is an identity document, and none of the Coast Guard-issued credentials contain biometric information or otherwise meet the MTSA requirements, a new credential is necessary to implement this statutory mandate. In addition, it was determined that national security would be increased by requiring all maritime workers to show the same credential to gain unescorted access to secure areas of vessels and facilities, rather than allowing a different card for each segment of the marine population.

If the TWIC rule is fully implemented, merchant mariners would be required to obtain a TWIC in addition to the mariner credentials currently required and thus would be required to obtain a total of five credentialing documents. To minimize redundant credentialing requirements and ease the burden on merchant mariners, the Coast Guard, through this rule, proposes to streamline its mariner regulations and consolidate the four current merchant mariner credentialing documents into one Merchant Mariner Credential (MMC). The proposed amendments to the mariner regulations will reduce, ultimately, the number of Federal identification/qualification cards that a mariner needs to carry to two (the MMC and a TWIC), as well as remove all duplicative public burdens and governmental processes.

The Coast Guard recently issued regulations aimed at increasing the security of the vetting process for mariner credentials. In an interim rule published January 6, 2004 for MMD applicants (68 FR 526), and an interim rule published January 13, 2006 for License applicants (71 FR 2154), the Coast Guard implemented a mandatory appearance requirement in the application process. Currently, all applicants must appear at one of 17 Coast Guard Regional Examination Centers (RECs) at least once in the application process to be fingerprinted by and show proof of identification to an REC employee. This appearance requirement was added as an additional security measure to ensure that MMDs and Licenses are issued only to people whose identities have been verified.

Under the TWIC proposed joint rulemaking published simultaneously with this rule, TSA would conduct security vetting and verify an applicant's identity prior to issuing the TWIC which would serve as an identity document. Without the streamlined process and combined credential suggested in this MMC rulemaking, mariners would be required to submit identity information and biometrics personally to two Federal agencies, and those Federal agencies would subject the applicant to the same security vetting process. This proposed rule is necessary to reduce cost and redundancy for both the public and the Federal government.

Because this proposed rule is closely related to, and relies on the proposed TWIC rule, it will follow the same timeline as the TWIC rule. This rule will not become a Final Rule unless the TWIC rule also becomes a Final Rule. In addition, the TWIC rule proposes an 18 month enrollment period, after which all merchant mariners must hold a TWIC. To allow enough time for all mariners to obtain TWICs before this rule will make possession of a valid TWIC a mandatory requirement for the issuance of an MMC, this rule will not go into effect until 18 months after the TWIC rule goes into effect.

III. Proposed Rule

The following discussion highlights the changes being made to the Coast Guard regulations. Through this proposed rulemaking, the Coast Guard proposes to consolidate the MMD, License, COR, and STCW Endorsement into a single document, called the Merchant Mariner Credential (MMC). The MMC would be a certificate that would contain endorsements for each of a mariner's job qualifications. It is expected to contain security enhancements that will deter duplication and manipulation. One of the security features is that the photograph on the MMC will match the photograph on the mariner's TWIC. Although the actual format of the MMC is not final at this stage, it is expected to appear in the form of a certificate suitable for framing that is modeled after the current STCW Endorsement. The current STCW Endorsement was recently updated to create a more professional appearance and to include increased security features such as watermarks and microprinting. A brochure showing the current STCW Endorsement and highlighting some of its security features can be viewed online in the docket for this rulemaking, which may be found by doing a search for docket USCG-2006-24371 at http://dms.dot.gov.

The Coast Guard is taking personal privacy considerations into effect in the development of the MMC. We are aware of the posting requirement for Licenses under 46 U.S.C. 7110, and the notation requirements for MMDs under 46 U.S.C. 7303, both of which will apply to the MMC. The Coast Guard is conscious of the fact that mariners may not wish to publicly display some of the biographical information currently on the face of an MMD and we therefore strive to design an MMC that will hide some of the information related to personal privacy when placed on display.

In the proposed credentialing system, instead of carrying up to five credentials, a mariner would hold only two. The MMC would serve as the mariner's qualification credential, while the TWIC would serve as the mariner's identification credential. To further benefit the mariner population, and reduce the burden created by the mandatory TWIC requirement, arrangements have been made with TSA to share information necessary for the MMC application process. Since all mariners would be required to appear at a TSA TWIC-enrollment center to provide proof of identity and citizenship and be photographed and fingerprinted, TSA has agreed to share with the Coast Guard information necessary to conduct our background check for safety and suitability related offenses and ensure that the mariner satisfies the appropriate citizenship requirements for the particular endorsement that they seek. This rule proposes to change the merchant mariner credentialing process into a process that potentially could be completed entirely by mail. To aid TSA in flagging those individuals whose information would need to be shared with the Coast Guard, it is envisioned that the mariner would advise TSA of their intent to apply for an MMC by checking a box that would appear on their TWIC application form. The cost savings from removing this travel burden is expected to be one of the financial benefits to the mariner proposed by this rule as TWIC-enrollment centers are expected to be established at every major port in the country. Should this regulation go into effect, instead of traveling great distances to visit one of the 17 RECs, mariners would have many more locations to choose from and would be much more likely to find one close to home.

To reflect the proposed creation of the MMC, many nomenclature changes were made throughout titles 33 and 46 CFR. Although there are many of these changes and they account for the bulk of the regulatory text later in this document, they are non-substantive in nature and reflect only a change in terminology so that the terms used throughout the Coast Guard regulations reflect the new credential. Specifically, the term “credential” was used to reference the License, MMD, COR, STCW Endorsement, and MMC. This term is used to reflect all possible credentials a mariner could hold after the effective date of this proposed rule to account for the five-year phase-in period when mariners could either hold a License, MMD, COR and or STCW Endorsement, or could have renewed those documents and received the proposed MMC. The terms “officer” and “officer endorsement” are used to reference those qualifications currently reflected on a License or COR. The terms “rating” and “rating endorsement” are used to reference those qualifications currently reflected on an MMD. Finally, the term “endorsement” is used to reference the actual annotation on the MMC reflecting the mariner's job qualification.

Although a reorganization of the regulations is necessary to accomplish this consolidation, the qualifications, experience, examinations, classes, and other requirements needed to serve as a merchant mariner are not changed by this proposed rule. To the extent possible, the Coast Guard proposes to change only the application procedures and form in which the qualifications are presented. To aid the reader, we have presented the proposed substantive changes to these regulations in table form. It is presented in six pieces: Changes that occurred throughout subchapter B; the changes that occurred in the current sections 10.100 through 10.223; changes that occurred in the current sections 12.01 through 12.02-29; the changes that would be made in the new regulatory text inserted into part 10; and finally those substantive changes that exist in sections 11.301 to end, sections 12.03-1 to end and part 15. For organizational purposes, the current regulations in 46 CFR part 10 (which are specific to officers) would be moved in their entirety to create a new part 11. A new part 10 would then be created, which would include only the application procedures and information pertinent to the MMC that applies to all mariners. The substance of the regulations proposed for the new Part 10 have been taken from the current regulations in sections 10.100 through 10.223 and 12.01 through 12.02. With the exception of the section on the changes in the new part 10 below, all citations in the left column reference the current regulations in 46 CFR.

Location | Proposed change | Reason for proposed change
THESE CHANGES WOULD OCCUR THROUGHOUT SUBCHAPTER B
§§ 10.103, 12.01-6, 13.103, 15.301 | All definitions in subchapter B would be combined into one section located in § 10.107, with the exception of part 16, and the definitions in § 15.1101. A new paragraph in § 10.107(a) would be added to state that if the definitions for the subpart provided in part 10 differ from those defined in part 16, or § 15.1101, then the part 16 or § 15.1101 definition applies as appropriate | Change made for clarity. Combining all of the terms in one introductory section for the entire subpart would allow the mariner to go to one place to find definitions for all terms and reduces the length of the regulations by omitting duplicative definitions. The definitions for 46 CFR part 16 have been excluded from the consolidation of definitions in this rulemaking process except for minor word changes to reflect the proposed changes in this NPRM. Part 16 is a standalone rule that relies heavily on 49 CFR part 40. In addition, the subject matter of part 16 deals with the narrow issue of chemical testing. It was determined that combining the definitions for this part with the other definitions of Subchapter B would lead to unnecessary confusion. The definitions in § 15.1101 have been excluded from the consolidation of definitions as they apply only to subpart J of part 15 and are narrowly tailored.
Titles 33 and 46 CFR | References to the terms “Merchant Mariner Credential”, “MMC”, “credential”, “endorsement”, “officer endorsement” or “rating endorsement” as appropriate, were inserted throughout Titles 33 and 46, when the text referred to a mariner's “License”, “Merchant Mariner Document”, “MMD”, “STCW Certificate”, and or “Certificate of Registry” | One of the main goals of this rulemaking is to combine the License, MMD, COR, and STCW Endorsement to create the MMC with endorsements thereon that indicate that the mariner is qualified to perform specific job functions. This new credential would be phased in over a five-year period, as the mariner's previous credentials expire. For that reason, during that initial five-year period, mariners could hold either an MMC or one of the current credentials. As a result, the regulations would be amended to reflect the inclusion of this new credential and its terms of art. After the close of the five-year integration period when all mariners would hold MMCs, a technical amendment to the regulations is expected to be published that would remove references to the credentials that the Coast Guard will no longer be issuing (the License, MMD, etc.).
Parts 10-16 | References to “Certificates of Identification”, “Certificates of Service”, “Certificates of Efficiency”, and “Continuous Discharge Books” were removed | These documents are no longer issued by the Coast Guard. The Coast Guard discontinued this practice before the publication of this proposed rule. Continued reference to these certificates and books creates undue confusion. This rule would update the regulations to conform with practice and reduce confusion.
Parts 10-16 | Miscellaneous linguistic edits | Many non-substantive edits are proposed throughout subchapter B to improve clarity and support the government's plain language initiative. Because of their large volume, only substantive changes are specifically identified in this table.
Parts 10 and 12 | A reorganization of 46 CFR subchapter B is proposed as follows: The regulations specific to officer endorsements that are currently contained in 46 CFR part 10 would be moved to create a new part 11 (there is no part 11 in the current regulations). The elements of part 12 specific to rating endorsements would stay in part 12. Those elements regarding application processes currently contained in parts 10 and 12 would be combined to create a new part 10 that would contain the application process for the MMC | The application requirements, appeals processes, etc. for MMDs and Licenses (formerly § § 10.100 to 10.223 and 12.01-1 to 12.02-29) that are not distinct to either officers or ratings would be combined and located at the beginning of the subchapter. Those elements of the current regulations, parts 10 and 12, that are specific to either officers or ratings would be kept separate, and retained in either part 11 (for officers) or part 12 (for ratings). In order to avoid confusion, the requirements for officers would be moved to create a new part 11, and the new general requirements for all MMCs would be inserted into the beginning of part 10.
THESE CHANGES WOULD OCCUR IN THE CURRENT PART 10 SECTIONS 10.100—10.223
(Unless otherwise stated, the current part 10 would move to create a new part 11.)
§ 10.105 (now § 11.105) | (a) Moved to § 10.217. The requirements of (b) and (c) were replaced with language in § 10.209(c)(3) reflecting the agreement between TSA and Coast Guard to share this information | Paragraph (a): moved for organizational purposes. Paragraphs (b) and (c): Since the Coast Guard would no longer issue Licenses after this rule becomes effective, the application procedures for Licenses and MMDs would be combined into the procedures for the application for MMCs. Throughout this proposed regulation, to the extent possible, application requirements, training, and any other qualifications required to obtain the current credentials would not change. The fingerprint, proof of ID and appearance requirements have been removed due to agreements made by TSA and the Coast Guard. This change is discussed in greater detail below in the discussion of new section 10.209.
§§ 10.109, 10.110, 10.111 and 10.112 | Tables and text moved to § 10.219. | The fee charts for the issuance of Licenses, MMDs, CORs, and STCW Certificates would be merged. The fee structures were retained and the only changes that were made were linguistic and organizational changes to reflect the new credential and remove any duplicative charges. The only substantive change to the fees charged is that mariners will only be charged one $45 issuance fee as there is only one credential now instead of four. No new costs have been added.
§ 10.201 | (b) Moved to § § 10.211 and 10.213. First part moved to “Criminal Record Review”, second part moved to “National Driver Register” (e) Moved to § 10.221. (h) Moved to § 10.211, except: In (h)(1), the first sentence would be deleted, and the fourth and fifth sentences would be moved to 10.209. (i) Moved to § 10.213. (j) Moved to § § 10.211 and 10.213. All other paragraphs retained in § 11.201, but relettered. New § 11.201 also includes some sections from the former § 10.202, which are discussed below. New paragraph (e) added language that the required evidence of age may be established using the applicant's proof of citizenship. Newly redesignated (f) added “, hearing, and general physical condition” to the listing of physical checks. Newly redesignated (g) added “from the date the application is approved”. NEW (h) taken from § 10.201(e). | Since the Coast Guard would no longer be issuing Licenses after these proposed changes take effect, the application procedures for Licenses and MMDs would be combined to create the application procedures for the MMC. The paragraphs in this section would be relettered to fill the gaps of the sections removed. Unless otherwise stated below, even though the organization changed, the application requirements would not be substantively changed. Current (h)(1): The discussion of fingerprints was moved to 10.211. As discussed elsewhere in this table, a mariner would no longer be required to appear at an REC to provide fingerprints. This data will be shared with the Coast Guard by TSA. New paragraph (e): Added for clarity. Proofs of citizenship are used to establish age. This is already done in practice. The proof of citizenship will be submitted by the applicant to TSA in the TWIC enrollment process and electronically shared with the Coast Guard by TSA. Newly redesignated (f): Listed the remaining medical and physical evaluations that the Coast Guard recommends be performed at the earliest opportunity to ascertain the applicants ability to perform their duties. These early evaluations are not a requirement, but are recommended to save the applicant an investment of time and money when an unknown medical or physical condition may prevent the issuance of the credential sought. This change combines the elements of the MMD and License. Newly redesignated (g): Change proposed for clarity. Formerly said valid for 12 months, but did not say 12 months from when.
§ 10.202 | § 11.202—renamed (a) Moved to § 11.201(g) above. (b) and (c) Moved to § 10.205. (d) Moved to § 10.225. (e) Combined in § 11.201(b) above to remove duplicative language. (f) Moved to § 10.215. (g) Moved to § 10.237. (h) Moved to § 11.201(i) above. (i) Moved to § 10.209. (m) Moved to § 10.211. (j-l) These paragraphs were retained in § 11.202, but were renumbered to account for the sections that were taken from this section and moved to part 10. | Section 11.202 would be renamed to discuss only those elements of the former § 10.202 that were specific to STCW Endorsements. All other paragraphs would be retained, but moved into other sections in part 10 for organizational purposes.
§ 10.204 | Moved to § 10.237 | The rights of appeal for a License are the same as those for an MMC. Reorganization change only.
§ 10.205 | (b) Deleted (c) Deleted. (d) Moved to § 10.215. (f)(2) Moved to § 10.211. (j) Moved to § 10.209. (k) Moved to § 10.213. (l-o) Moved to § 11.202 above. (Combined the STCW endorsement information into one place). All other info here was renumbered. NEW (e)(1): Changed “within the past 12 months” to “not more than one year before the date of application”. | Reorganized. Combined the application elements for Licenses that now apply to the MMC, and moved those application elements that apply only to officers into new part 11. Many of the elements of § 10.205 would be moved, but unless stated otherwise below, the substantive elements of the section would be retained. (b) Removed because it is duplicative, the substance is contained in § 11.201(e) above. (c) Removed because under this proposed rule, applicants will no longer be required to submit proof of citizenship to the Coast Guard. Applicants would provide their proof of citizenship to TSA in the TWIC application process. TSA would then share an electronic scan of the applicant's proof of citizenship with the Coast Guard if the applicant is given a TWIC. Authenticity will be determined by TSA. New (e)(1): Change made for clarity.
§ 10.207 | The requirements for all credentials (ex: citizenship, chemical testing, criminal record review, National Driver Register (NDR) and medical/physical requirements) were moved to 10.209. The remaining paragraphs were moved to the raises of grade regulations at the new § 10.231 | The material in this section involved the application procedures to obtain raises in grade of endorsement. The substance of the section would be retained, but moved for organizational purposes to be in the more general MMC section of the regulations. The intent was to place as many of the application requirements as possible within the same part (part 10) to make the regulations more organized and clear.
§ 10.209 | All paragraphs currently contained in section 10.209 were moved to section 10.227 with the exception of paragraphs (a)(2), (e)(2), (e)(3), (e)(3)(F)(iii) and (e)(4) (a)(2)—The requirement to appear in person to be fingerprinted and provide evidence of identity would be removed. (e)(2) Renewal in advance. Currently, Licenses can only be renewed within 12 months of expiration. This limitation would be removed. (e)(3) The requirement to appear in person to be fingerprinted and provide evidence of identity would be removed. (e)(3)(F)(iii) Moved to § 10.205. (e)(4) Concurrent renewal of licenses, certificates of registry, and merchant mariner documents would be deleted. | General: The merging of the License with the other mariner qualification documents requires a merger of the renewal requirements. All elements of this section would be retained with the exception of those sections discussed below: (a)(2) Now that the identity portion of the application process would be conducted by TSA, the TWIC would be the mariner's primary identity document. The MMC is only intended to be a qualification document, which will have identity information on it to comply with the STCW convention. When a mariner is approved for a TWIC, TSA will electronically send to the Coast Guard the individual's photograph, fingerprints, and proof of citizenship/alien status. The mariner must provide TSA with a fingerprint and appear at a TSA-enrollment station twice—once to apply and present proofs of identity, citizenship and fingerprints, and once to pick up the credential and provide a one-to-one match of their fingerprint with the chip on the TWIC. Requiring the mariner to submit the same information to the Coast Guard would be needlessly duplicative, so the requirement would be removed. The same line of reasoning applies to proof of legal residency for aliens as discussed below. (e)(2) Removing the limitation on renewal periods would ease the burden on merchant mariners by allowing them the flexibility to come in and renew their credentials at their leisure. All of a mariner's endorsements (officer and rating) will expire on the date that the MMC expires. This is intended to aid the mariner by reducing the number of expiration dates they must remember and will allow for more flexibility to serve a population of individuals who frequently find themselves off at sea for extended periods of time. If the mariner comes in and gets a raise in grade with 2 years left on their MMC, they could now renew the MMC at the same time they apply for the new endorsement. The current 12 month limitation was imposed to prevent constant renewals which would overwhelm the RECs and lead to backlogs. Since this limitation was imposed, user fees have been created, which should prevent unnecessary renewal requests. (e)(3) See (a)(2) above. (e)(3)(F)(iii) An MMC, like a License, would not be valid until signed. (e)(4) This paragraph would be deleted because there would no longer be multiple credentials that could be renewed concurrently. The requirement to supply any supplementary materials to show that the mariner meets the mandatory requirements for the specific endorsement sought would be contained in the new § 10.227(g).
§ 10.210 | Deleted | The provisions for the conversion of a towing License would be removed because they will only apply until May 21, 2006. By the time this rule could become final, all towing Licenses issued before May 21, 2001 should already have been renewed.
§ 10.215 | Moved to § 10.223 | The merging of the License with the other mariner-qualification documents requires a merger of the renewal requirements. The substance of the section would be retained unless otherwise mentioned below.
§ 10.219 | First sentence of (a) moved to § 10.233, the remainder was moved to § 10.229 | The merging of the License with the other mariner-qualification documents requires a merger of the requirements for holders and the issuance of duplicates. The substance of the section would be retained unless otherwise mentioned below.
§ 10.221 | Moved to § 10.233 | The merging of the License with the other mariner-qualification documents requires a merger of the obligation requirements. The substance of the section would be retained unless otherwise mentioned below.
§ 10.223 | Moved to § 10.235 | The merging of the License with the other mariner-qualification documents requires a merger of the suspension and revocation requirements. The substance of the section would be retained unless otherwise mentioned below.
THESE CHANGES WOULD OCCUR IN § § 12.01 THROUGH 12.02-29
§ 12.01-1 | Paragraphs (a)(3) and (c) would be moved to § 10.101. The remainder would be retained in 12.01-1 | Paragraph (a)(3) involves the review of an applicant's background to determine whether they pose a security or safety risk. Now, TSA will be reviewing the applicant's security background. The safety review would be addressed in the review of the applicant's criminal record and NDR record, contained in part 10. The Coast Guard would no longer evaluate applicants for security risk. Paragraph (c) references credentials that are no longer issued by the Coast Guard.
§ 12.01-7 | The list of RECs was moved to § 10.217 | The REC locations have not been changed in this rule, but instead of listing them in both parts 10 (now 11) and 12, they are now listed only in part 10.
§ 12.02-3 | (a) Deleted (b) Moved to § 10.217. | (a) The Coast Guard no longer issues the documents in this part. (b) The Coast Guard currently does not conduct exams abroad, but part 10 retains the agency's right to do so.
§ 12.02-4 | Moved to part 10 (a) and (c) Moved to § 10.211. (b) Moved to § 10.209. (d) and (e) Moved to § 10.213. | (a) and (c) Would be moved to part 10, and incorporated into the general application procedures. The requirements would not be changed, other than that the security check portion of the process will already have been completed by TSA when the mariner goes through the TWIC vetting. To remove duplicative processes, the Coast Guard would no longer conduct a background check to evaluate whether an applicant is a security risk. The Coast Guard would, however, continue to evaluate the applicants to determine that they would not pose a safety risk and that they are qualified for the MMC and endorsement sought. Furthermore, as discussed elsewhere in this table, the fingerprints now required to be submitted by the mariner at an REC could be transmitted electronically by TSA from the applicant's TWIC application. (b) This requirement would be retained, but moved for organizational purposes. (d) and (e) The requirements in these paragraphs would be retained but moved for organizational purposes.
§ 12.02-5 | Deleted | Continuous discharge books, and certificates of service, efficiency, or identification are no longer issued by the USCG. This section was outdated and unnecessary.
§ 12.02-7 | (d) Formerly read “* * * of 500 gross ton”, now reads “* * * of 500 gross tonnage (200 gross register tons)” | (d) Change would be made to correct typographical error.
§ 12.02-9 | (a) Parts added to § 10.209, the rest was deleted (b) Deleted. (c) Moved to § 10.209. (d) and (f) Moved to § 10.209. (e) Moved to § 10.225. (g) Moved to § 10.211. (h) Moved to § 10.213. | (a) The general requirements of this paragraph would be retained and moved to part 10. The only change is that references to continuous discharge books and certificates of identification would be removed as these are no longer issued by the USCG. (b) These paragraphs would be deleted because photographs will now be sent to the USCG by TSA once an applicant is cleared for a TWIC. For added security, the photograph on the TWIC will match the photograph on the MMC. (c), (d), (f), (g), and (h) Requirements would be retained but moved to part 10 for organizational purposes. (e) Requirement would be retained but moved to part 10 for organizational purposes. Also, clarified that the 12 months begins from date of application approval.
§ 12.02-10 | Moved to § 10.221 | Requirement retained, but moved to part 10 for organizational purposes. Also, a non-significant technical change was made to remove references to obsolete credentials.
§ 12.02-11 | (a) and (c) Moved to § 10.201 (b) Deleted. (c) Moved to § 10.205(g). (d)(1) [now (a)(1)] Removed reference to the fact that an MMD endorsed for “any unlicensed rating in the deck department, except able seaman” would not have to show his license to serve in any unlicensed capacity in the deck department except able seaman. (d)(3) Deleted. (e)(1) Deleted. (g) Deleted. (d)(2), (e)(2), (f), (h), and (i) All retained in § 12.02-11, and re-lettered to account for the paragraphs that were removed. | (a) The regulation would continue to reference the Coast Guard form number that the credential would be issued on, but would reference a new form number to reflect the new credential. The application form would have to be revised to incorporate the changes reflected in this rule. (b) This paragraph is no longer relevant as there should no longer be valid certificates of service, certificates of efficiency, or certificates of identification. Also, all qualifications would appear on one document, so there would be no need to cross reference anything. (c) This paragraph refers to the fact that an MMD also serves as a certificate of service. As the new regulation would be removing the MMD, this provision is unnecessary. The remaining provisions would be moved to § 10.205(g) for organizational purposes. (d)(1) Once all endorsements are combined on the same document, there would be no second document to show—this language would be irrelevant, so it would be removed. (d)(3) This paragraph would no longer be relevant since all endorsements would be on one document. There would no longer be a need for one document to reference another, or determine what will be on which credential. (e)(1) The process of combining credentials would make this requirement unnecessary. (g) This paragraph is no longer applicable. Continuous discharge books are no longer issued, and no document issued before November 1, 1945 would still be valid.
§ 12.02-12 | Deleted | All merchant mariners would be required to hold a valid TWIC pursuant to the joint rulemaking published by DHS entitled “Transportation Worker Identification Credential (TWIC) Implementation in the Maritime Sector; Hazardous Materials Endorsement for a Commercial Driver's License” and 46 U.S.C. 70105. TSA would conduct a full identity check before issuing the TWIC, and the TWIC would serve as the mariner's primary identity credential. In the TWIC rulemaking, proposed language was inserted into parts 10, 12, and 15 to require the possession of a valid TWIC. This rulemaking would retain that requirement, and use the TWIC as the mariner's proof of identity. Before issuing an MMC, the RECs would run the TWIC number against the Transportation Security Administration's Identification Management System (IDMS) to make sure the TWIC is still valid. Appearance at an REC would not be required.
§ 12.02-13 | (c) Deleted entirely The remainder moved to § 10.209. | (c) This paragraph would be deleted to conform to changes made in the Interim Rule published January 13, 2006, at 71 FR 2154. The remainder of the section would be retained, but moved to part 10 for organizational purposes.
§ 12.02-14 | Moved to § 10.221 | Requirements retained, but would be moved to part 10 for organizational purposes.
§ 12.02-15 | Moved to § 10.225 | Requirements retained, but would be moved to part 10 for organizational purposes.
§ 12.02-17 | (b) Moved to § 10.205 (c) Moved to § 10.209. (d) Moved to § 10.207. (e) Modified and moved to § 10.209. (h) Deleted. The remaining paragraphs have been retained in this section. Also, the title of the section was renamed to “Examination procedures and denial of rating endorsements.” | (b), (c), (d) and (h) The requirements were retained, but moved to part 10 for organizational purposes. (e) An individual who applies for an MMD under the current regulations, must pass a medical examination, but conflicts exist between the terms used in the licensing regulations from those used in the MMD regulations with respect to who can perform those examinations. Section 12.15-5(a) said that Qualified Members of the Engine Department (QMEDS) could have their eyes, hearing, and physical condition checked by a medical officer of the United States Public Health service or any other reputable physician. The same was said for able seaman for their physical requirements in § 12.05-5(a). But all mariners seeking MMDs had to have their medical fitness evaluated by a “qualified medical practitioner”. Similarly all applicants for licenses were required to have a physical exam conducted by a “licensed physician or licensed physician assistant” in § 10.205(d). Due to the contradictory terms currently used, and the fact that it is common practice for individuals to seek these services from licensed medical doctors, licensed physician assistants, and licensed nurse practitioners, the proposed regulation reflects the titles of the specific professionals who may provide this service.
|  | The title of the section would change to reflect its new content.
|  | (h) The MMC shows only a mariner's qualifications and would not be a proof of their identity or allow them access to secure areas of vessels or facilities. As the MMC is not an identity document, as was the MMD, a mariner may retain the MMC after its expiration. This is a continuation of the procedures that are currently in place with respect to the License, which also is not an identity credential. More strict control of identity credentials is necessary than for qualification documents. This change is reflected in §§ 10.225(d) and 10.231(b) in the proposed text.
§ 12.02-18 | Moved to § 10.219 | The requirements from this section would be retained, but moved to part 10 for organizational purposes.
§ 12.02-19 | Moved to § 10.235 | The requirements from this section would be retained, but moved to part 10 for organizational purposes.
§ 12.02-21 | Moved to § 10.235 | The requirements from this section would be retained, but moved to part 10 for organizational purposes.
§ 12.02-23 | Moved to § 10.229 | The requirements from this section would be retained, but moved to part 10 for organizational purposes.
§ 12.02-24 | Moved to § 10.233 | The requirements from this section would be retained, but moved to part 10 for organizational purposes.
§ 12.02-25 | Moved to § 10.237 | The requirements from this section would be retained, but moved to part 10 for organizational purposes.
§ 12.02-27 | Moved to § 10.227 except: (a)(2) Deleted. (c)(2) Deleted. (d) Modified and moved to 10.215. (e)(2) Deleted. (e)(4) Deleted. (e)(5) Deleted. | The requirements from this section would be retained, but moved to part 10 for organizational purposes with the following exceptions: The reference number for the Coast Guard application form will be changed once the application form is finalized and cleared through the Office of Management and Budget (OMB).
|  | Paragraph (a)(2) would be removed as personal appearance at an REC would no longer be necessary once TSA shares the applicant's information with the Coast Guard.
|  | Paragraph (c)(2) would be removed because there will no longer be a time when a mariner will hold a credential that does not reflect an endorsement on it.
|  | In paragraph (d), the individuals who may conduct medical and physical exams would be extended to include a licensed medical doctor (including a Doctor of Osteopathy), licensed physician assistant, or licensed nurse practitioner.
|  | Paragraph (e)(2) would be removed to allow mariners to renew their credential at any time they choose. There would no longer be a limitation that MMDs could not be renewed more than 12 months in advance.
|  | Paragraph (e)(4) would be removed because after the promulgation of this regulation, there will only be one credential issued to mariners, so procedures for concurrent renewal would be unnecessary.
|  | Paragraph (e)(5) would be removed because, as otherwise discussed in this table, applicants would no longer be required to appear in person at an REC to show proof of identity and be fingerprinted.
THESE CHANGES WOULD OCCUR IN THE NEW PART 10
§ 10.107 Subchapter B Definitions | Added definitions for the following terms: Apprentice mate (steersman) of towing vessels (existing definition amended) Credential Day (Added “When computing service required for Mobile Offshore Drilling Unit (MODU) endorsements a day is a minimum of four hours, and no additional credit is received for periods served over eight hours.” to the existing definition.) Endorsement (Existing definition modified) Fails a chemical test for dangerous drugs (Existing definition modified to match part 16) Great Lakes Invalid credential Merchant Mariner Credential (MMC) MMC Application Officer Endorsement Officer in Charge of Marine Inspection (OCMI) Rating Endorsement Readily Available Criminal Record Check Staff officer STCW Endorsement Transportation Worker Identification Credential (TWIC) The creation of the new paragraph (b) is discussed above in the section discussing changes that occurred throughout subchapter B and the combination of definitions. | Apprentice mate (steersman) of towing vessels: This definition was amended to include the words “and in the presence of” due to the definition of the term “directly supervised”. The Coast Guard wants to make it clear that apprentice mates of towing vessels must be supervised in the presence of a master or mate and arrangements such as the use of two-way radios are not acceptable. Credential: Because mariners would be allowed to receive their MMCs over a period of up to six years (as their license, MMD, etc. expires plus the one-year administrative grace period), for those six-years some mariners may hold an MMC and others may hold any number of the current credentials. The term “credential” is used to reference any and all of the potential documents held by the mariner. At the close of this six-year period, a technical amendment is expected which will remove all remaining references to documents, licenses, and certificates as well as remove the term “credential” and insert “MMC”. Endorsement: Would be modified to reflect that endorsements would be notations of qualifications that appear on a person's MMC. Day: Would combine the definitions of Day and Service from § 10.103. Fails a chemical test for dangerous drugs. There are differences between the definitions for 10, 12, and 16. The definition used in part 16 had the most clear and inclusive wording, so it would be retained. Great Lakes: This definition is contained in the current regulation text for part 10 (now 11), but not in part 12. Since we previously maintained two different standards for Great Lakes, a sentence would be added to the definition currently in part 10 to clarify a distinction for rating endorsements. Invalid credential: Definition added for clarity to encompass all reasons a credential could be invalid. Merchant Mariner Credential (MMC): A definition for the new credential created by this rule would be added for clarity.
|  | MMC Application: A definition would be added for clarity, so that it is understood that an application for an MMC includes the application for any endorsements sought and vice versa.
|  | Officer Endorsement, Rating Endorsement, Staff officer, STCW Endorsement: This rule proposes these new endorsements on the MMC. A definition is proposed for clarity, and in § 10.109, the particular endorsements or job functions encompassed by those terms are set out.
|  | Officer in Charge, Marine Inspection, or OCMI was amended to add “or any person designated as such by the Commandant” to allow for potential CG reorganization of National Maritime Center.
|  | Criminal Record Check: The Coast Guard currently performs a safety and security check before issuing documents. After DHS' TWIC rule and this rule, TSA would be conducting the security check portion of the review and the Coast Guard would be reviewing a mariner's background, including the applicant's criminal record, to determine whether he or she is a safety risk and otherwise qualified to hold the MMC and any particular endorsements sought. A definition for this term would provide further clarity.
|  | Transportation Worker Identification Credential (TWIC): This is a new credential required by statute and implemented by a proposed regulation published simultaneously with this rule entitled “Transportation Worker Identification Credential (TWIC) Implementation in the Maritime Sector; Hazardous Materials Endorsement for a Commercial Driver's License”. A definition is provided here for clarity.
§ 10.109 Classification of Endorsements | NEW | This section was created for clarity. Since the new MMC system would involve endorsements for all of the classifications previously contained on separate documents, this list provides an easy method of determining under what classification a particular endorsement falls.
§ 10.201 General Characteristics of the Merchant Mariner Credential | Advises that qualifications will now appear as endorsements on an MMC and that the mariner's TWIC will serve as their primary identification document. Advises that the Coast Guard will no longer issue MMDs, Licenses, STCW Endorsements, or Certificates of Registry. | Because the requirement to hold a TWIC would require mariners to potentially carry up to five credentials, in the interest of reducing the burden on the mariner and the Coast Guard, we propose in this NPRM to combine the credentials. TSA will verify the applicant's identity and conduct all security vetting. The TWIC would therefore serve as the mariner's identification document. The remaining elements of the License, MMD, COR, and STCW Endorsement would be combined on one document: the MMC. The MMC would look much like the current STCW Endorsement, and would contain endorsements setting forth those positions for which the mariner is qualified.
|  | After the rule becomes effective, MMDs, Licenses, STCW Endorsements, and CORs will no longer be issued, and instead, the Coast Guard will issue MMCs with endorsements. When a mariner applies to renew his or her MMD, License, COR, or STCW Endorsement, they will instead be issued an MMC, which will reflect their qualifications in the form of endorsements.
§ 10.203 Requirement to Hold a TWIC and a Merchant Mariner Credential | Retains the obligation that all merchant mariners must hold a TWIC (this requirement would be imposed in the proposed rule published by DHS simultaneously with this rule entitled “Transportation Worker Identification Credential (TWIC) Implementation in the Maritime Sector; Hazardous Materials Endorsement for a Commercial Driver's License”) Creates the five-year phase-in period for the MMC by requiring the MMC but allowing mariners to serve under their License, MMD, COR and/or STCW Endorsement for five years after the effective date of the final rule, or until it expires. Requires the MMC to be produced to verify qualifications and the TWIC to be produced to verify identity when required by an authorized official. | In DHS' TWIC rule implementing the requirements of 46 U.S.C. 70105, any individual issued a License, Certificate of Registry, or MMD under part E of subtitle II of title 46 U.S.C. must hold a TWIC. This proposed regulation would retain that requirement which would be created by the DHS TWIC rule. The requirement to hold a TWIC is not new with this rule. This section proposed the obligation for mariners to hold an MMC, but allows for a grace period. Over a five-year period, mariners will be required to get an MMC. Mariners will be issued the new MMC at the time that they choose to renew their current credentials. This means that during the first five-year period after this proposed rule becomes effective, when a mariner's License, MMD, COR, or STCW Endorsement expires, when they renew they would receive an MMC instead of another License, MMD, COR or STCW Endorsement. Mariners are also, of course, welcome (and encouraged) to come to the REC and apply for their MMC at any time before their previous credential expires. This allows mariners to come in over a longer period of time and would not create an additional burden by requiring mariners to obtain the new MMC during the validity of their current credential. Since all currently issued credentials are valid for five-year periods, all mariners should have had to renew their credentials by the close of the five-year grace period.
|  | As the MMC would be the qualifications credential and the TWIC would be the identity credential, these credentials would have to be produced when requested by an authorized official to verify the mariner's identity or qualifications. This could occur, for example, when the mariner seeks unescorted access to the secure areas of a MTSA-regulated vessel or facility or when the vessel is inspected by Coast Guard or other law enforcement personnel.
§ 10.205 Validity of a Merchant Mariner Credential | Added: (b) All endorsements are valid until the expiration date of the MMC on which they appear. (f) An STCW Endorsement is valid only when the related officer or rating endorsement is valid. (h) If a mariner holds more than one credential, and they choose to renew and receive their first MMC, the Coast Guard may also renew all other credentials for which the mariner is qualified. | (b) Since the proposed MMC would be a single credential with multiple endorsements, creating an MMC that would expire on one date, listing endorsements that could expire on multiple dates could be confusing to the mariner, Coast Guard inspection personnel, employers, and/or domestic or foreign port officials. This rule proposes that any endorsement on the MMC is valid for the period of the MMC on which it is written. This retains the five-year validity period established by statute in 46 CFR part E. Any underlying certificates or other qualifications would still have to be obtained and kept valid, but their expiration dates would not be reflected on the MMC (i.e. Radar Certificates).
|  | (f) If an officer or rating endorsement is suspended or revoked, the related STCW endorsement is no longer valid. The current statute authorizes only suspension and revocation of the credential on which the endorsement appears (currently the License or MMD), but does not clearly authorize suspension and revocation of the STCW Endorsement. This language is necessary to tie the STCW endorsement to the related endorsement that we have the authority to suspend or revoke (this tie exists in the current regulations).
|  | (h) The Coast Guard has long encouraged merchant mariners to synchronize their credential expiration dates foreseeing a consolidation such as the one proposed by this proposed rule. Of the total current merchant mariner population, 13,843 (34%) mariners hold more than one credential whose expiration dates do not match. The Coast Guard proposes to issue credentials with one expiration date for all endorsements to avoid the confusion of several different expiration dates appearing on the face of the credential. 46 U.S.C. 7106, 7107 and 7302 provide that Licenses, CORs and MMDs are valid for five years and may be renewed for additional five-year periods. Like the License, COR and MMD, the MMC, would be valid for five years and would be renewed for additional five-year periods. The endorsements thereon, however, could potentially be valid for less than five-year periods unless the mariner voluntarily aligns their expiration at the initial issuance of their MMC.
§ 10.207 Identification Number | Added: “However, a unique serial number, and not the social security number will appear on the credential” | This would be added for clarity to make it as clear as possible that although an individual's social security number will be used as the individual's MMC identification number, the Coast Guard is aware of the individual's privacy interest in that information and will not place the social security number on the credential. The mariner's social security number has been used as an identification number throughout the history of the mariner-credentialing process.
§ 10.209 Application Procedures | (a) All general requirements for MMC applications are contained in this section. Any additional requirements above and beyond those set out in this section for duplicates, renewals, or raises in grade are contained elsewhere in this part (b) Coast Guard is given the option to process incomplete applications, although policy will remain that only complete applications will be processed. (c) All of the application requirements were combined into one place. (2) The mariner must show proof of a valid TWIC to show proof of identity. (3) A complete application includes fingerprints, photograph, FBI number and criminal record (if applicable), proofs of citizenship and proof of alien status (if applicable). This information will be shared with the Coast Guard by TSA. The information will be submitted by the applicant to TSA in the TWIC enrollment process. (4) References were made to the specific requirements that must be met for the particular endorsement sought. (10) The current language from § § 10.205(e)(1) and 12.02-9(c) differed with respect to this pre-existing requirement. The chosen language reads: “* * * name, tonnage, and horsepower of the vessels, dates of service, capacity in which the applicant served, and on what waters.” (d) A list of items that may be submitted by mail has been retained even though a mariner could now potentially conduct the entire application process by mail. | (a) For purposes of organization, all application requirements that apply in the pre-existing regulations to MMDs, Licenses, CORs, STCW Endorsements, renewals, duplicates and raises in grade would all be included in section 10.209. The goal is to put as many of the requirements as possible in one place to make the process as simple and clear as possible. Those additional requirements for duplicates, renewals, or raises in grade would be contained in sections placed later in this part so that all application requirements (to the extent possible) would all be contained within the same part. (b) Currently, the regulations state that the Coast Guard is prohibited from processing incomplete applications, with no exception. The proposed rule says that the Coast Guard “may” refuse to process incomplete applications. While it will remain Coast Guard policy to refuse to process incomplete applications, to allow for better customer service the proposed regulations were edited to allow for some leniency with extenuating circumstances. (c) Whereas all of the application requirements for Licenses and MMDs are currently spread throughout parts 10 and 12, this regulation proposes to list them in a manner that is as clear and succinct as possible. All requirements in this paragraph exist prior to the promulgation of this rule and have been merely moved from preexisting text unless stated below: (2) The requirement that a mariner hold a valid TWIC is proposed in the DHS rulemaking entitled “Transportation Worker Identification Credential (TWIC) Implementation in the Maritime Sector; Hazardous Materials Endorsement for a Commercial Driver's License” which is published simultaneously with this proposed rule. This rule proposes to accept a valid TWIC as proof of identification in lieu of the identification requirements currently existing in § § 12.02-12 and 10.105.
|  | (3) Currently, all applicants must appear at an REC to be fingerprinted and show proof of identity and citizenship to an REC employee. This proposed regulation would remove the appearance requirement since the applicant's photograph, fingerprints and proof of citizenship/alien status will be provided to the Coast Guard by the Transportation Security Administration (TSA). We propose removing the appearance requirement to relieve a burden on the mariner, and prevent against unnecessary duplication in submission efforts. TSA would conduct a full security-and-background screening of the applicant before issuing the TWIC and has agreed to share with USCG the necessary information to conduct our background check for safety-related offenses and ensure that the mariner satisfies the appropriate citizenship requirements for the particular endorsement sought. Since all mariners would be required to appear at a TSA TWIC enrollment center to provide proof of identity and citizenship, and be photographed and fingerprinted, there should be no need for them to appear at a Coast Guard REC to submit this information again. To aid TSA in flagging those individuals whose information would need to be shared with the Coast Guard, it is envisioned that the mariner would advise TSA of their intent to apply for an MMC by checking a box that would appear on their TWIC application form.
|  | (4) Because each officer, rating, or STCW Endorsement may require different training or qualifications than the others, combining all of the individual requirements in part 10 would be too complex and confusing. Applicants must also satisfy the requirements for the particular endorsement that they seek.
|  | (10) The phrase “amount and character of their experience” used in § 10.205(e)(1) would be clarified in the new language to conform with the language used in § 12.02-9(c) to specify that the applicant should submit their dates of service, capacity in which the applicant served, and on what waters. This is meant as more of a clarification, than a substantive change.
|  | (d) Although a mariner could now potentially conduct the entire application process through the mail, this list of items was retained for clarity. The information listed here regarding what documents may be submitted by mail was taken from existing text regarding renewals. Its inclusion in the original application section as well as the renewal section was done to add uniformity and clarity.
§ 10.211 | (b) TSA will share with the Coast Guard fingerprints submitted by the applicant in the TWIC process TABLE: Taken directly from Table 10.201(h) and 12.02-4(c) except that crimes against national security have been removed entirely. | (b) This supports the change in § 10.209(d) for the same reasons discussed above. TABLE: The crimes against national security would be removed in their entirety because TSA will screen against these crimes when determining eligibility for the TWIC. If an applicant has any of these crimes listed on their record they would be denied a TWIC and a valid TWIC would be a requirement for an MMC. The Coast Guard would not duplicate this review.
§ 10.213 National Driver Register | Removed information regarding how to request an NDR file check for personal use | In the current regulations, § § 10.201(i)(3)(i) and (ii) and 12.02-4(d)(4) advise that an applicant can request an NDR file check for personal use and how they can do so. Although an applicant would still be permitted to request an NDR file check, because the NDR and the Coast Guard are no longer part of the same department (DOT) as we were when these regulations were originally drafted, and the NDR may change their procedures at any time, regulations containing such definite terms such as the working hours of the NDR are inappropriate for Coast Guard regulations.
§ 10.215 Medical and Physical Requirements | The medical requirements for all endorsements were combined into one section, and a reference table was added for clarity (a) Came from § § 12.02-27(d), 10.205(d)(1) and 10.202(a). Any required exam must have been performed by a licensed medical doctor (including a Doctor of Osteopathy), or licensed physician assistant. Physicals for Great Lakes Pilots must be conducted by a licensed medical doctor in accordance with 46 CFR 402. Added licensed nurse practitioners to the list of individuals who may perform exams. (i) Came from § § 10.709(b), 10.7107(d)(3) and 10.402.210. (ii) Came from 46 CFR 402.210. (b)(1) Came from § 10.205(d)(2). The statement regarding the loss of vision in one eye was derived from §§ 10.205(d)(4), 10.209(d)(3) and 10.207(e)(3). The 6 month limitation was derived from a medical directive. The waiver for compensation of abilities is also required by STCW B-I/9.7. (2) Came from § 10.205(d)(3). (3) Came from § 10.202(f). (c) Came from §§ 10-209(d), 12.05-5, 12-02-27(d) and 12.15-5 and new language was inserted setting particular hearing thresholds to meet. (d) Came from § § 10.205(d)(1), 10.202(d), 10.207(e), 10.209Id)(1) and (2), 12.02-27(d), 12.05-5, and 12.15-5. The food handler requirement came from § 12.25-20. (e) Came from § § 15.1107(a), 12.05-5, and 12.02-17(e). (f) Came from § § 10.202(a) and 12.02-27(d). (g) Came from § § 10.205(d)(4), 10.207(e)(3), 12.05-5(3) and 12.15-5(3). Changes within Table and corresponding paragraphs (b) through (g): *The table was added, but contains no new substantive requirements than those that exist elsewhere in the section. *The table differentiates between vision test, hearing test, general medical exam and physical exam. *Staff officers are required to obtain a physical exam. | (a) Those who may perform exams differ for officers and ratings in the Coast Guard's current regulations. Section 12.15-5(a) now says that QMEDs can have their eyes, hearing, and physical condition checked by a medical officer of the United States Public Health service or any other reputable physician. The same is said for able seaman for their physical requirements in § 12.05-5(a). But all mariners seeking MMDs have to have their medical fitness evaluated by a “qualified medical practitioner”. Similarly all applicants for Licenses are required to have a physical exam conducted by a “licensed physician or licensed physician assistant” in § 10.205(d). Due to the contradictory terms used, and that it is common practice for individuals to seek these services from licensed medical doctors (including Doctors of Osteopathy), licensed physician assistants, and licensed nurse practitioners, this language was chosen. We propose to add licensed nurse practitioners to the list of individuals allowed to conduct exams because RECs have been accepting exams conducted by these individuals as a matter of policy. The criterion for assessing medical and physical competence are published by the Coast Guard in a Navigation and Vessel Inspection Circular available on the Coast Guard Homeport Internet website. (c) Hearing exams are already required in the current regulations, but no particular standards are provided. Since specific standards are provided for visual acuity and color sense, and specific standards for hearing are contained in a Coast Guard policy document, it was determined that these particular hearing requirements should be codified so that clear standards would be set. TABLE: *The elements contained in the table all exist within the regulatory text. The table would be added to provide the public with a simple, quick reference to determine those elements that apply to each particular endorsement sought. *Although both medical exams (currently referred to as medical fitness) and demonstrations of physical ability are both technically required under the current regulations, this is not clearly expressed. The demonstration of physical ability requirement is contained in the STCW Code which is incorporated by reference instead of restated in the regulations. In the interest of clarity the Coast Guard proposes to add a chart and the specific language of the STCW requirement for physical ability. *The proposed requirement for staff officers to receive a physical exam is based upon the incorporation by reference of STCW for § 10.205. The § 10.205(d) exception for staff officers in the current regulations refers to the general medical, vision, and hearing exams. The current § 12.02-17 makes this requirement applicable for staff officers (staff officers must hold an MMD).
§ 10.217 MMC Application and Examination Locations | (b) Created the ability for the Coast Guard to designate other facilities, in addition to RECs, to provide MMC services to applicants | In the interest of providing better customer service, the Coast Guard has been investigating the feasibility of offering additional locations for credentialing services. Some of the options considered have been establishing collection/issuance services at other Coast Guard facilities, or purchasing mobile live scan and any other technology necessary to allow for Coast Guard representatives to visit more remote locations or otherwise travel. This concept is expected to grow with the reduced reliance on RECs through the removal of the appearance requirement proposed by this rule. This concept is, however, still in development and only the legal authority is created here in this regulation. At this time, only the RECs will offer credentialing services.
§ 10.219 Fees. | Minor edits made to table (e)(2) One examination fee will be charged for each exam or series of exams for an original, raise in grade, or renewal of an endorsement on an MMC taken within one year from the date of the application approval. An examination fee will also be charged to process an open book exercise used to renew an MMC. (e)(3) Only one issuance fee will be charged for each MMC application. (g) A $5,000 civil penalty will be imposed against anyone who fails to pay a fee or charge established under this subpart. | Minor edits are proposed for the tables in §§ 12.08-18 and 10.109. The fee structure was essentially retained, with the only changes being the renaming of the various endorsements that may be obtained vice references to MMD, License, COR, or STCW Endorsement. The overall user fees would remain the same except for the reduction in issuance fees that would occur since under the current regulations, a $45 issuance fee is charged for each of the three credentials issued (no fee is charged for the STCW Endorsement), and the proposed regulations will only charge the $45 issuance fee once as there is only one credential that would be issued. (e)(2) These two sentences were added for clarification. Currently there is an inconsistency in how the RECs charge examination fees. This clarification is intended to create uniformity, and uses the interpretation that has always been applied by the National Maritime Center. One fee covers a series of exams. (e)(3) Now that there would only be one credential issued instead of 4 ((1) the MMD; (2) the License; (3) the COR; and (4) the STCW Certificate), there would no longer need to be an issuance fee for multiple credentials. The issuance fee would only be charged each time that a new MMC is issued. That means that it would be charged upon the issuance of the original MMC, whenever a new MMC must be issued with new endorsements, and any other time that a new MMC must be printed unless an exemption appears elsewhere in the regulations. (g) This $5,000 civil penalty already exists for officers under the current § 10.111, however, there is no corresponding penalty for ratings in the fee structure under part 12. Since the statute setting forth the penalty in 46 U.S.C. 2110(e) does not limit the penalty to officers, and now that ratings and officers would be all covered on the same credential, for uniformity of application, and to underscore the importance of paying the fee for the credential the civil penalty would now apply to all mariners.
§ 10.221 Applications submitted by aliens | With the exception of OUPVs, only U.S. citizens may receive officer endorsements, and only legal resident aliens may receive MMCs | The Coast Guard will no longer be in the business of collecting proofs of nationality and alien status. All of this information will be collected by TSA and shared electronically with the Coast Guard. By statute (46 U.S.C. 7102) only U.S. citizens may qualify for officer endorsements (Licenses or Certificates of Registry). The requirement that aliens must have legal resident status is also not a new change to the regulations. The citizenship exemption for OUPVs, as well, is a carry over from the current regulations.
§ 10.223 Modification or Removal of Limitations | Taken from § 10.215, expanded from limitations on licenses to all endorsements | Substance transferred from the current § 10.215. References to limitations on a license were expanded to “endorsements” to include officer endorsements as well as STCW Endorsements.
§ 10.225 Issuance of Merchant Mariner Credentials | (b) The oath requirements for officers and ratings would be combined and they could be taken before a notary public, rather than in front of an REC employee (d) An exception for lost or stolen credentials was added to the requirement to return the previously issued credential when a new one is issued | (b) The elements of the oath requirements currently set out in parts 10 and 12 would be combined to create a single oath to be taken by all mariners. This combined oath meets the requirements of 46 U.S.C. 7105 and 46 U.S.C. 7305. The oath may now be taken before a notary public, not by an REC employee. The applicant would be able to be sworn in by any notary public and have his or her written, verified oath mailed to the REC. This change would meet the requirements stated in the U.S.C., as well as create conformity in the RECs. Prior to this rulemaking, some RECs required applicants to take the oath at RECs and others allowed the oath to be taken before a notary public. In addition, removal of the appearance requirement for the oath removes the need for an applicant to make another appearance at the RECs to receive their MMC after their application is approved. As long as the mariner's identity and citizenship can be established from either information submitted by TSA or information submitted by the applicant by a visit to the REC at the time of application, an additional visit to an REC at the time of MMC issuance is unnecessary. The MMC is a qualification document; it would not serve as an identification credential. TSA will fully vet TWIC applicants to verify identity and national security risk. An MMC would not be valid without a valid TWIC. The mariner's fingerprints, photograph, and citizenship/alien documents would be provided to the Coast Guard by TSA. Under the current regulations, as long as an individual has already taken the oath, they are not required to return to an REC to receive their credential. Credentials for renewals, raises in grade, and duplicates are currently issued to the mariner through the mail. (d) Change made for clarity and to remove impossible requirement.
§ 10.227 Requirements for Renewal | (a) Applicants for renewal must meet the requirements of this section in addition to the requirements in § 10.209 (c) Approved applications are valid for 12 months from the date of approval. (h) The reference to § 10.202 and (l)(m)(n)and (o) of § 10.205 was removed and replaced with a reference to § 11.202. (i) Mariners seeking to renew their credentials for continuity purposes only will now receive a Certificate of Continuity in lieu of a notation for inactive renewal. | (a) Because § 10.209 includes application requirements for renewal, duplicate, and raises in grade as well as originals, those requirements contained in 10.209 need not be restated here. (c) Added for clarity. The current regulations state that approved applications are valid for 12 months, but does not state when that 12 month period begins. (h) The reference to § 11.202 was made to update the citation to reflect the change to part 11 and the consolidation of the STCW portions of the pre-existing § § 10.202 and 10.205 into § 11.202. Only the reference would be changed, the actual requirement would remain the same. (i) It is recognized that some mariners maintain their credentials and/or qualifications for continuity purposes only. This was permitted under the previous regulatory scheme for both Licenses and MMDs under 46 CFR 10.209(g) and 12.02-27(g) respectively. The new requirement in 46 U.S.C. 70105 states that all mariners issued a License, Certificate of Registry, or Merchant Mariner's Document under 46 U.S.C. Subitle II part E must be issued a valid TWIC if they pass the mandatory security screening. This regulation proposes to retain the existing option for mariners to renew for continuity purposes only. As proposed in this regulation, mariners who renew their credentials for continuity only would obtain a certificate of continuity. A certificate of continuity would serve as a receipt acknowledging that the mariner has performed some of the application requirements, and would not allow the holder to serve in a credentialed capacity. This certificate is not a License, Certificate of Registry, or Merchant Mariner' Document for purposes of part E of subtitle II of 46 USC, and would not grant its holder the right to serve as a mariner holding one of those credentials. As such, mariners who maintain their qualifications solely for purposes of continuity, will not be subject to 46 U.S.C. 70105, and not be required to obtain a TWIC. Mariners holding a certificate of continuity who wish to renew their credentials must obtain a valid TWIC in addition to satisfying the basic renewal requirements applicable to all mariners.
§ 10.229 Issuance of Duplicate Merchant Mariner Credentials | (a) Proposes to add a requirement that the Coast Guard confirm that the mariner holds a valid TWIC before issuing a duplicate credential (b): Instead of setting forth specific language that must appear on a duplicate MMC, the regulation sets out information about the replaced credential that must appear on the duplicate. After the effective date of this rule, all duplicate credentials issued will be in the form of MMCs. It establishes how the RECs are to determine expiration date if the mariner seeks duplicates of more than one credential within the 5 year transition period. (f) Criminal record reviews are required for all applicants seeking duplicate credentials. | (a) Since the proposed DHS TWIC rule and 46 U.S.C. § 70105 require that all credentialed mariners must hold a valid TWIC, the Coast Guard proposes to make the validity of the MMC dependent upon whether the holder also holds a valid TWIC. With this new language, no MMC would be valid without a valid TWIC. Therefore, the Coast Guard would confirm that the applicant holds a valid TWIC before issuing an MMC. (b): The current regulations state that the duplicate will state “This Merchant Mariner Document (or License, etc.) replaces Merchant Mariner Document Number—issued at—on the above date.” Since the Coast Guard would no longer be issuing MMDs or Licenses, specific language that would appear on the credential is unnecessary so long as the credential references the serial number, type, place of issue, and date of issue of the replaced credential(s). On the effective date of this rule, mariners will be holding valid MMDs, Licenses, CORs, and STCW Endorsements for up to five years. The Coast Guard will phase in the new MMC over that five-year period. The Coast Guard will no longer be issuing those other credentials after the effective date of this rule, the duplicate credential issued will be in the form of an MMC. In the five years following the effective date of this rule, mariners will continue to hold their multiple credentials until their date of expiration. These credentials may not have matching expiration periods. If, before a mariner receives his or her first MMC, he or she requests a duplicate of more than one MMD, License, COR or STCW Certificate, unless the mariner renews all credentials, the duplicate MMC will reflect the earliest expiration date of the credentials combined on the MMC. This will prevent mariners from obtaining an extension of their expiration dates through the application for duplicates. (f) In the current regulations, criminal record reviews are required for duplicate Licenses, but not MMDs. A resolution of this difference in requirements is necessary to consolidate the credentials. We propose to conduct criminal record reviews prior to the issuance of any duplicate credential, to protect the integrity of the mariner credentialing process. It has been deemed important for the Coast Guard to be able to re-review the criminal record of individuals who seek duplicate credentials to identify those who may be seeking additional credentials for an improper use.
§ 10.231 Requirements for raises of grade for officer endorsements | (c)(2) Included “or other Coast Guard-designated facility” to the requirement that the application be submitted to the REC This section contains only those application requirements that are required in addition to those in § 10.209 for raises of grade. | This is to allow for the Coast Guard to enroll mariners at locations other than RECs should this alternate option be exercised by the Coast Guard in the future. The requirements that would be removed from this section are still required for all applicants, including raises in grade. The way that this part has been written, however, sets forth the application requirements for all applicants (original, renewal, duplicate, and raise in grade) in § 10.209 and this section contains only those ADDITIONAL requirements for raises in grade. Applicants for raises in grade must also satisfy the requirements of § 10.209. To repeat these requirements here would have been duplicative.
§ 10.233 Obligations of the Holder of a Merchant Mariner Credential | (b) Lost credentials may be reported to any Coast Guard office, not necessarily to an Officer in Charge, Marine Inspection (OCMI) (c) Invalid credentials must be returned to the Coast Guard upon request. | (b) This change is proposed for the convenience of the mariner to allow them to report the loss at a larger number of locations. (c) To support suspension-and-revocation actions, when a credential is invalid the mariner must return it to the Coast Guard upon request.
§ 10.235 Suspension or Revocation of Merchant Mariner Credentials | (b) The requirements in this paragraph are essentially the same as the current regulatory text except that the following was added: “When an officer endorsement is revoked, the Coast Guard will issue an MMC containing any rating endorsement for which the holder is qualified.” (g) Added: “If the Coast Guard is advised by the Transportation Security Administration that a mariner's TWIC has been revoked, the mariner's credential will immediately become invalid. If a credential is invalidated in this manner, the Coast Guard will notify the applicant in writing of the invalidation, the reason for the invalidation, and their right of appeal.” | (b) This sentence was proposed to account for the fact that a mariner could hold one document that contains both officer and rating endorsements, and a mariner could have their officer endorsement revoked for reasons that would not result in the revocation of a rating endorsement. To protect against an inadvertent revocation of all endorsements for acts that would otherwise only result in the revocation of an officer endorsement, a provision was proposed that the Coast Guard will issue an MMC containing those rating endorsements for which the holder remains qualified. (g) An MMC would be invalid unless the mariner also holds a valid TWIC. In its proposed TWIC rule, TSA establishes a TWIC appeals process. All appeals regarding the revocation of a TWIC would be handled by TSA under that appeals process. After the completion of their appeals process, TSA would notify the Coast Guard that a mariner's TWIC has been revoked. No action would be taken against a mariner's MMC by the Coast Guard until the TSA appeals process has been completed. Mariners would already have been through an appeals process for the reason the TWIC was revoked, so those issues would not be considered by the Coast Guard. The issuance of the TWIC is purely a TSA function. If there is some other basis on which the mariner seeks appeal of the resultant revocation of their MMC, they could exercise their right of appeal pursuant to subpart 1.03 of title 46.
THE FOLLOWING WOULD OCCUR IN § 12.03-1 TO END, § 10.301 TO END, OR PART 15
§§ 10.464(g), 10.465(f), 10.476, 10.603(b), 10.805(b), 12.02-3(a), 12.02-5(a) and (b), 12.02-11, 12.05-7(c) and (d), 15.610(b) and (c) | (Section references do not reflect the movement of part 10 to part 11.) Deleted | These sections would be removed in their entirety because they have been overcome by time or previous changes in regulation and either no longer need to be retained or contain references to documents no longer issued by the Coast Guard.
§ 12.05-3 | (a) (2) Added a reference to both physical and medical examinations | Change made to conform to the changes proposed in the new § 10.215.

IV. Regulatory Evaluation

A. Executive Order 12866 (Regulatory Planning and Review)

Executive Order 12866, “Regulatory Planning and Review”, 58 FR 51735, October 4, 1993, requires a determination whether a regulatory action is “significant” and therefore subject to review by the Office of Management and Budget (OMB) and subject to the requirements of the Executive Order. This proposed rule is not significant under Executive Order 12866 and has not been reviewed by OMB.

This proposed rule makes substantive changes to the requirements in 46 CFR parts 10, 12, 13, 14, and 15 for the form on which the mariner's qualifications appear and the credential that would serve as the mariner's primary identification credential, and makes many non-substantive nomenclature changes throughout Titles 33 and 46 of the Code of Federal Regulations. Title 46 lays out the standards for merchant mariners, including eligibility and training requirements to obtain credentials needed to serve in one of the many roles in the merchant marine; this rulemaking would not change these qualification requirements. This rulemaking would combine the elements of the Merchant Mariner's License (License), Merchant Mariner's Document (MMD), Standards of Training, Certification and Watchkeeping (STCW) Endorsement, and Certificate of Registry (COR) into one document, called the Merchant Mariner Credential (MMC). The MMC would serve as the mariner's qualification document. Simultaneous with this Notice of Proposed Rulemaking, a joint Notice of Proposed Rulemaking was published by the Coast Guard and the Transportation Security Administration entitled “Transportation Worker Identification Credential (TWIC) Implementation in the Maritime Sector; Hazardous Materials Endorsement for a Commercial Driver's License” (the “TWIC rule”). The TWIC rule implements requirements required by the Maritime Transportation Security Act of 2002 (MTSA) and would require all merchant mariners holding an active License, MMD, COR or STCW Endorsement to hold a TWIC. The TWIC is a biometric identification card.

With this consolidation, the TWIC would replace the MMD as the mariner's identity document, and the MMD, License, COR, and STCW Endorsement would consolidate into the MMC, which would serve as the mariner's qualification document. All current qualification and suitability requirements associated with Licenses, MMDs, STCW Endorsements, and CORs would remain the same with only minor exceptions.

All four credentials (MMD, License, COR, and STCW Endorsement) are currently issued at one of 17 Regional Examination Centers (RECs). For first time applicants, the process of obtaining an MMD, License, COR, or STCW Endorsement requires at least two visits to an REC. During the first visit, an applicant must be fingerprinted by and establish his or her identity and legal presence in the U.S. to an REC employee.

At the successful completion of a safety-and-security review, verification of an applicant's identity, and verification that the applicant has satisfied all other requirements for the particular credential sought, an REC will issue the credential to the applicant. All first time applicants must then return to the REC a second time to receive their credential and take an oath to faithfully perform all duties required of them by law.

Individuals renewing credentials do not need to restate the oath and may receive their renewed credentials by mail. However, applicants seeking to renew their credentials must travel to an REC once to be fingerprinted by, and show proof of identification to an REC employee.

The proposed requirements to receive a TWIC are similar to the requirements to receive an MMD. In order for an applicant to receive a TWIC, the applicant would be required to travel to a designated TWIC enrollment center to submit fingerprints, proofs of identity, citizenship and alien status (if applicable). A background check would then be conducted to determine that the applicant is not a security risk. Once the applicant has been approved they must return to the TWIC-enrollment center to pick up the TWIC and prove their identity by a one to one match of their fingerprint against the electronic fingerprint stored on the card. If, during this process the applicant notifies the TWIC center of their intent to apply for an MMC. Then TSA will submit to the Coast Guard the applicant's fingerprints, photograph, proof of citizenship, proof of alien status (if applicable), and FBI number and criminal record (if applicable). This information will also be made available to the Coast Guard should the applicant decide to become a merchant mariner after the TWIC process has been completed.

Since the applicant's information and identity will have been verified by TSA, this proposed rulemaking would no longer require the merchant mariner to travel to an REC to submit identity information. In addition to allowing the merchant mariner to mail in their application, they may also mail in their notarized oath, which would be a nominal cost to the applicant. This would remove the requirement for a second trip to the REC center to pick up their card and take the oath. This rulemaking proposes to create the possibility for a mariner to receive his or her MMC entirely through the mail. Written examinations would still occur at RECs, and the RECs would remain accessible to mariners should they choose to seek their services in person.

The following sections discuss the baseline population of applicants that will be affected by this rulemaking and provides an assessment of the impacts to merchant mariners by this proposed rulemaking.

Baseline Population

The Coast Guard data for the number of affected merchant mariners came from the National Maritime Center (NMC), which provides credentialing, training, and certification services to all merchant mariners. There are approximately 205,000 credentialed merchant mariners. In addition to the current population of merchant mariners there are a number of new applicants every year.

Assessment

Under the current rule, applicants pay a $45 issuance fee for each credential that they apply for. Under the proposed rulemaking the applicants would only apply for an MMC and as a result would only be required to pay one $45 issuance fee regardless of the number of endorsements that they carry. This change represents not a reduction in any fee that a mariner must pay, but a reduction in the number of fees that the mariner must pay. Any mariner that would, under the current rules, solicit multiple mariner qualifying documents, would benefit from this change in the fee structure.

If the merchant mariner has not synchronized the expiration dates of his or her current credentials then they may currently be traveling to an REC multiple times. The issuance of the MMC would require mariners to track and update only one document and would potentially eliminate the need to travel to an REC. This would provide greater flexibility to the mariner. Currently, approximately 13,843 mariners have more than one credential and have not aligned their expiration dates. These mariners would not only receive a benefit from reduced application fees but also from fewer, if any, trips to an REC.

In order to reduce the burden of traveling and having to apply for a new MMC before the mariner's current credentials expire, this proposed rulemaking would allow mariners to apply for an MMC at the time that their current credentials expire, which would essentially phase in the MMC over a five-year period. Since all currently issued credentials are valid for five-year periods, all mariners would have to renew their credentials by the close of the five-year grace period. When a mariner applies to renew his or her MMD, License, COR, or STCW Endorsement, they would instead be issued an MMC, which would reflect all of their qualifications in the form of endorsements on the MMC. This would allow mariners to apply over a longer period of time and would not create an additional burden by requiring mariners to make an extra trip to the RECs. Mariners whose credentials do not expire simultaneously may choose to wait to renew the credentials that have yet to expire, but if the applicant later chooses to renew that credential, the expiration date of the MMC on which the endorsement would be added would not change unless the mariner also renews all other endorsements on the MMC.

Currently, mariners may only renew their credentials within 12 months of their expiration date. This proposed rulemaking would allow mariners to apply for renewal anytime before their current credentials expire, and up to one year after the expiration date. As a result, this rulemaking would provide greater flexibility to mariners by allowing them to apply for an MMC at the time they choose.

In the Licensing rule, published on January 13, 2006 (71 FR 2154), it was estimated that approximately 60 percent of current mariners live within one-day roundtrip travel to an REC, 30 percent live within overnight roundtrip travel (one night and two days) to an REC, and 10 percent live at a distance greater than overnight roundtrip travel (greater than one night and two days) to an REC. This was derived from national percentages for all mariners who have addresses on file with the NMC. In the TWIC rule, TSA and the Coast Guard foresee that there would be more TWIC centers than Coast Guard RECs. By allowing mariners to visit TWIC enrollment centers instead of RECs, this proposed rule would provide a potential benefit to mariners by reducing their current travel costs and time currently required to receive a credential.

In the Licensing rule, the cost for mariners to travel to and from one of 17 RECs was estimated. The travel cost to mariners for a one-day roundtrip travel to and from an REC is $387. The estimated cost to mariners for overnight roundtrip travel is $911. Applicants who live distances greater than 200 miles and must travel for more than one night would incur the maximum cost of $1,185.

The proposed TWIC rule will have the effect of transferring the cost of travel from an REC to the cost of travel to a TWIC enrollment center, but that cost is associated with the TWIC rule, not with this rule. The overall cost for mariners associated with this rulemaking would decrease or remain the same and would serve to provide more flexibility to mariners since there would be more TWIC enrollment centers than RECs, so the distance required and the amount of time spent traveling would be reduced. Based on the percentages above, 60 percent of the mariners that live within one-day roundtrip travel would potentially receive the economic benefits of having a TWIC enrollment center located closer to them than one of the current RECs. The remaining 30 percent of mariners that live within an overnight round-trip travel and the 10 percent of mariners that live a distance greater than an overnight roundtrip travel have an increased likelihood of having a TWIC enrollment center located closer to them than one of the current RECs and would potentially receive an even greater benefit in travel cost savings from this proposed rule.

B. Regulatory Flexibility Act

Under the Regulatory Flexibility Act (5 U.S.C. 601-612), we have considered whether this proposed rule would have a significant economic impact on a substantial number of small entities. The term “small entities” comprises small businesses, not-for-profit organizations that are independently owned and operated and are not dominant in their fields, and governmental jurisdictions with populations of less than 50,000.

We do not expect this proposed rule to have a significant impact on a large number of small entities. This rulemaking consolidates the number of credentials merchant mariners must carry and streamlines the application process in a way that would help prevent abuse, reduce cost and assist the Coast Guard in its effort to help secure U.S. marine infrastructure, commercial activities, and the free flow of trade.

The Coast Guard certifies under 5 U.S.C. 605(b) that this proposed rule will not have a significant economic impact on a substantial number of U.S. small entities. If you think that your business, organization, or governmental jurisdiction qualifies as a small entity and that this rulemaking will have a significant economic impact on it, please submit a comment to the Docket Management Facility at the address under ADDRESSES. In your comment, explain why you think your business qualifies and how and to what degree this rulemaking would economically affect it.

C. Assistance for Small Entities

Under section 213(a) of the Small Business Regulatory Enforcement Fairness Act of 1996 (Pub. L. 104-121), we offer to assist small entities in understanding the proposed rule so that they could better evaluate its effects on them and participate in the rulemaking. If this proposed rule would affect your small business, organization, or governmental jurisdiction and you have questions concerning its provisions or options for compliance, please contact the individuals listed in above in the section titled FOR FURTHER INFORMATION CONTACT.

Small businesses may send comments on the actions of Federal employees who enforce, or otherwise determine compliance with Federal regulations to the Small Business and Agriculture Regulatory Enforcement Ombudsman and the Regional Small Business Regulatory Fairness Boards. The Ombudsman evaluates these actions annually and rates each agency's responsiveness to small business. If you wish to comment on actions by employees of the Coast Guard, call 1-888-REG-FAIR (1-888-734-3247).

D. Collection of Information

This proposed rule would call for a collection of information under the Paperwork Reduction Act of 1995, Title 44, United States Code (44 U.S.C.) sections 3501-3520. This rulemaking would require modifying the burden in the collection currently approved by the Office of Management and Budget (OMB) under OMB Control Number 1625-0040.

This proposed rulemaking changes certain requirements in Title 46, Code of Federal Regulations (46 CFR) parts 10, 12, 13, 14, and 15 for the form on which the mariner's qualifications appear and the credential that would serve as the mariner's primary identification credential.

This proposed rulemaking would consolidate the following four credentials: The Merchant Mariner's Document (MMD), the Merchant Mariner's License (License), the Certificate of Registry (COR), and the Standards of Training, Certification and Watchkeeping (STCW) Endorsement, into a single document termed the Merchant Mariner Credential (MMC). This MMC would contain endorsements on it setting forth those positions for which the mariner is qualified as well as biographic information about the mariner.

This rulemaking would also allow the merchant mariner to mail in their application as well as their notarized oath, and receive their MMC in the mail. Mariners would no longer be required to travel to an REC to apply for and receive any credentials. See the Assessment discussion in the “Regulatory Evaluation” section for more information about the potential impacts to merchant mariners from this rulemaking.

This rulemaking would require an MMC application form, similar to the application forms for Licenses and STCWs. The Coast Guard is in the process of developing this form and will revise the collection prior to issuance.

As defined in 5 CFR 1320.3(c), “collection of information” comprises reporting, recordkeeping, monitoring, posting, labeling, and similar actions. The title and description of the collection of information, a description of those who must collect the information, and an estimate of the proposed changes to annual burden follow.

Title: Continuous Discharge Book, Merchant Mariner Application, Physical Examination Report, Sea Service Report, Chemical Testing, and Entry Level Physical Report.

OMB Control Number: 1625-0040.

Agency Form Numbers: CG-719A, CG-719B, CG-719K, CG-719S, CG-719P, and CG-719K/E.

Summary of the Currently Approved Collection of Information: In accordance with 46 U.S.C. and 46 CFR, this collection of information is necessary to determine competency, character, and physical qualifications for the issuance of Coast Guard licenses, CORs, and merchant mariner documents.

Summary of the Modification to the Currently Approved Collection of Information: This proposed rulemaking would reduce the collection of information requirements in 46 CFR parts 10, 12, 13, 14, and 15 for License, MMD, STCW Endorsement, and COR applicants. These new provisions would no longer require applicants to spend time traveling to and from an REC, nor to spend time waiting at an REC.

Need for Information: The Coast Guard will be receiving the information required to process applications and verify the applicant's identity from TSA. It was determined that to require applicants to travel to an REC to submit this information again would be duplicative and burdensome for those applicants.

Description of Respondents: The current OMB-approved collection requires certain applicants for original and subsequent issue credentials to have their fingerprints taken and their IDs checked at an REC. However, this proposed rulemaking removes this travel requirement. Instead those applicants will be able to mail in their application and receive their MMC through the mail.

Number of Respondents: The current OMB-approved number of respondents is 200,000. This number would be increased to 205,000 based on the most recent application data available from the National Maritime Center. This increase is not a result of the proposed rule. It is a change to reflect recent growth in the merchant mariner industry.

Frequency of Response: The current OMB-approved number of responses is 73,294 each year. This proposed rulemaking would decrease the annual number by 23,294, to 50,000.

Burden of Response Time from Revision of Collection: The burden of response time from this rule on certain applicants for MMCs will be reduced to include only the time spent filling out and mailing the application. Previously, the burden of response included the travel time to and from an REC and the time spent at an REC in order to have their fingerprints taken and IDs checked. The time for one day of travel was estimated to be eight hours and the time spent at an REC center was estimated at two hours. All of the time that applicants currently spend traveling to and from and waiting at an REC would be removed with this proposed rulemaking.

Estimate of Total Annual Burden Hours: OMB recently approved an emergency temporary extension of the collection of information for the Licensing rulemaking, which increased the annual burden hours to 329,356. This proposed rulemaking would reduce that number by 307,481 annual hours. This is due to the removal of the travel requirements and the REC waiting and processing time. The total number of annual hours would be reduced to 21,875.

Estimate of Total Annual Burden Cost: Recent revisions from the Licensing rule changed the total annual operations & maintenance (O&M) burden cost reported in the current OMB-approved collection to approximately $16 million. Since this rule would no longer require certain applicants to travel to and from an REC and to wait at an REC while processing fingerprints and IDs, there would be a reduction in the associated reporting cost burden. This proposed rulemaking will decrease the annual cost burden by approximately $16 million. There would not be a total annual O&M burden cost reported for the revised OMB-approved collection.

We request public comment on the collection of information to help us determine how useful the information is; whether it can help us perform our functions better; whether it is readily available elsewhere; how accurate our estimate of the burden of collection is; how valid our methods for determining burden are; how we can improve the quality, usefulness, and clarity of the information; and how we can minimize the collection burden.

If you submit comments on the collection of information, submit them to both OMB and the Docket Management Facility where indicated under ADDRESSES, by the date under DATES.

You need not respond to a collection of information unless it displays a currently valid control number from OMB. Before the requirements for this collection of information become effective, we will publish notice in the Federal Register of OMB's decision to approve, modify, or disapprove the collection.

E. Executive Order 13132 (Federalism)

This rule will not have substantial direct effects on the States, on the relationship between the National Government and the States, or on the distribution of power and responsibilities among the various levels of government. Therefore, in accordance with section 6 of Executive Order 13132, the Coast Guard certifies that this proposed rule does not have sufficient federalism implications to warrant the preparation of a federalism summary impact statement.

The law is well settled that States may not regulate in categories expressly reserved for regulation by the Coast Guard. The law also is well settled that all of the categories covered in 46 U.S.C. 3306, 3703, 7101, and 8101 (design, construction, alteration, repair, maintenance, operation, equipping, personnel qualification, and manning of vessels), as well as the reporting of casualties and any other category in which Congress intended the Coast Guard to be the sole source of a vessel's obligations, are within the field foreclosed from regulation by the States. See United States v. Locke and Intertanko v. Locke, 529 U.S. 89, 120 S. Ct. 1135 (March 6, 2000). Since this proposed rule involves the credentialing of merchant mariners, it relates to personnel qualifications and is foreclosed from regulation by the States. Because the States may not regulate within this category, this rule does not present new preemption issues under Executive Order 13132.

F. Unfunded Mandates Reform Act

The Unfunded Mandates Reform Act of 1995 (2 U.S.C. 1531-1538) requires Federal agencies to assess the effects of their discretionary regulatory actions. In particular, the Act addresses actions that may result in the expenditure by a State, local, or tribal government, in the aggregate, or by the private sector of $100,000,000 or more in any one year. The Coast Guard does not expect this rule to result in such an expenditure.

G. Executive Order 12630 (Taking of Private Property)

This proposed rule will not effect a taking of private property or otherwise have taking implications under Executive Order 12630, Governmental Actions and Interference with Constitutionally Protected Property Rights.

H. Executive Order 12988 (Civil Justice Reform)

This proposed rule meets applicable standards in sections 3(a) and 3(b)(2) of Executive Order 12988, Civil Justice Reform, to minimize litigation, eliminate ambiguity, and reduce burden.

I. Executive Order 13045 (Protection of Children)

We have analyzed this proposed rule under Executive Order 13045, Protection of Children from Environmental Health Risks and Safety Risks. This proposed rule is not an economically significant rule and does not create an environmental risk to health or safety that may disproportionately affect children.

J. Executive Order 13175 (Indian Tribal Governments)

This proposed rule does not have tribal implications under Executive Order 13175, Consultation and Coordination with Indian Tribal Governments because it does not have a substantial direct effect on one or more Indian tribes, on the relationship between the Federal Government and Indian tribes, or on the distribution of power and responsibilities between the Federal Government and Indian tribes.

K. Executive Order 13211 (Energy Effects)

The Coast Guard has analyzed this rule under Executive Order 13211, Actions Concerning Regulations That Significantly Affect Energy Supply, Distribution, or Use. We have determined that it is not a “significant energy action” under that Order. This rule would affect only the issuance of credentials to merchant mariners and therefore is not likely to have a significant adverse effect on the supply, distribution, or use of energy.

The Administrator of the Office of Information and Regulatory Affairs for the Office of Management and Budget has not designated this proposed rule as a significant energy action. Therefore, it does not require a Statement of Energy Effects under Executive Order 13211.

L. Technical Standards

The National Technology Transfer and Advancement Act (NTTAA) (15 U.S.C. 272 note) directs agencies to use voluntary consensus standards in their regulatory activities unless the agency provides Congress, through the Office of Management and Budget, with an explanation of why using these standards would be inconsistent with applicable law or otherwise impractical. Voluntary consensus standards are technical standards (e.g., specifications of materials, performance, design, or operation; test methods; sampling procedures; and related management systems practices) that are developed or adopted by voluntary consensus standards bodies.

This proposed rule does not use technical standards. Therefore, the Coast Guard did not consider the use of voluntary consensus standards.

M. National Environmental Policy Act

The Coast Guard has analyzed this proposed rule under Commandant Instruction M16475.1D, which guides the Coast Guard in complying with the National Environmental Policy Act of 1969 (NEPA) (42 U.S.C. 4321-4370f). We have concluded that there are no factors in this case that would limit the use of a categorical exclusion under section 2.B.2 of the Instruction. Therefore, we believe this rule should be categorically excluded from further environmental documentation under Figure 2-1, paragraph (34)(c) of the Instruction. This rule involves matters of procedure only; it consolidates the credentials issued to merchant mariners and revises the application process for issuing those credentials. An “Environmental Analysis Check List” and a “Categorical Exclusion Determination” are available in the docket where indicated under ADDRESSES.

List of Subjects

33 CFR Part 1

Administrative practice and procedure, Authority delegations (Government agencies), Freedom of information, Penalties.

33 CFR Part 20

Administrative practice and procedure, Hazardous substances, Oil pollution, Penalties, Water pollution control.

33 CFR Part 70

Navigation (water) and Penalties.

33 CFR Part 95

Alcohol abuse, Drug abuse, Marine safety, and Penalties.

33 CFR Part 101

Harbors, Maritime security, Reporting and recordkeeping requirements, Security measures, Vessels, Waterways.

33 CFR Part 110

Anchorage grounds.

33 CFR Part 125

Administrative practice and procedure, Harbors, Reporting and recordkeeping requirements, Security measures, Vessels.

33 CFR Part 141

Citizenship and naturalization, Continental shelf, Employment, Reporting and recordkeeping requirements.

33 CFR Part 155

Alaska, Hazardous substances, Oil pollution, Reporting and recordkeeping requirements.

33 CFR Part 156

Hazardous substances, Oil pollution, Reporting and recordkeeping requirements, Water pollution control.

33 CFR Part 160

Administrative practice and procedure, Harbors, Hazardous materials transportation, Marine safety, Navigation (water), Reporting and recordkeeping requirements, Vessels, Waterways.

33 CFR Part 162

Navigation (water) and Waterways.

33 CFR Part 163

Cargo vessels, Harbors, Navigation (water), Waterways.

33 CFR Part 164

Marine safety, Navigation (water), Reporting and recordkeeping requirements, Waterways.

33 CFR Part 165

Harbors, Marine safety, Navigation (water), Reporting and recordkeeping requirements, Security measures, Waterways.

46 CFR Part 1

Administrative practice and procedure, Organization and functions (Government agencies), Reporting and recordkeeping requirements.

46 CFR Part 4

Administrative practice and procedure, Drug testing, Investigations, Marine safety, Nuclear vessels, Radiation protection, Reporting and recordkeeping requirements, Safety, Transportation.

46 CFR Part 5

Administrative practice and procedure, Alcohol abuse, Drug abuse, Investigations, Seamen.

46 CFR Part 10

Penalties, Reporting and recordkeeping requirements, Seamen, Transportation Worker Identification Card.

46 CFR Part 11

Penalties, Reporting and recordkeeping requirements, Schools, Seamen.

46 CFR Part 12

Penalties, Reporting and recordkeeping requirements, Seamen.

46 CFR Part 13

Cargo vessels, Reporting and recordkeeping requirements, Seamen.

46 CFR Part 14

Oceanographic research vessels, Reporting and recordkeeping requirements, Seamen.

46 CFR Part 15

Reporting and recordkeeping requirements, Seamen, Vessels.

46 CFR Part 16

Drug testing, Marine safety, Reporting and recordkeeping requirements, Safety, Transportation.

46 CFR Part 26

Marine safety, Penalties, Reporting and recordkeeping requirements.

46 CFR Part 28

Alaska, Fire prevention, Fishing vessels, Marine safety, Occupational safety and health, Reporting and recordkeeping requirements, Seamen.

46 CFR Part 30

Cargo vessels, Foreign relations, Hazardous materials transportation, Penalties, Reporting and recordkeeping requirements, Seamen.

46 CFR Part 31

Cargo vessels, Marine safety, Reporting and recordkeeping requirements.

46 CFR Part 35

Cargo vessels, Marine safety, Navigation (water), Occupational safety and health, Reporting and recordkeeping requirements, Seamen.

46 CFR Part 42

Penalties, Reporting and recordkeeping requirements, Vessels.

46 CFR Part 58

Reporting and recordkeeping requirements, Vessels.

46 CFR Part 61

Reporting and recordkeeping requirements, Vessels.

46 CFR Part 78

Marine safety, Navigation (water), Passenger vessels, Penalties, Reporting and recordkeeping requirements.

46 CFR Part 97

Cargo vessels, Marine safety, Navigation (water), Reporting and recordkeeping requirements.

46 CFR Part 98

Cargo vessels, Hazardous materials transportation, Marine safety, Reporting and recordkeeping requirements, Water pollution control.

46 CFR Part 105

Cargo vessels, Fishing vessels, Hazardous materials transportation, Marine safety, Petroleum, Seamen.

46 CFR Part 114

Marine safety, Passenger vessels, Reporting and recordkeeping requirements.

46 CFR Part 115

Fire prevention, Marine safety, Passenger vessels, Reporting and recordkeeping requirements.

46 CFR Part 122

Marine safety, Passenger vessels, Penalties, Reporting and recordkeeping requirements.

46 CFR Part 125

Administrative practice and procedure, Cargo vessels, Hazardous materials transportation, Marine safety, Seamen.

46 CFR Part 131

Cargo vessels, Fire prevention, Marine safety, Navigation (water), Occupational safety and health, Reporting and recordkeeping requirements.

46 CFR Part 151

Cargo vessels, Hazardous materials transportation, Marine safety, Reporting and recordkeeping requirements, Water pollution control.

46 CFR Part 166

Schools, Seamen, Vessels.

46 CFR Part 169

Fire prevention, Marine safety, Reporting and recordkeeping requirements, Schools, Vessels.

46 CFR Part 175

Marine safety, Passenger vessels, Reporting and recordkeeping requirements.

46 CFR Part 176

Fire prevention, Marine safety, Passenger vessels, Reporting and recordkeeping requirements.

46 CFR Part 185

Marine safety, Passenger vessels, Reporting and recordkeeping requirements.

46 CFR Part 196

Marine safety, Oceanographic research vessels, Reporting and recordkeeping requirements.

46 CFR Part 199

Cargo vessels, Marine safety, Oil and gas exploration, Passenger vessels, Reporting and recordkeeping requirements.

46 CFR Part 401

Administrative practice and procedure, Great lakes, Navigation (water), Penalties, Reporting and recordkeeping requirements, Seamen.

46 CFR Part 402

Great Lakes, Navigation (water), Seamen.

The Amendments

For the reasons listed in the preamble, the Coast Guard proposes to amend 33 CFR parts 1, 20, 70, 95, 101, 110, 125, 141, 155, 156, 160, 162, 163, 164, and 165; 46 CFR parts 1, 4, 5, 10, 12, 13, 14, 15, 16, 26, 28, 30, 31, 35, 42, 58, 61, 78, 97, 98, 105, 114, 115, 122, 125, 131, 151, 166, 169, 175, 176, 185, 196, 199, 401 and 402; and in 46 CFR, add a new part 11 as follows:

33 CFR Chapter I

PART 1—GENERAL PROVISIONS

1. The authority citation for part 1 continues to read as follows:

Authority: 14 U.S.C. 633; 33 U.S.C. 401, 491, 525, 1321, 2716, and 2716a; 42 U.S.C. 9615; 49 U.S.C. 322; 49 CFR 1.45(b), 1.46; section 1.01-70 also issued under the authority of E.O. 12580, 3 CFR, 1987 Comp., p. 193; and sections 1.01-80 and 1.01-85 also issued under the authority of E.O. 12777, 3 CFR, 1991 Comp., p. 351.

§ 1.08-5 [Amended]

2. In § 1.08-5(b)(1), after the word “licensed”, add the words “or credentialed”.

§ 1.25-1 [Amended]

3. In § 1.25-1(a), remove the words “documents, certificates, or licenses” and add, in their place, the words “merchant mariner credentials, merchant mariner documents, licenses or certificates”.

PART 20—RULES OF PRACTICE, PROCEDURE, AND EVIDENCE FOR FORMAL ADMINISTRATIVE PROCEEDINGS OF THE COAST GUARD

4. The authority citation for part 20 continues to read as follows:

Authority: 33 U.S.C. 1321; 42 U.S.C. 9609; 46 U.S.C. 7701, 7702; 49 CFR 1.46.

5. In § 20.102—

a. In the definition for “Complaint”, after the word “merchant”, add the words “ mariner credential,”;

b. In the definition for “Suspension and revocation proceeding or S&R proceeding”, after the words “merchant mariner's”, add the word “credential,”; and

c. Add definitions for the terms “credential” and “Merchant Mariner Credential or MMC”, in alphabetical order, to read as follows:

§ 20.102 Definitions.

* * * * *

Credential means any or all of the following:

(1) Merchant mariner's document.

(2) License.

(3) STCW endorsement.

(4) Certificate of registry.

(5) Merchant mariner credential.

* * * * *

Merchant Mariner Credential or MMC means the qualification document for all merchant mariners issued by the Coast Guard under 46 CFR part 10. The individual Merchant Mariner Document, License, and Certificate of Registry enumerated in 46 U.S.C. Subtitle II, Part E will be issued in the form of a Merchant Mariner Credential (MMC). An MMC will combine the separate qualification documents previously issued under 46 U.S.C. Subtitle II, Part E and STCW endorsements into a single certificate which will be endorsed to reflect a mariner's level of qualification.

* * * * *

§ 20.904 [Amended]

6. In § 20.904—

a. In paragraph (e)(1) introductory text, after the words “certificate of registry” remove the word “or”; and, after the word “document”, add the words “, credential, or endorsement”;

b. In paragraph (e)(1)(i)(B), after the word “certificate” remove the word “or”; and, after the word “document”, add the words “, credential, or endorsement”;

c. In paragraph (f) introductory text, after the words “revocation of a”, add the words “credential, endorsement,”; and

d. In paragraph (f)(1), after the words “issuance of a new” remove the words “license, certificate, or document” and add, in their place the words “merchant mariner credential with appropriate endorsement”.

§ 20.1201 [Amended]

7. In § 20.1201—

a. In paragraph (a), remove the word “merchant mariner's license, certificate of registry, or document” and add, in their place, the words “mariner's credential”;

b. In paragraph (b) introductory text, before the words “license, certificate, or document” wherever they appear, add the words “merchant mariner credential,”; and

c. In paragraph (b)(2)(ii), after the words “renewal of the”, add the words “merchant mariner credential,”.

§ 20.1202 [Amended]

8. In § 20.1202(a), before the words “license, certificate of registry, or document”, add the word “credential,”.

§ 20.1205 [Amended]

9. In § 20.1205—

a. In the section heading, before the words “license, certificate of registry, or document”, add the words “merchant mariner credential,”;

b. In paragraph (a), after the words “move that his or her”, add the words “merchant mariner credential,”; and

c. In paragraph (b), after the words “return of the suspended”, add the word “credential,”.

§ 20.1307 [Amended]

10. In § 20.1307 paragraph (c)(2), after words “merchant mariner's license”, add the words “, merchant mariner credential,”.

PART 70—INTERFERENCE WITH OR DAMAGE TO AIDS TO NAVIGATION

11. The authority citation for part 70 continues to read as follows:

Authority: Secs. 14, 16, 30 Stat. 1152, 1153; secs. 84, 86, 92, 633, 642, 63 Stat. 500, 501, 503, 545, 547 (33 U.S.C. 408, 411, 412; 14 U.S.C. 84, 86, 92, 633, 642).

§ 70.05-10 [Amended]

12. In § 70.05-10—

a. In the section heading, after the words “Revocation of”, add the words “merchant mariner credential officer endorsement or”; and

b. In the text of the section, after the words “shall also have his”, add the words “merchant mariner credential officer endorsement or”.

PART 95—OPERATING A VESSEL WHILE UNDER THE INFLUENCE OF ALCOHOL OR A DANGEROUS DRUG

13. Revise the authority citation for part 95 to read as follows:

Authority: 33 U.S.C. 2071; 46 U.S.C. 2302; Department of Homeland Security Delegation No. 0170.1.

§ 95.015 [Amended]

14. In § 95.015(b), remove the words “a licensed individual” and add, in their place, the words “an officer”.

§ 95.045 [Amended]

15. In § 95.045 introductory text, remove the words “a licensed individual” and add, in their place, the words “an officer”.

PART 101—MARITIME SECURITY: GENERAL

16. The authority citation for part 101 continues to read as follows:

Authority: 33 U.S.C. 1226, 1231; 46 U.S.C. Chapter 701; 50 U.S.C. 191, 192; Executive Order 12656, 3 CFR 1988 Comp., p. 585; 33 CFR 1.057-1, 6.04-11, 6.14, 6.16, and 6.19; Department of Homeland Security Delegation No. 0170.1.

17. In § 101.105—

a. In the definitions for “Master” and “Operator, Uninspected Towing Vessel”, before the word “license” wherever it appears, add the words “merchant mariner credential or”; and

b. Add a definition for the term “Merchant Mariner Credential or MMC” to read as follows:

§ 101.105 Definitions.

* * * * *

Merchant Mariner Credential or MMC means the qualification document for all merchant mariners issued by the Coast Guard under 46 CFR part 10. The individual Merchant Mariner Document, License, and Certificate of Registry enumerated in 46 U.S.C. Subtitle II, Part E will be issued in the form of a Merchant Mariner Credential (MMC). An MMC will combine the separate qualification documents previously issued under 46 U.S.C. Subtitle II, Part E and STCW endorsements into a single certificate which will be endorsed to reflect a mariner's level of qualification.

* * * * *

PART 110—ANCHORAGE REGULATIONS

18. The authority citation for part 110 is revised to read as follows:

Authority: 33 U.S.C. 471, 1221 through 1236, 2030, 2035, 2071; 33 CFR 1.05-1(g); Department of Homeland Security Delegation No. 0170.1.

§ 110.186 [Amended]

19. In § 110.186(b)(3), after the words “English speaking licensed”, add the words “or credentialed”.

§ 110.188 [Amended]

20. In § 110.188(b)(10), after the word “licensed”, add the words “or credentialed”.

§ 110.214 [Amended]

21. In § 110.214(a)(3)(i), after the word “licensed” add the words “or credentialed”.

PART 125—IDENTIFICATION CREDENTIALS FOR PERSONS REQUIRING ACCESS TO WATERFRONT FACILITIES OR VESSELS

22. The authority citation for part 125 is revised to read as follows:

Authority: R.S. 4517, 4518, secs. 19, 2, 23 Stat. 58, 118, sec. 7, 49 Stat. 1936, sec. 1, 40 Stat. 220; 46 U.S.C. 570-572, 2, 689, and 70105; 50 U.S.C. 191, EO 10173, EO 10277, EO 10352, 3 CFR, 1949-1953 Comp. pp. 356, 778, 873.

23. In § 125.09, revise paragraph (f) and add paragraph (g) to read as follows:

§ 125.09 Identification credentials.

* * * * *

(f) Transportation Worker Identification Credential.

(g) Such other identification as may be approved by the Commandant from time to time.

PART 141—PERSONNEL

24. The authority citation for part 141 is revised to read as follows:

Authority: 43 U.S.C. 1356; 46 U.S.C. 70105; 49 CFR 1.46(z) .

§ 141.5 [Amended]

25. In § 141.5(b)(1) remove the words “licensed officers, and unlicensed crew” and add, in their place, the words “crew, and officers holding a valid license or MMC with officer endorsement”.

§ 141.10 [Amended]

26. In § 141.10, add a definition for the term “Transportation Worker Identification Credential” to read as follows:

§ 141.10 Definitions.

* * * * *

Transportation Worker Identification Credential or TWIC means an identification credential issued by the Transportation Security Administration according to 49 CFR part 1572.

§ 141.25 [Amended]

27. In § 141.25—

a. In paragraph (a) introductory text, remove the word “The” and add, in its place, the words “For the purposes of this part, the”; and

b. In paragraph (a)(1), before the words “merchant mariner's document”, add the word “valid”, and remove the words “under 46 CFR Part 12”.

28. In § 141.30—

a. In the introductory text, remove the first appearance of the word “The” and add, in its place, the words “For the purposes of this part, the”;

b. In paragraph (a), before the words “merchant mariner's document”, add the word “valid”, and remove the words “under 46 CFR Part 12”; and

c. In paragraph (b), remove the words “Immigration and Naturalization Service” and add, in their place, the words “Immigration and Customs Enforcement Agency”; and

d. Add a new paragraph (d) to read as follows:

§ 141.30 Evidence of status as a resident alien.

* * * * *

(d) A valid Transportation Worker Identification Credential.

§ 141.35 [Amended]

29. In § 141.35(a)(1), after the words “merchant mariner's document”, add the words “, Transportation Worker Identification Credential,”.

PART 155—OIL OR HAZARDOUS MATERIAL POLLUTION PREVENTION REGULATIONS FOR VESSELS

30. The authority citation for part 155 continues to read as follows:

Authority: 33 U.S.C. 1231, 1321(j); E.O. 11735, 3 CFR, 1971-1975 Comp., p. 793. Sections 155.100 through 155.130, 150.350 through 155.400, 155.430, 155.440, 155.470, 155.1030(j) and (k), and 155.1065(g) are also issued under 33 U.S.C. 1903(b). Sections 155.480, 155.490, 155.750(e), and 155.775 are also issued under 46 U.S.C. 3703. Section 155.490 also issued under section 4110(b) of Pub. L. 101-380.

§ 155.110 [Amended]

31. Revise § 155.110 to read as follows:

§ 155.110 Definitions.

Except as specifically stated in a section, the definitions in part 151 of this chapter, except for the word “oil”, and in part 154 of this chapter, apply to this part. The following definition also applies to this part:

Merchant Mariner Credential or MMC means the qualification document for all merchant mariners issued by the Coast Guard under 46 CFR part 10. The individual Merchant Mariner Document, License, and Certificate of Registry enumerated in 46 U.S.C. Subtitle II, Part E will be issued in the form of a Merchant Mariner Credential (MMC). An MMC will combine the separate qualification documents previously issued under 46 U.S.C. Subtitle II, Part E and STCW endorsements into a single certificate which will be endorsed to reflect a mariner's level of qualification.

§ 155.710 [Amended]

32. In § 155.710—

a. In paragraph (a)(2), after the word “license”, add the words “or officer endorsement”;

b. In paragraph (e)(1), remove the words “a licensed person” and add, in their place, the words “an officer”; after the words “holds a valid license”, add the words “or merchant mariner credential”; remove the words “part 10” and add, in their place, the words “chapter I, subchapter B,”; and after the words “merchant mariner's document”, add the words “or merchant mariner credential”;

c. In paragraph (f), after the word “MMD”, add the words “ or merchant mariner credential”; and after the words “either a license”, add the words “, officer endorsement,”; and

d. In paragraph (g), after the words “need not hold any of the”, add the words “merchant mariner credentials,”.

§ 155.815 [Amended]

33. In § 155.815(b), after the word “licensed” add the words “or credentialed”.

PART 156—OIL AND HAZARDOUS MATERIAL TRANSFER OPERATIONS

34. The authority citation for part 156 continues to read as follows:

Authority: 33 U.S.C. 1231, 1321(j); 46 U.S.C. 3703a, 3715; E.O. 11735, 3 CFR 1971-1975 Comp., p. 793. Section 156.120(bb) and (ee) are also issued under 46 U.S.C. 3703.

§ 156.210 [Amended]

35. In § 156.210(d), remove the words “a licensed individual” and add, in their place, the words “an officer”.

PART 160—PORTS AND WATERWAYS SAFETY—GENERAL

36. The authority citation for part 160 continues to read as follows:

Authority: 33 U.S.C. 1223, 1231; 46 U.S.C. Chapter 701; Department of Homeland Security Delegation No. 0170.1. Subpart C is also issued under the authority of 33 U.S.C. 1225 and 46 U.S.C. 3715.

§ 160.113 [Amended]

37. In § 160.113(b)(4), remove the word “licensed”.

PART 162—INLAND WATERWAYS NAVIGATION REGULATIONS

38. The authority citation for part 162 is revised to read as follows:

Authority: 33 U.S.C. 1231; Department of Homeland Security Delegation No. 0170.1.

39. Add a new § 162.5 to read as follows:

§ 162.5 Definitions.

The following definition applies to this part:

Merchant Mariner Credential or MMC means the qualification document for all merchant mariners issued by the Coast Guard under 46 CFR Part 10. The individual Merchant Mariner Document, License, and Certificate of Registry enumerated in 46 U.S.C. Subtitle II, Part E will be issued in the form of a Merchant Mariner Credential (MMC). An MMC will combine the separate qualification documents previously issued under 46 U.S.C. Subtitle II, Part E and STCW endorsements into a single certificate which will be endorsed to reflect a mariner's level of qualification.

§ 162.130 [Amended]

40. In § 162.130(c), in the definition for “Master”, after the words “means the”, remove the word “licensed”; and, after the words “vessel not requiring”, remove the words “licensed personnel” and add, in their place, the words “persons holding licenses or merchant mariner credential officer endorsements”.

PART 163—TOWING OF BARGES

41. The authority citation for part 163 continues to read as follows:

Authority: 33 U.S.C. 152, 2071; 49 CFR 1.46(n).

§ 163.01 [Amended]

42. In § 163.01(b), after the word “license”, add the words “or merchant mariner credential”.

§ 163.03 [Added]

43. Add a new § 163.03 to read as follows:

§ 163.03 Definitions.

The following definition applies to this part:

Merchant Mariner Credential or MMC means the qualification document for all merchant mariners issued by the Coast Guard under 46 CFR part 10. The individual Merchant Mariner Document, License, and Certificate of Registry enumerated in 46 U.S.C. Subtitle II, Part E will be issued in the form of a Merchant Mariner Credential (MMC). An MMC will combine the separate qualification documents previously issued under 46 U.S.C. Subtitle II, Part E and STCW endorsements into a single certificate which will be endorsed to reflect a mariner's level of qualification.

PART 164—NAVIGATION SAFETY REGULATIONS

44. The authority citation for part 164 continues to read as follows:

Authority: 33 U.S.C. 1222(5), 1223, 1231; 46 U.S.C. 2103, 3703; Department of Homeland Security Delegation No. 0170.1 (75). Sec. 164.13 also issued under 46 U.S.C. 8502. Sec. 164.61 also issued under 46 U.S.C. 6101.

§ 164.13 [Amended]

45. In § 164.13—

a. In paragraph (b), remove the words “a licensed engineer” and add, in their place, the words “an engineer with a properly endorsed license or merchant mariner credential”; and

b. In paragraph (c), after the words “at least two”, remove the word “licensed”; after the words “deck officers” add the words “with a properly endorsed license or merchant mariner credential”; and, after the words “must be an individual”, remove the word “licensed” and add, in its place, the words “holding an appropriately endorsed license or merchant mariner credential”.

46. In § 164.70, in alphabetical order, add a new definition for the term “Merchant Mariner Credential or MMC” to read as follows:

§ 164.70 Definitions.

* * * * *

Merchant Mariner Credential or MMC means the qualification document for all merchant mariners issued by the Coast Guard under 46 CFR part 10. The individual Merchant Mariner Document, License, and Certificate of Registry enumerated in 46 U.S.C. Subtitle II, Part E will be issued in the form of a Merchant Mariner Credential (MMC). An MMC will combine the separate qualification documents previously issued under 46 U.S.C. Subtitle II, Part E and STCW endorsements into a single certificate which will be endorsed to reflect a mariner's level of qualification.

* * * * *

PART 165—REGULATED NAVIGATION AREAS AND LIMITED ACCESS AREAS

47. The authority citation for part 165 continues to read as follows:

Authority: 33 U.S.C. 1226, 1231; 46 U.S.C. Chapter 701; 50 U.S.C. 191, 195; 33 CFR 1.05-1(g), 6.04-1, 6.04-6, and 160.5; Pub. L. 107-295, 116 Stat. 2064; Department of Homeland Security Delegation No. 0170.1.

48. Add § 165.3 to read as follows:

§ 165.3 Definitions.

The following definitions apply to this part:

Credential means any or all of the following:

(1) Merchant mariner's document.

(2) License.

(3) STCW endorsement.

(4) Certificate of registry.

(5) Merchant mariner credential.

Merchant Mariner Credential or MMC means the qualification document for all merchant mariners issued by the Coast Guard under 46 CFR part 10. The individual Merchant Mariner Document, License, and Certificate of Registry enumerated in 46 U.S.C. Subtitle II, Part E will be issued in the form of a Merchant Mariner Credential (MMC). An MMC will combine the separate qualification documents previously issued under 46 U.S.C. Subtitle II, Part E and STCW endorsements into a single certificate, which will be endorsed to reflect a mariner's level of qualification.

§ 165.120 [Amended]

49. In § 165.120(b)(1), remove the words “ the Licensed Federal Pilot” and add, in their place, the words “an individual holding a valid Merchant Mariner's License or Merchant Mariner Credential endorsed as Pilot”.

§ 165.153 [Amended]

50. In § 165.153(d)(6) and (d)(7), remove the word “licensed” wherever it may appear.

§ 165.810 [Amended]

51. In § 165.810(f)(1), remove the words “licensed engineer” and add, in their place, the words “appropriately licensed or credentialed engineer officer”.

§ 165.1310 [Amended]

52. In § 165.1310(f)(2), remove the word “licensed” and add, in its place, the words “holding a license or merchant mariner credential issued”.

46 CFR CHAPTER I

PART 1—ORGANIZATION, GENERAL COURSE AND METHODS GOVERNING MARINE SAFETY FUNCTIONS

53. The authority citation for part 1 continues to read as follows:

Authority: 5 U.S.C. 552; 14 U.S.C. 633; 46 U.S.C. 7701; 46 U.S.C. Chapter 93; Pub. L. 107-296, 116 Stat. 2135; Department of Homeland Security Delegation No. 0170.1; § 1.01-35 also issued under the authority of 44 U.S.C. 3507.

54. In § 1.01-05, remove the existing paragraph designations, remove the words “The term” from the definition of “Commandant” and “District Commander”, and in alphabetical order, add definitions for the terms “credential” and “Merchant Mariner Credential or MMC” to read as follows:

§ 1.01-05 Definitions.

* * * * *

Credential means any or all of the following:

(1) Merchant mariner's document.

(2) License.

(3) STCW endorsement.

(4) Certificate of registry.

(5) Merchant mariner credential.

* * * * *

Merchant Mariner Credential or MMC means the qualification document for all merchant mariners issued by the Coast Guard under 46 CFR part 10. The individual Merchant Mariner Document, License, and Certificate of Registry enumerated in 46 U.S.C. Subtitle II, Part E will be issued in the form of a Merchant Mariner Credential (MMC). An MMC will combine the separate qualification documents previously issued under 46 U.S.C. Subtitle II, Part E and STCW endorsements into a single certificate which will be endorsed to reflect a mariner's level of qualification.

§ 1.01-10 [Amended]

55. In § 1.01-10(b)(1)(ii)(C), remove the words “licenses, documents or certificates” and add, in their place, the word “ credentials”.

§ 1.01-15 [Amended]

56. In § 1.01-15—

a. In paragraph (a)(1), remove the words “licenses, certificates, and documents” and add, in their place, the word “credentials” and remove the words “licensing, certificating” and add, in their place, the word “credentialing”;

b. In paragraph (b), remove the words “licensing, certificating” and add, in their place, the word “credentialing”, and after the words “misbehavior of persons holding”, remove the words “licenses, certificates, or documents” and add, in their place, the word “credentials”, and after the words “46 U.S.C. chapter 77 of”, remove the words “licenses, certificates and documents” and add, in their place, the word “credential”; and

c. In the Note to paragraph (b), remove the words “Licensing and Certification” and add, in their place, the word “Credentialing”; and, after the words “parts 10”, add the number “, 11,”.

§ 1.01-25 [Amended]

57. In § 1.01-25—

a. In paragraph (b), remove the words “licenses, certificates, or documents” and add, in their place, the word “credentials”; and

b. In paragraphs (c) introductory text and (c)(1) introductory text, remove the words “license, certificate or document” wherever they appear and add, in their place, the word “credential”.

PART 4—MARINE CASUALTIES AND INVESTIGATIONS

58. The authority citation for part 4 continues to read as follows:

Authority: 33 U.S.C. 1231, 1321; 43 U.S.C. 1333; 46 U.S.C. 2103, 2306, 6101, 6301, 6305; 50 U.S.C. 198; Department of Homeland Security Delegation No. 170.1. Authority for subpart 4.40: 49 U.S.C. 1903(a)(1)(E); Department of Homeland Security Delegation No. 0170.1.

59. Add § 4.03-75 to read as follows:

§ 4.03-75 Merchant mariner credential and Credential.

The following definitions apply to this part:

Credential means any or all of the following:

(1) Merchant mariner's document.

(2) License.

(3) STCW endorsement.

(4) Certificate of registry.

(5) Merchant mariner credential.

Merchant Mariner Credential or MMC means the qualification document for all merchant mariners issued by the Coast Guard under 46 CFR part 10. The individual Merchant Mariner Document, License, and Certificate of Registry enumerated in 46 U.S.C. Subtitle II, Part E will be issued in the form of a Merchant Mariner Credential (MMC). An MMC will combine the separate qualification documents previously issued under 46 U.S.C. Subtitle II, Part E and STCW endorsements into a single certificate, which will be endorsed to reflect a mariner's level of qualification.

§ 4.07-1 [Amended]

60. § 4.07-1(c)(3), remove the words “any licensed or certificated person” and add, in their place, the words “any person holding a Coast Guard credential”; and remove the words “license or certificate” and add, in their place, the word “credential”.

§ 4.07-10 [Amended]

61. In § 4.07-10(a)(3), remove the words “licenses or certificates” and add, in their place, the word “credentials”.

PART 5—MARINE INVESTIGATION REGULATIONS—PERSONNEL ACTION

62. The authority citation for part 5 continues to read as follows:

Authority: 46 U.S.C. 2103, 7101, 7301, 7701; Department of Homeland Security Delegation No. 0170.1.

§ 5.3 [Amended]

63. In § 5.3, remove the words “licenses, certificates or documents” and add, in their place, the words “credentials or endorsements”.

§ 5.5 [Amended]

64. In § 5.5, remove the word “certification” and add, in its place, the words “certificate, merchant mariner credential, endorsement,”.

§ 5.15 [Amended]

65. In § 5.15, remove the words “license, certificate or document” and add, in their place, the word “credential”.

§ 5.19 [Amended]

66. In § 5.19(b), remove the words “license, certificate or document” and add, in their place, the words “credential or endorsement”.

67. Add § 5.40 to Subpart B to read as follows:

§ 5.40 Credential and merchant mariner credential.

Credential means any or all of the following:

(1) Merchant mariner's document.

(2) License.

(3) STCW endorsement.

(4) Certificate of registry.

(5) Merchant mariner credential.

Merchant Mariner Credential or MMC means the qualification document for all merchant mariners issued by the Coast Guard under 46 CFR part 10. The individual Merchant Mariner Document, License, and Certificate of Registry enumerated in 46 U.S.C. Subtitle II, Part E will be issued in the form of a Merchant Mariner Credential (MMC). An MMC will combine the separate qualification documents previously issued under 46 U.S.C. Subtitle II, Part E and STCW endorsements into a single certificate which will be endorsed to reflect a mariner's level of qualification.

§ 5.55 [Amended]

68. In § 5.55(a) introductory text, remove the words “license, certificate or document” and add, in their place, the word “credential”.

69. In § 5.57—

a. Revise the section heading to read as set out below;

b. In paragraph (a) introductory text, remove the words “license, certificate or document” wherever they appear and add, in their place, the words “credential or endorsement”;

c. Revise paragraph (b) to read as set out below; and

d. In paragraph (c), remove the words “license, certificate or document” and add, in their place, the words “credential or endorsement”.

§ 5.57 Acting under authority of Coast Guard credential or endorsement.

* * * * *

(b) A person is considered to be acting under the authority of the credential or endorsement while engaged in official matters regarding the credential or endorsement. This includes, but is not limited to, such acts as applying for renewal, taking examinations for raises in grade, requesting duplicate or replacement credentials, or when appearing at a hearing under this part.

* * * * *

§ 5.59 [Amended]

70. In § 5.59—

a. In the section heading, remove the words “licenses, certificates or documents” and add, in their place, the words “credentials or endorsements”; and

b. In the introductory text, remove the words “license, certificate or document” and add, in their place, the words “credential or endorsement”.

§ 5.61 [Amended]

71. In § 5.61—

a. In the section heading, remove the words “licenses, certificates or documents” and add, in their place, the word “credentials”; and

b. In paragraphs (a) introductory text and (b), remove the words “license, certificate or document” wherever they appear and add, in their place, the words “credential or endorsements”.

§ 5.101 [Amended]

72. In § 5.101(a) introductory text, (a)(1), and (a)(2), remove the words “license, certificate or document” wherever they appear and add, in their place, the words “credential or endorsement”.

§ 5.105 [Amended]

73. In § 5.105(b), (c), and (e), remove the words “license, certificate or document” and add, in their place, the words “credential or endorsement”.

Subpart E—[Amended]

74. In the heading to subpart E, remove the words “License, Certificate or Document” and add, in their place, the words “Coast Guard Credential or Endorsement”.

§ 5.201 [Amended]

75. In § 5.201(a), (b) introductory text, (b)(4), (c), and (d), remove the words “license, certificate or document” wherever they appear and add, in their place, the words “credential or endorsement”.

§ 5.203 [Amended]

76. In § 5.203(a), (b) introductory text, (b)(2), and (c), remove the words “license, certificate or document” wherever they appear and add, in their place, the words “credential or endorsement”.

§ 5.205 [Amended]

77. In § 5.205—

a. In the section heading, remove the words “license, certificate of registry, or merchant mariners document” and add, in their place, the words “credential or endorsement”; and

b. In paragraphs (a), (b) introductory text, (c) introductory text, and (d), remove the words “license, certificate or document” wherever they appear and add, in their place, the words “credential or endorsement”.

§ 5.501 [Amended]

78. In § 5.501, remove the words “license, certificate or document” and add, in their place, the words “credential or endorsement”.

§ 5.521 [Amended]

79. In § 5.521—

a. In the section heading, remove the words “license, certificate or document” and add, in their place, the word “credential”;

b. In paragraph (a), after the words “all valid”, remove the words “licenses, certificates, and/or documents” and add, in their place, the word “credentials”; and, after the words “alleges that”, remove the words “such license, certificate or document” and add, in their place, the word “credential”; and

c. In paragraph (b), remove the words “license, certificate, or document” and add, in their place, the word “credential”.

§ 5.567 [Amended]

80. In paragraphs (b), (c) introductory text, (d), and (e), remove the words “licenses, certificates or documents” wherever they appear and add, in their place, the word “credentials or endorsements”; and remove the words “license, certificate or document” wherever they appear and add, in their place, the words “credential or endorsement”.

§ 5.707 [Amended]

81. In § 5.707—

a. In the section heading, remove the words “license, certificate, or document” and add, in their place, the words “credential or endorsement”;

b. In paragraph (a), remove the words “license, certificate or document” wherever they appear and add, in their place, the words “credential or endorsement”;

c. In paragraph (c), remove the words “document or license” and add, in their place, the words “credential or endorsement”;

d. In paragraph (d), after the words “All temporary”, remove the word “documents” and add, in its place, the words “credentials or endorsements”; and, after the words “If a temporary”, remove the word “document” and add, in its place, the words, “credential or endorsement”;

e. In paragraph (e), remove the word “document” and add, in its place, the words “credential or endorsement”; and

f. In paragraph (f), remove the word “documents” and add, in its place, the word “credential”.

§ 5.713 [Amended]

82. In § 5.713(a), remove the words “licenses, certificates, or documents” and add, in their place, the words “credentials or endorsements”.

§ 5.715 [Amended]

83. In § 5.715—

a. In the section heading, remove the words “document and/or license” and add, in their place, the words “credential and/or endorsement”;

b. In paragraph (a), remove the words “document or license” and add, in their place, the words “credential and/or endorsement”; and

c. In paragraph (c), remove the words “document and/or license” and add, in their place, the words “credential and/or endorsement”; and, after the words “order. This”, remove the word “document” and add, in its place, the words “credential and/or endorsement”.

Subpart L—[Amended]

84. In the heading to subpart L, remove the words “Licenses, Certificates or Documents” and add, in their place, the words “Credential or Endorsement”.

§ 5.901 [Amended]

85. In § 5.901(a), (c), (d) introductory text, and (e), remove the words “license, certificate or document” wherever they appear and add, in their place, the words “credential or endorsement”.

§ 5.903 [Amended]

86. In § 5.903(a), (c) introductory text, and (c)(2), remove the words “license, certificate or document” wherever they appear and add, in their place, the words “credential or endorsement”.

§ 5.905 [Amended]

87. In § 5.905(b), remove the words “license, certificate or document” and add, in their place, the words “credential or endorsement”.

PART 10—MERCHANT MARINER OFFICERS AND SEAMEN

88. The authority citation for part 10 is revised to read as follows:

Authority: 14 U.S.C. 633; 31 U.S.C. 9701; 46 U.S.C. 2101, 2103, and 2110; 46 U.S.C. chapter 71; 46 U.S.C. 7502, 7505, 7701, 8906, and 70105; Executive Order 10173; Department of Homeland Security Delegation No. 0170.1. Section 11.107 is also issued under the authority of 44 U.S.C. 3507.

PART 10—[REDESIGNATED AS PART 11 AND AMENDED]

89. Redesignate part 10, consisting of § § 10.101 through 10.1105, as part 11, § § 11.101 through 11.1105.

90. Add a new part 10 to subchapter B to read as follows:

PART 10—MERCHANT MARINER CREDENTIAL

Subpart A—General

Sec.

10.101 Purpose of rules in this part.

10.103 Incorporation by reference.

10.105 Paperwork approval. [Reserved]

10.107 Definitions in subchapter B.

10.109 Classification of endorsements.

Subpart B—General Requirements for All Merchant Mariner Credentials

10.201 General characteristics of the Merchant Mariner Credential.

10.203 Requirement to hold a TWIC and a Merchant Mariner Credential.

10.205 Validity of a Merchant Mariner Credential.

10.207 Identification number.

10.209 Application procedures.

10.211 Criminal record review.

10.213 National Driver Register.

10.215 Medical and physical requirements.

10.217 MMC application and examination locations.

10.219 Fees.

10.221 Applications submitted by aliens.

10.223 Modification or removal of limitations.

10.225 Issuance of Merchant Mariner Credentials.

10.227 Additional requirements for renewal.

10.229 Issuance of duplicate Merchant Mariner Credentials.

10.231 Additional requirements for raises of grade for officer endorsements.

10.233 Obligations of the holder of a Merchant Mariner Credential.

10.235 Suspension or revocation of Merchant Mariner Credentials.

10.237 Right of appeal.

Authority: 14 U.S.C. 633; 31 U.S.C. 9701; 46 U.S.C. 2101, 2103, 2110; 46 U.S.C. chapter 71; 46 U.S.C. chapter 72; 46 U.S.C. chapter 75; 46 U.S.C. 7701, 8906 and 70105; Executive Order 10173; Department of Homeland Security Delegation No. 0170.1.

Subpart A—General

§ 10.101 Purpose of rules in this part.

The regulations in this part provide:

(a) A means of determining and verifying the identity, citizenship, and qualifications an applicant must possess to be eligible for certification to serve on merchant vessels;

(b) A means of determining that an applicant is competent to serve under the authority of their Merchant Mariner Credential (MMC); and

(c) A means, through the requirement to hold a Transportation Worker Identification Credential (TWIC), and a criminal and National Driver Register (NDR) record review to determine the identity of an applicant and determine if the holder of an MMC is a safe and suitable person and is qualified as to character and habits of life.

§ 10.103 Incorporation by reference.

(a) Certain material is incorporated by reference into this part with the approval of the Director of the Federal Register under 5 U.S.C. 552(a) and 1 CFR part 51. To enforce any edition other than that specified in this section, the Coast Guard must publish notice of change in the Federal Register and the material must be available to the public. All approved material is available for inspection at the National Archives and Records Administration (NARA). For information on the availability of this material at NARA, call 202-741-6030 or go to http://www.archives.gov/federal_register/code_of_federal_regulations/ibr_locations.html. Also, it is available for inspection at the Coast Guard, Office of Operating and Environmental Standards (G-PSO), 2100 Second Street SW., Washington, DC 20593-0001, and is available from the sources indicated in this section.

(b) International Maritime Organization (IMO), 4 Albert Embankment, London, SE1 7SR, England:

(1) The STCW—International Convention on Standards of Training, Certification and Watchkeeping for Seafarers, 1978, as amended (the STCW Convention or the STCW), incorporation by reference approved for § § 10.107, 10.109, 10.209, 10.215, and 10.277.

(2) The Seafarers’ Training, Certification and Watchkeeping Code, as amended (the STCW Code), incorporation by reference approved for § § 10.107, 10.109, 10.209, 10.215, and 10.277.

§ 10.105 Paperwork approval. [Reserved]

§ 10.107 Definitions in Subchapter B.

(a) With respect to part 16 and § 15.1101 of this title only, if the definitions in paragraph (b) of this section differ from those set forth in either § 16.105 or § 15.1101, the definition set forth in either § 16.105 or § 15.1101, as appropriate, applies.

(b) As used in this subchapter, the following terms apply only to the merchant marine personnel credentialing and manning of vessels subject to the manning provisions in the navigation and shipping laws of the United States:

Apprentice mate (steersman) of towing vessels means a mariner qualified to perform watchkeeping on the bridge, while in training onboard a towing vessel under the direct supervision and in the presence of a master or mate (pilot) of towing vessels.

Approved means approved by the Coast Guard in according to § 11.302 of this chapter.

Approved training means training that is approved by the Coast Guard or meets the requirements of § 11.309 of this chapter.

Assistance towing means towing a disabled vessel for consideration.

Assistant engineer means a qualified officer in the engine department.

Authorized official includes but is not limited to a Federal, State or local law enforcement officer.

Ballast control operator or BCO means an officer restricted to service on mobile offshore drilling units (MODUs) whose duties involve the operation of the complex ballast system found on many MODUs. When assigned to a MODU, a ballast control operator is equivalent to a mate on a conventional vessel.

Barge supervisor or BS means an officer restricted to service on MODUs whose duties involve support to the offshore installation manager (OIM) in marine related matters including, but not limited to, maintaining watertight integrity, inspecting and maintaining mooring and towing components, and maintaining emergency and other marine-related equipment. A barge supervisor, when assigned to a MODU, is equivalent to a mate on a conventional vessel.

Boatswain means the leading seaman and immediate supervisor of deck crew who supervises the maintenance of deck gear.

Cargo engineer means a person holding an officer endorsement on a dangerous-liquid tankship or a liquefied-gas tankship whose primary responsibility is maintaining the cargo system and cargo-handling equipment.

Chief engineer means any person responsible for the mechanical propulsion of a vessel and who is the holder of a valid officer endorsement as chief engineer.

Chief mate means the deck officer next in seniority to the master and upon whom the command of the vessel will fall in the event of incapacity of the master.

Coast Guard-accepted means that the Coast Guard has officially acknowledged in writing that the material or process at issue meets the applicable requirements; that the Coast Guard has issued an official policy statement listing or describing the material or process as meeting the applicable requirements; or that an entity acting on behalf of the Coast Guard under a Memorandum of Agreement has determined that the material or process meets the applicable requirements.

Coastwise seagoing vessel means a vessel that is authorized by its Certificate of Inspection to proceed beyond the Boundary Line established in part 7 of this chapter.

Competent person means a person designated as such under 29 CFR 1915.7.

Conviction means that the applicant for a merchant mariner credential has been found guilty, by judgment or plea by a court of record of the United States, the District of Columbia, any State, territory, or possession of the United States, a foreign country, or any military court, of a criminal felony or misdemeanor or of an offense described in section 205 of the National Driver Register Act of 1982, as amended (49 U.S.C. 30304). If an applicant pleads guilty or no contest, is granted deferred adjudication, or is required by the court to attend classes, make contributions of time or money, receive treatment, submit to any manner of probation or supervision, or forgo appeal of a trial court's conviction, then the Coast Guard will consider the applicant to have received a conviction. A later expungement of the conviction will not negate a conviction unless the Coast Guard is satisfied that the expungement is based upon a showing that the court's earlier conviction was in error.

Credential means any or all of the following:

(1) Merchant mariner's document.

(2) License.

(3) STCW endorsement.

(4) Certificate of registry.

(5) Merchant mariner credential.

Criminal record review means the process or action taken by the Coast Guard to determine whether an applicant for, or holder of, a credential is a safe and suitable person to be issued such a credential or to be employed on a vessel under the authority of such a credential.

Dangerous drug means a narcotic drug, a controlled substance, or a controlled-substance analogue (as defined in section 102 of the Comprehensive Drug Abuse and Control Act of 1970 (21 U.S.C. 802)).

Dangerous liquid or DL means a liquid listed in 46 CFR 153.40 of this chapter that is not a liquefied gas as defined in this part. Liquid cargoes in bulk listed in 46 CFR part 153, table 2, of this chapter are not dangerous-liquid cargoes when carried by non-oceangoing barges.

Day means, for the purpose of complying with the service requirements of this subchapter, eight hours of watchstanding or day-working not to include overtime. On vessels where a 12-hour working day is authorized and practiced, such as on a six-on, six-off watch schedule, each work day may be creditable as one and one-half days of service. On vessels of less than 100 gross tons, a day is considered as eight hours unless the Officer in Charge, Marine Inspection, determines that the vessel's operating schedule makes this criteria inappropriate, in no case will this period be less than four hours. When computing service required for MODU endorsements, a day is a minimum of four hours, and no additional credit is received for periods served over eight hours.

Deck crew (excluding individuals serving under their officer endorsement) means, as used in 46 U.S.C. 8702, only the following members of the deck department: able seamen, boatswains, and ordinary seamen.

Designated areas means those areas within pilotage waters for which first class pilot's endorsements are issued under part 11, subpart G, of this chapter, by the Officer in Charge, Marine Inspection (OCMI). The areas for which first class pilot's endorsements are issued within a particular Marine Inspection Zone and the specific requirements to obtain them may be obtained from the OCMI concerned.

Designated duty engineer means a qualified engineer, who may be the sole engineer on vessels with a periodically unattended engine room.

Designated examiner means a person who has been trained or instructed in techniques of training or assessment and is otherwise qualified to evaluate whether an applicant has achieved the level of competence required to hold a Merchant Mariner Credential (MMC) endorsement. This person may be designated by the Coast Guard or by a Coast Guard-approved or accepted program of training or assessment. A faculty member employed or instructing in a navigation or engineering course at the U.S. Merchant Marine Academy or at a State maritime academy operated under 46 CFR part 310 is qualified to serve as a designated examiner in his or her area(s) of specialization without individual evaluation by the Coast Guard.

Directly supervised means being in the direct line of sight of the person-in-charge or maintaining direct, two-way communications by a convenient, reliable means, such as a predetermined working frequency over a hand-held radio.

Disabled vessel means a vessel that needs assistance, whether docked, moored, anchored, aground, adrift, or underway but does not mean a barge or any other vessel not regularly operated under its own power.

Drug test means a chemical test of an individual's urine for evidence of dangerous drug use.

Employment assigned to is the total period a person is assigned to work on MODUs, including time spent ashore as part of normal crew rotation.

Endorsement is a statement of a mariner's qualifications to include officer, staff officer, ratings, and/or STCW qualifications appearing on an Merchant Mariner Credential.

Evaluation means processing an application, from the point of receipt to approval or rejection of the application, including review of all documents and records submitted with an application as well as those obtained from public records and databases.

Fails a chemical test for dangerous drugs means that the result of a chemical test conducted under 49 CFR part 40 was reported as “positive” by a Medical Review Officer because the chemical test indicated the presence of a dangerous drug at a level equal to or exceeding the levels established in 49 CFR part 40.

First assistant engineer means the engineer officer next in seniority to the chief engineer and upon whom the responsibility for the mechanical propulsion of the vessel will fall in the event of the incapacity of the chief engineer.

Great Lakes for the purpose of calculating service requirements for an officer endorsement, means the Great Lakes and their connecting and tributary waters including the Calumet River as far as the Thomas J. O’ Brien Lock and Controlling Works (between mile 326 and 327), the Chicago River as far as the east side of the Ashland Avenue Bridge (between mile 321 and 322), and the Saint Lawrence River as far east as the lower exit of Saint Lambert Lock. For purposes of requiring Merchant Mariner Credentials with rating endorsements, the connecting and tributary waters are not part of the Great Lakes.

Harbor assist means the use of a towing vessel during maneuvers to dock, undock, moor, or unmoor a vessel, or to escort a vessel with limited maneuverability.

Horsepower means, for the purpose of this subchapter, the total maximum continuous shaft horsepower of all the vessel's main propulsion machinery.

IMO means the International Maritime Organization.

Inland waters means the navigable waters of the United States shoreward of the Boundary Lines as described in part 7 of this chapter, excluding the Great Lakes, and, for towing vessels, excluding the Western Rivers. For establishing credit for sea service, the waters of the Inside Passage between Puget Sound and Cape Spencer, Alaska, are inland waters.

Invalid credential means a merchant mariner credential that has expired, been suspended, revoked, or was issued fraudulently.

Liquefied gas or LG means a cargo that has a vapor pressure of 172 kPa (25 psia) or more at 37.8 C (100 F).

Liquid cargo in bulk means a liquid or liquefied gas listed in § 153.40 of this chapter and carried as a liquid cargo or liquid-cargo residue in integral, fixed, or portable tanks, except a liquid cargo carried in a portable tank actually loaded and discharged from a vessel with the contents intact.

Lower level is used as a category of deck and engineer officer endorsements established for assessment of fees. Lower-level officer endorsements are other than those defined as upper level, for which the requirements are listed in subparts D, E, and G of this part.

Marine chemist means a person certificated by the National Fire Protection Association.

Master means the officer having command of a vessel.

Mate means a qualified officer in the deck department other than the master.

Merchant Mariner Credential or MMC means the qualification document for all merchant mariners issued by the Coast Guard under 46 CFR part 10. The individual Merchant Mariner Document, License, and Certificate of Registry enumerated in 46 U.S.C. Subtitle II, Part E will be issued in the form of a Merchant Mariner Credential (MMC). An MMC will combine the separate qualification documents previously issued under 46 U.S.C. Subtitle II, part E and STCW endorsements into a single certificate which will be endorsed to reflect a mariner's level of qualification.

Merchant Vessel means a vessel engaged in commercial activities.

MMC application means the application for the Merchant Mariner Credential (MMC), as well as the application for any endorsement on an MMC.

Mobile offshore drilling unit or MODU means a vessel capable of engaging in drilling operations for the exploration for or exploitation of subsea resources. MODU designs include the following:

(1) Bottom bearing units which include:

(i) Self-elevating (or jack-up) units with moveable, bottom bearing legs capable of raising the hull above the surface of the sea; and

(ii) Submersible units of ship-shape, barge-type, or novel hull design, other than a self-elevating unit, intended for operating while bottom bearing.

(2) Surface units with a ship-shape or barge-type displacement hull of single or multiple hull construction intended for operating in a floating condition, including semi-submersibles and drillships.

Month means 30 days, for the purpose of complying with the service requirements of this subchapter.

National Driver Register or NDR means the nationwide repository of information on drivers maintained by the National Highway Traffic Safety Administration under 49 U.S.C. chapter 303.

NDR-listed convictions means a conviction of any of the following motor vehicle-related offenses or comparable offenses:

(1) Operating a motor vehicle while under the influence of, or impaired by, alcohol or a controlled substance; or

(2) A traffic violation arising in connection with a fatal traffic accident, reckless driving, or racing on the highways.

Near coastal means ocean waters not more than 200-miles offshore.

Oceans means the waters seaward of the Boundary Lines as described in 46 CFR part 7 of this chapter. For the purposes of establishing sea service credit, the waters of the Inside Passage between Puget Sound and Cape Spencer, Alaska, are not considered oceans.

Officer endorsement means an annotation on a Merchant Mariner Credential that allows a mariner to serve in the capacities in § 10.109(a).

Officer in Charge, Marine Inspection, or OCMI means, for the purposes of this subchapter, the officer or individual so designated at one of the locations of the regional examination centers listed in § 10.217, or any person designated as such by the Commandant.

Offshore installation manager or OIM means an officer restricted to service on MODUs. An assigned offshore installation manager is equivalent to a master on a conventional vessel and is the person designated by the owner or operator to be in complete and ultimate command of the unit.

On location means that a mobile offshore drilling unit is bottom bearing or moored with anchors placed in the drilling configuration.

Operate, operating, or operation, as applied to vessels, refers to a vessel anytime passengers are embarked whether the vessel is underway, at anchor, made fast to shore, or aground as applied to vessel manning.

Operator means an individual qualified to operate certain uninspected vessels.

Orally assisted examination means an examination as described in part 11, subpart I of this chapter verbally administered and documented by an examiner.

Participation, when used with regard to the service on transfers required for tankerman by §§ 13.120, 13.203, or 13.303 of this chapter, means either actual participation in the transfers or close observation of how the transfers are conducted and supervised.

Passes a chemical test for dangerous drugs means that the result of a chemical test conducted according to 49 CFR part 40 is reported as “negative” by a Medical Review Officer according to that part.

PIC means a person-in-charge.

Pilot of towing vessels means a qualified officer of a towing vessel operated only on inland routes.

Pilotage waters means the navigable waters of the United States, including all inland waters and offshore waters to a distance of three nautical miles from the baseline from which the Territorial Sea is measured.

Practical demonstration means the performance of an activity under the direct observation of a designated examiner for the purpose of establishing that the performer is sufficiently proficient in a practical skill to meet a specified standard of competence or other objective criterion.

Qualified instructor means a person who has been trained or instructed in instructional techniques and is otherwise qualified to provide required training to candidates for an Merchant Mariner Credential endorsement. A faculty member employed at a State maritime academy or the U.S. Merchant Marine Academy operated under 46 CFR part 310 and instructing in a navigation or engineering course is qualified to serve as a qualified instructor in his or her area of specialization without individual evaluation by the Coast Guard.

Qualified rating means various categories of Able Seaman, Qualified Member of the Engine Department, Lifeboatman, or Tankerman endorsements formerly issued on Merchant Mariner's Documents.

Raise of grade means an increase in the level of authority and responsibility associated with an officer or rating endorsement.

Rating endorsement is an annotation on a Merchant Mariner Credential that allows a mariner to serve in those capacities set out in § 10.109 (b) and (c).

Regional Examination Center or REC means a Coast Guard office that issues Merchant Mariners' Credentials and endorsements.

Restricted Tankerman endorsement means a valid tankerman endorsement on an Merchant Mariner Credential restricting its holder as the Officer in Charge, Marine Inspection, (OCMI) deems appropriate. For instance, the endorsement may restrict the holder to one or a combination of the following: A specific cargo or cargoes; a specific vessel or vessels; a specific facility or facilities; a specific employer or employers; a specific activity or activities (such as loading or unloading in a cargo transfer); or a particular area of water.

Rivers means a river, canal, or other similar body of water designated as such by the Officer in Charge, Marine Inspection.

Safe and suitable person means a person whose character and habits of life are such as to support the belief that his or her presence on board vessels of the United States is not, or may not be, adverse to the security of the United States.

Self-propelled has the same meaning as the terms “propelled by machinery” and “mechanically propelled.” This term includes vessels fitted with both sails and mechanical propulsion.

Self-propelled tank vessel means a self-propelled tank vessel, other than a tankship.

Senior company official means the president, vice president, vice president for personnel, personnel director, or similarly titled or responsible individual, or a lower-level employee designated in writing by one of these individuals for the purpose of certifying employment and whose signature is on file at the Regional Examination Center (REC) at which application is made.

Service as, as used when computing the required service for MODU endorsements, means the time period, in days, a person is assigned to work on MODUs, excluding time spent ashore as part of crew rotation. A day is a minimum of four hours, and no additional credit is received for periods served over eight hours.

Simulated transfer means a transfer practiced in a course meeting the requirements of § 13.121 of this chapter that uses simulation supplying part of the service on transfers required for tankerman by § 13.203 or 13.303 of this chapter.

Staff officer means a person who holds an officer endorsement on a Merchant Mariner Credential listed in § 10.109(a)(13).

Standard of competence means the level of proficiency to be achieved for the proper performance of duties on board vessels according to national and international criteria.

STCW means the International Convention on Standards of Training, Certification and Watchkeeping for Seafarers, 1978, as amended (incorporated by reference in § 10.103).

STCW Code means the Seafarer's Training, Certification and Watchkeeping Code, as amended (incorporated by reference in § 10.103).

STCW endorsement means an annotation on an Merchant Mariner Credential that allows a mariner to serve in those capacities under § 10.109(d).

Tank barge means a non-self-propelled tank vessel.

Tank vessel means a vessel that is constructed or adapted to carry, or that carries, oil or hazardous material in bulk as cargo or cargo residue, and that—

(1) Is a vessel of the United States;

(2) Operates on the navigable waters of the United States; or

(3) Transfers oil or hazardous material in a port or place subject to the jurisdiction of the United States.

Tankerman-Assistant means a person holding a valid “Tankerman-Assistant” endorsement to his or her Merchant Mariner Credential.

Tankerman-Engineer means a person holding a valid “Tankerman-Engineer” endorsement to his or her Merchant Mariner Credential.

Tankerman-PIC means a person holding a valid “Tankerman-PIC” endorsement to his or her Merchant Mariner Credential.

Tankerman-PIC (Barge) means a person holding a valid “Tankerman-PIC (Barge)” endorsement to his or her Merchant Mariner Credential.

Tankship means any tank vessel constructed or adapted primarily to carry oil or hazardous material in bulk as cargo or as cargo residue and propelled by power or sail.

Transfer means any movement of dangerous liquid or liquefied gas as cargo in bulk or as cargo residue to, from, or within a vessel by means of pumping, gravitation, or displacement. Section 13.127 of this chapter describes what qualifies as participation in a creditable transfer.

Transportation Worker Identification Credential or TWIC means an identification credential issued by the Transportation Security Administration under 49 CFR part 1572.

Underway means that a vessel is not at anchor, made fast to the shore, or aground. When referring to a mobile offshore drilling unit (MODU), underway means that the MODU is not in an on-location or laid-up status and includes that period of time when the MODU is deploying or recovering its mooring system.

Undocumented vessel means a vessel not required to have a document issued under the laws of the United States.

Upper level is used as a category of deck and engineer officer endorsements established for assessment of fees. Upper-level endorsements are those for which the requirements are listed in §§ 11.404 to 11.407 of this subchapter and §§ 11.510, 10.512, 10.514, and 11.516 of subpart E of this subchapter.

Western rivers means the Mississippi River, its tributaries, South Pass, and Southwest Pass, to the navigational demarcation lines dividing the high seas from harbors, rivers, and other inland waters of the United States, and the Port Allen-Morgan City Alternate Route, and that part of the Atchafalaya River above its junction with the Port Allen-Morgan City Alternate Route including the Old River and the Red River, and those waters specified in 33 CFR 89.25.

Year means 360 days, for the purpose of complying with the service requirements of this subchapter.

§ 10.109 Classification of endorsements.

(a) The following officer endorsements are established in part 11 of this subchapter. The endorsements indicate that an individual holding a valid MMC with this endorsement is qualified to serve in that capacity and the endorsement has been issued under the requirements contained in part 11 of this subchapter:

(1) Master.

(2) Chief mate.

(3) Second mate.

(4) Third mate.

(5) Mate.

(6) Apprentice mate (Steersman).

(7) Chief engineer.

(8) First assistant engineer.

(9) Second assistant engineer.

(10) Third assistant engineer.

(11) Assistant engineer.

(12) Designated duty engineer.

(13) Staff officers who are registered in the following grades:

(i) Chief purser.

(ii) Purser.

(iii) Senior assistant purser.

(iv) Junior assistant purser.

(v) Medical doctor.

(vi) Professional nurse.

(vii) Marine physician assistant.

(viii) Hospital corpsman.

(b) The following rating endorsements are established in part 12 of this subchapter. The endorsements indicate that an individual holding a valid MMC with this endorsement is qualified to serve in that capacity and the endorsement has been issued under the requirements contained in part 12 of this subchapter:

(1) Able seaman.

(2) Ordinary seaman.

(3) Qualified member of the engine department.

(4) Lifeboatman.

(5) Wiper.

(6) Steward's department (F.H.).

(7) Cadet.

(8) Student observer.

(9) Apprentice engineer.

(10) Apprentice mate.

(c) The following ratings are established in part 13 of this subchapter. The endorsements indicate that an individual holding a valid MMC with this endorsement is qualified to serve in that capacity and the endorsement has been issued under the requirements contained in part 13 of this subchapter:

(1) Tankerman-PIC.

(2) Tankerman-PIC (Barge).

(3) Restricted Tankerman-PIC.

(4) Restricted Tankerman-PIC (Barge).

(5) Tankerman-Assistant.

(6) Tankerman-Engineer.

(d) The following STCW endorsements are established by STCW and issued according to the STCW Code and Convention and parts 11 and 12 of this subchapter. The endorsements indicate that an individual holding a valid MMC with this endorsement is qualified to serve in that capacity and the endorsement has been issued under the requirements contained in parts 11 or 12 of this subchapter as well as the STCW Convention and Code (incorporated by reference see § 10.103):

(1) Master.

(2) Chief Mate.

(3) Officer in Charge of a Navigational Watch (OICNW).

(4) Chief Engineer.

(5) Second Engineer Officer.

(6) Officer in Charge of an Engineering Watch in a Manned Engineroom or Designated Duty Engineer in a Periodically Unmanned Engineroom (OICEW).

(7) Rating Forming Part of a Navigational Watch (RFPNW).

(8) Rating Forming Part of a Watch in a Manned Engineroom or designated to perform duties in a periodically unmanned engineroom (RFPEW).

(9) Proficiency in Survival Craft and Rescue Boats other than Fast Rescue boats (PSC).

(10) Proficiency in Fast Rescue Boats.

(11) Person in Charge of Medical Care.

(12) Medical First Aid Provider.

(13) GMDSS At-Sea Maintainer.

(14) GMDSS Operator.

Subpart B—General Requirements for all Merchant Mariner Credentials

§ 10.201 General characteristics of the Merchant Mariner Credential.

(a) A Merchant Mariner Credential (MMC) (Coast Guard Form CG-XXXX), is a credential combining the elements of the Merchant Mariner's Document (MMD), License, and Certificate of Registry (COR) enumerated in 46 U.S.C. subtitle II, part E. MMDs, Licenses, STCW endorsements and CORs will no longer be issued and all qualifications formerly entered on those separate credentials will appear in the form of an endorsement(s) on an MMC.

(b) Although an MMC contains information necessary to identify the mariner to whom it is issued, the Transportation Worker Identification Credential (TWIC) is the primary identification document for mariners.

(c) An MMC authorizes the holder to serve in any capacity endorsed thereon, or in any lower capacity in the same department, or in any capacity covered by a general endorsement.

§ 10.203 Requirement to hold a TWIC and a Merchant Mariner Credential.

(a) Any mariner required to hold a License, MMD, Certificate of Registry, and/or an STCW Endorsement by a regulation in 33 CFR chapter I or 46 CFR chapter I must instead hold an MMC. A mariner may continue to serve under the authority of and within any restriction on their License, MMD, Certificates of Registry, and/or STCW Endorsement, until the first renewal or upgrade of that credential but not later than [date five years after effective date of the final rule].

(b) No MMC, License, MMD, Certificate of Registry, or STCW Endorsement will be valid unless the holder also holds a valid TWIC.

(c) An MMC, License, MMD, Certificate of Registry, or STCW Endorsement must be retained by the mariner to whom it was issued and, while valid, must be produced to verify qualifications when required by an authorized official.

(d) A TWIC must be retained by the mariner to whom it was issued and, while valid, shall serve as the mariner's primary identification document. The TWIC must be produced to verify identity when required by an authorized official.

§ 10.205 Validity of a Merchant Mariner Credential.

(a) An MMC is valid for a term of five years from the date of issuance.

(b) All endorsements are valid until the expiration date of the MMC on which they appear.

(c) A mariner may not serve under the authority of an MMC past its expiration date. An expired MMC may be renewed during an administrative grace period of up to one year beyond its expiration date as per § 10.227 (j) of this part.

(d) When an MMC is renewed or re-issued prior to its expiration date in accordance with § 10.227, the MMC that has been replaced becomes void.

(e) An MMC is not valid until signed by the applicant and the OCMI or the OCMI's designated representative.

(f) A mariner's STCW Endorsement is valid only when the related officer or rating endorsement is valid.

(g) A mariner's endorsements authorize the holder to serve in any capacity endorsed on the MMC, or in any lower capacity in the same department, or in any capacity covered by a general endorsement thereon.

(h) If a mariner chooses to renew their License, MMD, COR, or STCW Certificate and receive their first MMC, the Coast Guard may also renew all other credentials for which the mariner is qualified.

§ 10.207 Identification number.

For recordkeeping purposes only, a mariner's official MMC identification number is the individual's social security number. However, a unique serial number, and not the social security number, will appear on the credential.

§ 10.209 Application procedures.

(a) The applicant for an MMC or endorsement, whether original, renewal, duplicate or raise of grade, must establish to the satisfaction of the Coast Guard that he or she satisfies all the requirements for the MMC and endorsement(s) sought before the Coast Guard will issue the MMC. This section contains the general requirements for all applicants. Additional requirements for duplicates, renewals and raises in grade appear later in this part.

(b) The Coast Guard may refuse to process an incomplete MMC application.

(c) A complete application for an MMC or endorsement, must contain the following:

(1) A signed written application;

(2) Proof that the mariner holds a valid TWIC, except as provided in § 10.227(i);

(3) Information supplied by TSA. Upon issuance of a TWIC by TSA, a mariner's fingerprints, FBI number and criminal record (if applicable), photograph, proof of citizenship and proof of legal resident alien status (if applicable) will be made available, electronically, to the Coast Guard and will be made a part of the mariner's MMC application;

(4) Except as provided in § 10.227(i), all applications must contain all supplementary materials required to show that the mariner meets the mandatory requirements for the specific endorsement sought;

(i) The mandatory requirements for officer endorsements are contained in part 11 of this chapter.

(ii) The mandatory requirements for rating endorsements are contained in part 12 of this chapter.

(iii) For a tankerman rating endorsement, the applicant must also provide those documents or proofs required in part 13 of this chapter.

(iv) The mandatory requirements for STCW Endorsements are contained in parts 11 and 12 of this chapter and in the STCW Convention and Code (Incorporated by reference, see § 10.103).

(5) The appropriate fee as set forth in § 10.219 of this part;

(6) If the applicant holds a continuous discharge book, certificate of identification, MMD, MMC, License, STCW Endorsement or Certificate of Registry, it must be exhibited at the time of application;

(7) Criminal record review. No MMC or endorsement will be issued until the applicant has passed a criminal record review as set forth in § 10.211 of this part;

(8) National Driver Register. No MMC or endorsement will be issued until the applicant has passed a National Driver Register review as set forth in § 10.121 of this part;

(9) Drug test. To obtain an original or renewal MMC, a raise in grade of officer endorsement, or the first endorsement as able seaman, lifeboatman, qualified member of the engine department , or tankerman, an applicant must produce evidence of having passed a chemical test for dangerous drugs or of qualifying for an exception from testing in § 16.220 of this subchapter. An applicant who fails a chemical test for dangerous drugs will not be issued an MMC. Applicants requesting an inactive MMC renewal under § 10.227(i) of this part are exempt from this requirement;

(10) An applicant for an endorsement where sea service is required must produce with the application, discharges or other documentary evidence of service, indicating the name, tonnage, and horsepower of the vessels, dates of service, capacity in which the applicant served, and on what waters; and

(11) All applicants must comply with the medical and physical standards of § 10.215 of this part.

(d) The written portion of the application may be submitted by mail, fax, or other electronic means. The written portion of the application may include:

(1) A properly completed application on a Coast Guard-furnished form and the evaluation fee required by § 10.219 of this part;

(2) The applicant's continuous discharge book, certificate of identification, MMD, MMC, License, STCW Endorsement, Certificate of Registry or, if it has not expired, a photocopy of the credential, including the back and all attachments;

(3) Proof on a form provided by the Coast Guard that the applicant passed the applicable vision, hearing, medical or physical exam as required by § 10.215 of this part;

(4) If the applicant desires a credential with a radar-observer endorsement, either the radar-observer certificate or a certified copy;

(5) Evidence of, or acceptable substitute for, sea service for an officer's endorsement;

(6) For an endorsement as a medical doctor or professional nurse, evidence that the applicant holds a currently valid, appropriate license as physician, surgeon, or registered nurse, issued under the authority of a state or territory of the United States, the Commonwealth of Puerto Rico, or the District of Columbia. Any MMC issued will retain any limitation associated with the medical License; and

(7) The open-book exercise, if required, may be administered through the mail.

§ 10.211 Criminal record review.

(a) The Coast Guard may conduct a criminal record review to determine the safety and suitability of an applicant for an MMC and any endorsements. An applicant conducting simultaneous MMC transactions will undergo a single criminal record review. Each applicant must provide written disclosure of all prior convictions at the time of application.

(b) A criminal record review is required for applicants seeking a duplicate MMC under § 10.229.

(c) Fingerprints. The Transportation Security Administration (TSA) will provide to the Coast Guard electronic fingerprint images submitted by the applicant in the TWIC enrollment process. The applicant's fingerprints will be used by the Coast Guard to determine whether the applicant has a record of a criminal conviction.

(d) When a criminal record review leads the Coast Guard to determine that an applicant is not a safe and suitable person or cannot be entrusted with the duties and responsibilities of the MMC or endorsement applied for, the application may be disapproved.

(e) If an application is disapproved, the applicant will be notified in writing of that fact, and, except as provided by this paragraph, the reason or reasons for disapproval and advised that the appeal procedures in subpart 1.03 of part 1 of this chapter apply. No examination will be given pending decision on appeal. The applicant will be notified in writing of the reason or reasons for disapproval, unless the Coast Guard determines that the disclosure of information is prohibited by law, regulation, or agency policy, in which case the reason(s) will not be disclosed.

(f) No person who has been convicted of a violation of the dangerous drug laws of the United States, the District of Columbia, any State, territory, or possession of the United States, or a foreign country, by any military or civilian court, is eligible for an MMC, except that a conviction for a drug offense more than 10 years before the date of application will not alone be grounds for denial.

(g) The Coast Guard will use table 10.211(g) to evaluate applicants who have criminal convictions. The tables list major categories of criminal activity and are not to be construed as an all-inclusive list. If an applicant is convicted of an offense that does not appear on the list, the Coast Guard will establish an appropriate assessment period using the list as a guide. The assessment period commences when an applicant is no longer incarcerated. The applicant must establish proof of the time incarcerated and periods of probation and parole to the satisfaction of the Coast Guard. The assessment period may include supervised or unsupervised probation or parole.

Table 10.211(g).—Guidelines for Evaluating Applicants for MMCs Who Have Criminal Convictions
Crime ¹ | Assessment periods: Minimum | Assessment periods: Maximum
Crimes Against Persons
Homicide (intentional) | 7 years | 20 years.
Homicide (unintentional) | 5 years | 10 years.
Assault (aggravated) | 5 years | 10 years.
Assault (simple) | 1 year | 5 years.
Sexual Assault (rape, child molestation) | 5 years | 10 years.
Robbery | 5 years | 10 years.
Other crimes against persons ²
Crimes Against Property
Burglary | 3 years | 10 years.
Larceny (embezzlement) | 3 years | 5 years.
Other crimes against property ²
Vehicular Crimes
Conviction involving fatality | 1 year | 5 years.
Reckless Driving | 1 year | 2 years.
Racing on the Highways | 1 year | 2 years.
Other vehicular crimes ²
Crimes Against Public Safety
Destruction of Property | 5 years | 10 years.
Other crimes against public safety ²
Criminal Violations of Environmental Laws
Criminal violations of environmental laws involving improper handling of pollutants or hazardous materials | 1 year | 10 years.
Dangerous Drug Offenses ³,⁴,⁵
Trafficking (sale, distribution, transfer) | 5 years | 10 years.
Dangerous drugs (Use or possession) | 1 year | 10 years.
Other dangerous drug convictions ⁶
¹ Conviction of attempts, solicitations, aiding and abetting, accessory after the fact, and conspiracies to commit the criminal conduct listed in this table carry the same minimum and maximum assessment periods provided in the table.
² Other crimes are to be reviewed by the OCMI to determine the minimum and maximum assessment periods depending on the nature of the crime.
³ Applicable to original applications only. Any applicant who has ever been the user of, or addicted to the use of, a dangerous drug shall meet the requirements of paragraph (f) of this section. Note: Applicants for reissue of an MMC with a new expiration date including a renewal or additional endorsement(s), who have been convicted of a dangerous drug offense while holding a License, MMC, MMD, STCW Endorsement or Certificate of Registry, may have their application withheld until appropriate action has been completed by the OCMI under the regulations which appear in 46 CFR part 5 governing the administrative actions against merchant mariner credentials.
⁴ The OCMI may consider dangerous drug convictions more than 10 years old only if there has been a dangerous drug conviction within the past 10 years.
⁵ Applicants must demonstrate rehabilitation under paragraph (l) of this section, including applicants with dangerous drug use convictions more than ten years old.
⁶ Other dangerous drug convictions are to be reviewed by the OCMI on a case by case basis to determine the appropriate assessment period depending on the nature of the offense.

(h) When an applicant has convictions for more than one offense, the minimum assessment period will be the longest minimum in table 10.211(g) and table 10.213(d) of § 10.213 based upon the applicant's convictions; the maximum assessment period will be the longest shown in table 10.211(g) and table 10.213(d) of § 10.213 based upon the applicant's convictions.

(i) If a person with a criminal conviction applies before the minimum assessment period shown in table 10.211(g), or established by the Coast Guard under paragraph (g) of this section has elapsed, then the applicant must provide, as part of the application package, evidence of suitability for service in the merchant marine. Factors which are evidence of suitability for service in the merchant marine are listed in paragraph (l) of this section. The Coast Guard will consider the applicant's evidence submitted with the application and may issue the MMC and/or endorsement in less than the listed minimum assessment period if the Coast Guard is satisfied that the applicant is suitable to hold the MMC and/or endorsement for which he or she has applied. If an application filed before the minimum assessment period has elapsed does not include evidence of suitability for service in the merchant marine, then the application will be considered incomplete and will not be processed by the Coast Guard.

(j) If a person with a criminal conviction submits their MMC application during the time between the minimum and maximum assessment periods shown in table 10.211(g) or established by the Coast Guard under paragraph (g) of this section, then the Coast Guard will consider the conviction and, unless there are offsetting factors, will grant the applicant the MMC and/or endorsement for which he or she has applied. Offsetting factors include such factors as multiple convictions, failure to comply with court orders (e.g., child support orders), previous failures at rehabilitation or reform, inability to maintain steady employment, or any connection between the crime and the safe operation of a vessel. If the Coast Guard considers the applicant unsuitable for service in the merchant marine at the time of application, the Coast Guard may disapprove the application.

(k) If a person with a criminal conviction submits their MMC application after the maximum assessment period shown in table 10.211(g) or established by the Coast Guard under paragraph (g) of this section, has elapsed, then the Coast Guard will grant the applicant the MMC or endorsement for which he or she has applied unless the Coast Guard considers the applicant still unsuitable for service in the merchant marine. If the Coast Guard disapproves an applicant with a conviction older than the maximum assessment period listed in table 10.211(g), the Coast Guard will notify the applicant in writing of the reason(s) for the disapproval. The Coast Guard will also inform the applicant, in writing, that the reconsideration and appeal procedures contained in subpart 1.03 of this chapter apply.

(l) If an applicant has one or more alcohol or dangerous drug related criminal or NDR listed convictions, if the applicant has ever been the user of, or addicted to the use of, a dangerous drug, or if the applicant applies before the minimum assessment period for his or her conviction has elapsed, the Coast Guard may consider the following factors, as applicable, in assessing the applicant's suitability to hold an MMC. This list is intended as a guide for the Coast Guard. The Coast Guard may consider other factors appropriate to a particular applicant, such as:

(1) Proof of completion of an accredited alcohol or drug abuse rehabilitation program;

(2) Active membership in a rehabilitation or counseling group, such as Alcoholics Anonymous or Narcotics Anonymous;

(3) Character references from persons who can attest to the applicant's sobriety, reliability, and suitability for employment in the merchant marine including parole or probation officers;

(4) Steady employment; and

(5) Successful completion of all conditions of parole or probation.

(m) In the event an MMC has already been issued when information about the applicant's criminal record is brought to the attention of the Coast Guard, if such information warrants the belief that the applicant cannot be entrusted with the duties and responsibilities of the MMC or endorsement issued, or if such information indicates that the application for the MMC or endorsement was false or incomplete, the Coast Guard may notify the holder in writing that the MMC is considered null and void, direct the holder to return it to the Coast Guard, and advise the holder that, upon return of the MMC, the appeal procedures of subpart 1.03 of part 1 of this chapter apply.

§ 10.213 National Driver Register.

(a) No MMC will be issued as an original or reissued with a new expiration date unless the applicant consents to a check of the NDR for offenses described in section 205(a)(3)(A) or (B) of the NDR Act (i.e., operation of a motor vehicle while under the influence of, or impaired by, alcohol or a controlled substance; and any traffic violations arising in connection with a fatal traffic accident, reckless driving, or racing on the highways).

(b) No person who has ever been convicted of an offense described in section 205 of the National Driver Register Act of 1982, as amended (49 U.S.C. 30304) because of addiction to or abuse of alcohol is eligible for an MMC, unless he or she furnishes satisfactory evidence of suitability for service in the merchant marine as provided in paragraph (g) of this section.

(c) The Coast Guard will not consider NDR-listed civil convictions that are more than three years old from the date of request unless that information relates to a current suspension or revocation of the applicant's License to operate a motor vehicle. The Coast Guard may determine minimum and maximum assessment periods for NDR listed criminal convictions using table 10.213(d). An applicant conducting simultaneous MMC transactions is subject to only one NDR check.

(d) The guidelines in table 10.213(d) will be used by the Coast Guard in evaluating applicants who have drug or alcohol related NDR listed convictions. Non-drug or alcohol related NDR-listed convictions will be evaluated by the Coast Guard under table 10.211(g) of § 10.211 as applicable.

Table 10.213(d).—Guidelines for Evaluating Applicants for MMCs Who Have NDR Motor Vehicle Convictions Involving Dangerous Drugs or Alcohol ¹
No. of convictions | Date of conviction | Assessment period
1 | Less than 1 year | 1 year from date of conviction.
1 | More than 1, less than 3 years | Application will be processed, unless suspension, or revocation ² is still in effect. Applicant will be advised that additional conviction(s) may jeopardize merchant mariner credentials.
1 | More than 3 years old | Not necessary unless suspension or revocation is still in effect.
2 or more | Any less than 3 years old | 1 year since last conviction and at least 3 years from 2nd most recent conviction, unless suspension or revocation is still in effect.
2 or more | All more than 3 years old | Application will be processed unless suspension or revocation is still in effect.
¹ Any applicant who has ever been the user of, or addicted to the use of, a dangerous drug shall meet the requirements of paragraph (a) of this section.
² Suspension or revocation, when referred to in table 10.213, means a State suspension or revocation of a motor vehicle operator's license.

(e) Any application may be disapproved if information from the NDR check leads the Coast Guard to determine that the applicant cannot be entrusted with the duties and responsibilities of the MMC or endorsement for which the application is made. If an application is disapproved, the Coast Guard will notify the applicant in writing of the reason(s) for disapproval and advise the applicant that the appeal procedures in subpart 1.03 of part 1 of this chapter apply. No examination will be given pending decision on appeal.

(f) Before disapproving an application because of information received from the NDR, the Coast Guard will make the information available to the applicant for review and written comment. The applicant may submit records from the applicable State concerning driving record and convictions to the Coast Guard Regional Examination Center (REC) processing the application. The REC will hold an application with NDR-listed convictions pending the completion of the evaluation and delivery by the individual of the underlying State records.

(g) If an applicant has one or more alcohol or dangerous drug related criminal or NDR-listed convictions, if the applicant has ever been the user of, or addicted to the use of, a dangerous drug, or if the applicant applies before the minimum assessment period for his or her conviction has elapsed, the Coast Guard may consider the following factors, as applicable, in assessing the applicant's suitability to hold an MMC. This list is intended as a guide for the Coast Guard. The Coast Guard may consider other factors, which he or she judges appropriate to a particular applicant, such as:

(1) Proof of completion of an accredited alcohol- or drug-abuse rehabilitation program;

(2) Active membership in a rehabilitation or counseling group, such as Alcoholics Anonymous or Narcotics Anonymous;

(3) Character references from persons who can attest to the applicant's sobriety, reliability, and suitability for employment in the merchant marine including parole or probation officers;

(4) Steady employment; and

(5) Successful completion of all conditions of parole or probation.

§ 10.215 Medical and physical requirements.

(a) Medical and Physical Exams. To qualify for an MMC the applicant must meet the medical and physical standards in this section. Columns 2 through 5 of table 10.215(a) provide the specific exam, test, or demonstrations required to obtain the corresponding credential listed in column 1. The criterion for assessing medical and physical competence are published by the U.S. Coast Guard. Any required test, exam or demonstration must have been performed or witnessed by a licensed medical doctor (including a Doctor of Osteopathy), licensed physician assistant, or licensed nurse practitioner.

(1) First class pilots must complete medical exams every 12 months and submit them to the Coast Guard.

(2) Medical exams for Great Lakes Pilots must be conducted by a licensed medical doctor in accordance with the physical exam requirements in 46 CFR 402.210.

Table 10.215(a);
1 Credential | 2 Vision test | 3 Hearing test | 4 General medical exam | 5 Demonstration of physical ability
(i) Deck Officers, including pilots | 10.215(b)(1)(i) | X | X | X
(ii) Engineering Officer | 10.215(b) (1)(ii) | X | X | X
(iii) Staff Officer |  |  |  | X
(iv) Radio Officer | 10.215(b) (1)(ii) | X | X | X
(v) Offshore Installation Manager, Barge Supervisor, or Ballast Control Operator | 10.215(b) (1)(ii) | X | X | X
(vi) Able Seaman | 10.215(b) (1)(i) | X | X | X
(vii) QMED | 10.215(b) (1)(ii) | X | X | X
(viii) RFPNW | 10.215(b) (1)(i) | X | X | X
(ix) RFPEW | 10.215(b) (1)(ii) | X | X | X
(x) Tankerman | 10.215(b) (1)(ii) | X | X | X
(xi) Proficiency in survival craft, rescue boats, and/or fast rescue boats and Lifeboatmen |  |  |  | X
(xii) Food handler |  |  | 10.215(d) | X
(xiii) Ratings, including entry-level, other than those listed above |  |  |  | X

(b) Vision Test—(1) Deck Standard. An applicant must have vision correctable to at least 20/40 in one eye and uncorrected vision of at least 20/200 in the same eye. An applicant having lost vision in one eye must wait six months before application and provide a statement of demonstrated ability on his or her medical examination. The color sense must be determined to be satisfactory when tested by any of the following methods, without the use of color sensing lenses:

(i) Pseudoisochromatic Plates (Dvorine, 2nd Edition; AOC; revised edition or AOC-HRR; Ishihara 16-, 24-, or 38-plate editions).

(ii) Eldridge—Green Color Perception Lantern.

(iii) Farnsworth Lantern.

(iv) Keystone Orthoscope.

(v) Keystone Telebinocular.

(vi) SAMCTT (School of Aviation Medicine Color Threshold Tester).

(vii) Titmus Optical Vision Tester.

(viii) Williams Lantern.

(2) Engineering, radio operator, tankerman, and MODU standard. An applicant must have correctable vision of at least 20/50 in one eye and uncorrected vision of at least 20/200 in the same eye. And need only have the ability to distinguish the colors red, green, blue and yellow.

(3) Any applicant whose uncorrected vision does not meet the standards listed above may not serve under the authority of the endorsement unless corrective lenses are worn and spare lenses are carried on board a vessel.

(c) Hearing test. Hearing thresholds should be checked at 500, 1000, 2000, and 3000 Hertz.

(1) For an original MMC, you should have an average unaided hearing threshold of 70 decibels (db) in each ear and a functional speech discrimination of at least 90% at 55 db for each ear.

(2) For all other credential activity you should have an average hearing threshold of 70 db or less for each ear and functional speech discrimination of at least 80 percent at 55 db for each ear.

(d) General medical exam. This exam must be documented and of such scope to ensure that there are no conditions that pose an inordinate risk of sudden incapacitation or debilitating complication. This exam must also document any condition requiring medication that impairs judgment or reaction time. Examples of physical impairment or medical conditions that could lead to disqualification include, but are not limited to, poorly controlled diabetes, myocardial infarctions, psychiatric disorders, and convulsive disorders. Additionally, food handlers must be free of communicable disease.

(e) The demonstration of physical ability. This exam is required for all mariners except entry-level mariners serving on vessels to which the STCW does not apply. It must document that the examiner is satisfied that the applicant:

(1) Has no disturbance in the sense of balance;

(2) Is able, without assistance, to climb up and down vertical ladders and inclined stairs;

(3) Is able, without assistance, to step over a door sill or coaming;

(4) Is able to grasp, lift, and manipulate various common shipboard tools; move hands and arms to open and close valve wheels in vertical and horizontal directions, and rotate wrists to turn handles;

(5) Does not have any impairment or disease that could prevent normal movement and physical activities;

(6) Is able to stand and walk for extended periods;

(7) Does not have any impairment or disease that could prevent response to a visual or audible alarm; and

(8) Is capable of normal conversation.

(f) Reports of medical and physical exams, demonstrations and tests. These reports must be submitted within 12 months from the date signed by the licensed medical professional. When submitted with a complete application package under § 10.209(c)(6), these reports remain valid for 12 months from the date of the application approval.

(g) Where an applicant does not possess the vision, hearing, or general physical condition necessary, the Coast Guard, after consultation with the examining physician or physician assistant, may recommend a waiver to the Commandant if extenuating circumstances warrant special consideration. An applicant may submit to the Coast Guard, additional correspondence, records and reports in support of this request. In this regard, recommendations from agencies of the Federal Government operating government vessels, as well as owners and operators of private vessels, made on behalf of their employees, will be given full consideration. Waivers are not normally granted to an applicant whose vision does not meet the requirements in § 10.227(1)(i) and (1)(ii).

§ 10.217 MMC application and examination locations.

(a) Applicants may apply for Merchant Mariner Credentials at any of the following Regional Examination Center locations: Alameda, CA., Anchorage, AK., Baltimore, MD., Boston, MA., Charleston, SC., Honolulu, HI., Houston, TX., Juneau, AK., Memphis, TN., Miami, FL., New Orleans, LA., New York, NY., Portland, OR., San Pedro, CA., Seattle, WA., St. Louis, MO., Toledo, OH.

(b) Coast Guard-designated facilities. The Coast Guard may designate additional locations to provide services to applicants for MMCs.

(c) Exam Locations. (1) Coast Guard Merchant Marine Details may conduct exams at locations other than the Regional Exam Centers, but are not prepared to conduct the physical examination where required. Merchant Marine Details may not issue regular certificates, but temporary permits in lieu thereof. Merchant Marine Details will instruct the recipient of each temporary permit to present it to the Officer in Charge, Marine Inspection, upon arrival in the first port in the United States in which a Sector is located in order to exchange it for a permanent certificate.

(2) The temporary permit must be accepted in a Sector as proof that the bearer has complied with the rules and regulations governing the issuance of certificates, except as noted in the body of the temporary permit. The requirements noted in the exceptions will be complied with as in the case of other applicants.

(3) The written examinations are forwarded to the National Maritime Center by Merchant Marine Details, and any Sector at which an applicant with a temporary permit appears and may request and obtain the examination from the National Maritime Center. Any Sector which doubts the propriety of issuing a permanent certificate instead of a temporary permit which has been issued by a foreign Merchant Marine Detail must inform the National Maritime Center fully as to the circumstances.

§ 10.219(a) Fees.

(a) Use table 10.219(a) of this section to calculate the mandatory fees for MMCs and associated endorsements.

Table 10.219(a).—Fees
If you apply for | And you need* * *: Evaluation then the fee is* * * | And you need* * *: Examination then the fee is* * * | And you need* * *: Issuance then the fee is* * *
MMC with Officer Endorsement:
Original:
Upper level | $100 | $110 | $45
Lower level | 100 | 95 | 45
Raise of grade | 100 | 45 | 45
Modification or removal of limitation or scope | 50 | 45 | 45
Endorsement | 50 | 45 | 45
Renewal | 50 | 45 | 45
Radio Officer Endorsement:
Original | 50 | 45 | 45
Renewal | 50 | n/a | 45
Staff Officer Endorsements:
Original | 90 | n/a | 45
Renewal | 50 | n/a | 45
MMC with Rating Endorsement:
Original endorsement for ratings other than qualified ratings | 95 | n/a | 45
Original endorsement for qualified rating | 95 | 140 | 45
Upgrade or Raise in Grade | 95 | 140 | 45
Renewal endorsement for ratings other than qualified ratings | 50 | n/a | 45
Renewal endorsement for qualified rating | 50 | 45 | 45
STCW Certification:
Original | No fee | No fee | No fee
Renewal | No fee | No fee | No fee
Certificate of Continuity | n/a | n/a | 45
Reissue, Replacement, and Duplicate | n/a | n/a | 45 ¹
¹ Duplicate for MMC lost as result of marine casualty—No Fee.

(b) Fee payment procedures. You may pay:

(1) All fees required by this section when you submit your application; or

(2) A fee for each phase at the following times:

(i) An evaluation fee when you submit your application.

(ii) An examination fee before you take the first examination section.

(iii) An issuance fee before you receive your MMC.

(c) If you take your examination someplace other than a Regional Examination Center (REC), you must pay the examination fee to the REC at least one week before your scheduled examination date.

(d) Unless the REC provides additional payment options, your fees must be paid as follows:

(1) Your fee payment must be for the exact amount.

(2) Make your check or money order payable to the U.S. Coast Guard, and write your social security number on the front of each check or money order.

(3) If you pay by mail, you must use either a check or money order.

(4) If you pay in person, you may pay with cash, check, credit card, or money order at Coast Guard units where Regional Examination Centers are located.

(e) Unless otherwise specified in this part, when two or more endorsements are processed on the same application:

(1) Evaluation fees. If an applicant simultaneously applies for a rating endorsement and a deck or engineer officer's endorsement, only the evaluation fee for the officer's endorsement will be charged. If an applicant also simultaneously applies for a staff officer or radio officer endorsement along with the deck or engineer officer's endorsement, only the evaluation fee for the deck or engineer officer's endorsement will be charged. No evaluation fee is charged for an STCW Endorsement.

(2) Examination fees. One examination fee will be charged for each exam or series of exams for an original, raise in grade, or renewal of an endorsement on an MMC taken within one year from the date of the application approval. An examination fee will also be charged to process an open book exercise used to renew an MMC. If an officer endorsement examination under part 11 of this chapter also fulfills the examination requirements in part 12 of this chapter for rating endorsements, only the fee for the officer endorsement examination is charged.

(3) Issuance fees. Only one issuance fee will be charged for each MMC application.

(f) The Coast Guard may assess additional charges to anyone to recover collection and enforcement costs associated with delinquent payments, failure to pay a fee, or returned checks. The Coast Guard will not provide credentialing services to a mariner who owes money for credentialing services previously provided.

(g) Anyone who fails to pay a fee or charge established under this subpart is liable to the United States Government for a civil penalty of not more than $5,000 for each violation.

(h) No-fee MMC for certain applicants. (1) For the purpose of this section, a no-fee MMC applicant is a person who is a volunteer, or part-time or full-time employee of an organization which is:

(i) Charitable in nature.

(ii) Not for profit.

(iii) Youth oriented.

(2) Determination of eligibility. (i) An organization may submit a written request to Commanding Officer, U.S. Coast Guard National Maritime Center, 4200 Wilson Boulevard, Suite 630, Arlington, VA 22203-1804, in order to be considered an eligible organization under the criteria set forth in paragraph (h)(1) of this section. With the written request, the organization must provide evidence of its status as a youth oriented, not for profit, charitable organization.

(ii) The following organizations are accepted by the Coast Guard as meeting the requirements of paragraph (h)(1) of this section and need not submit evidence of their status: Boy Scouts of America, Sea Explorer Association, Girl Scouts of the United States of America, and Young Men's Christian Association of the United States of America.

(3) A letter from an organization determined eligible under paragraph (h)(2) of this section must also accompany the person's MMC application to the Coast Guard. The letter must state that the purpose of the person's application is solely to further the conduct of the organization's maritime activities. The applicant then is eligible under this section to obtain a no-fee MMC if other requirements for the MMC are met.

(4) An MMC issued to a person under this section is endorsed restricting its use to vessels owned or operated by the sponsoring organization.

(5) The holder of a no-fee MMC issued under this section may have the restriction removed by paying the appropriate evaluation, examination, and issuance fees that would have otherwise applied.

§ 10.221 Applications submitted by aliens.

No MMC may be issued to an alien unless the alien is lawfully admitted to the United States for permanent residence. Only individuals with valid U.S. citizenship may apply for officer endorsements.

§ 10.223 Modification or removal of limitations.

(a) If an Officer in Charge, Marine Inspection, (OCMI) is satisfied by the documentary evidence submitted that an applicant is entitled by experience, training, and knowledge to an endorsement or increase in the scope of any MMC held, any limitations that were previously placed upon the MMC by that OCMI may be changed or removed. Such an increase in scope may include a change in horsepower or tonnage limitations, or geographic route restrictions.

(b) A endorsement limitation on an MMC may not be changed before full information regarding the reason for the limitation is obtained from the OCMI responsible for that limitation.

(c) No limitation on any endorsement may be changed before the applicant has made up any deficiency in the experience prescribed for the endorsement or endorsement desired and passed any necessary examination.

§ 10.225 Issuance of Merchant Mariner Credentials.

(a) Applications are valid for 12 months from the date of approval.

(b) Oath. Every person who receives an original MMC must first take an oath, before an official authorized to give such oath, that he or she will faithfully and honestly, according to his or her best skill and judgment, without concealment or reservation, perform all the duties required by law and obey all lawful orders of superior officers. An oath may be administered by any Coast Guard-designated individual or any person legally permitted to administer oaths in the jurisdiction where the person taking the oath resides. An oath administered at a location other than those listed in § 10.217 must be verified in writing by the administering official and submitted to the same Regional Examination Center where the applicant applied for his or her MMC. This oath remains binding for any subsequently issued MMC and endorsements added to the MMC unless specifically renounced in writing.

(c) Upon determining that the applicant satisfactorily meets all requirements for an MMC or an endorsement thereon, the Coast Guard will issue the properly endorsed MMC to the applicant.

(d) When a new MMC is issued, the mariner must return the previously issued MMC, License, MMD, or STCW Endorsement, unless the new MMC is being issued to replace a lost or stolen credential.

§ 10.227 Additional requirements for renewal.

(a) In addition to the requirements in § 10.209 of this part, applicants for renewal must also meet the requirements of this section. Except as provided in paragraph (i) of this section, an applicant for renewal of a credential must establish possession of all of the necessary qualifications before the MMC will be renewed.

(b) A credential may be renewed at any time during its validity and for one year after expiration.

(c) Applications are valid for 12 months from the date of approval.

(d) Each application must be on a Coast Guard-furnished form and be accompanied by the appropriate fee set forth in § 10.219 of this part.

(e) The applicant must submit the original or a photocopy of the MMC, MMD, License, Certificate of Registry, or STCW Endorsement to be renewed. A photocopy must include the back and any attachments. If requested, the old credential, with the exception of the MMC, will be returned to the applicant.

(f) No credential will be renewed if it has been suspended without probation or revoked as a result of action under part 5 of this chapter or if facts that would render a renewal improper have come to the attention of the Coast Guard.

(g) Professional requirements. (1) In order to renew a License or MMC with endorsement as master, mate, engineer, pilot, operator, or qualified rating the applicant must either—

(i) Present evidence of at least one year of sea service during the past five years;

(ii) Pass a comprehensive, open-book exercise covering the general subject matter contained in appropriate sections of subpart I of this part;

(iii) Complete an approved refresher training course; or

(iv) Present evidence of employment in a position closely related to the operation, construction or repair of vessels (either deck or engineer as appropriate) for at least three years during the past five years. An applicant for a deck license or officer endorsement with this type of employment must also demonstrate knowledge on an applicable Rules of the Road exercise.

(2) The qualification requirements for renewal of radar observer endorsement are in § 11.480 of this chapter.

(3) Additional qualification requirements for renewal of an officer endorsement as first-class pilot are contained in § 11.713 of this chapter.

(4) An applicant for renewal of a radio officer's endorsement must, in addition to meeting the requirements of this section, present a currently valid license as first- or second-class radiotelegraph operator issued by the Federal Communications Commission. This license will be returned to the applicant.

(5) An applicant for renewal of an endorsement as medical doctor or professional nurse must, in addition to meeting the requirements of this section, present evidence that he or she holds a currently valid appropriate license as physician, surgeon, or registered nurse issued under the authority of a State or territory of the United States, the Commonwealth of Puerto Rico, or the District of Columbia. Any such renewal will retain the limitations placed upon the medical license by the issuing body. There are no professional requirements for renewal of an endorsement as marine physician assistant or hospital corpsman.

(6) An applicant for renewal of an endorsement as master or mate (pilot) of towing vessels must submit satisfactory evidence of—

(i) Having completed a practical demonstration of maneuvering and handling a towing vessel to the satisfaction of a designated examiner; or

(ii) Ongoing participation in training and drills during the validity of the License or MMC being renewed.

(h) Except as otherwise provided, each candidate for a renewal of an STCW endorsement must meet the applicable requirements of § 11.202 of this chapter and must meet the requirements of Section A-VI/2, paragraph 1 to 4 of the STCW Code.

(i) Inactive renewal (certificate of continuity). (1) Applicants for renewal who are unwilling or otherwise unable to meet the requirements of paragraph (g) of this section or the medical and physical standards of § 10.215 of this part may renew their credential by applying for a certificate of continuity. The certificate of continuity will appear in the form of an MMC with the following restrictive endorsement: “Merchant Mariner Credential renewed for continuity purposes only; service under the authority of this credential is prohibited.” Holders of MMCs with this continuity endorsement may have the prohibition rescinded at any time by satisfying the renewal requirements in paragraph (g) of this section, and the medical and physical standards of §§ 10.215 and 10.209(c)(9).

(2) Applications for renewal with the continuity endorsement must include:

(i) The credential to be renewed, or, if it is unexpired, a photocopy of the credential including the back and all attachments; and

(ii) A signed statement from the applicant attesting to an awareness of the restriction to be placed on the renewed MMC, and of the requirements for rescinding the continuity endorsement.

(j) Administrative grace period. Except as provided herein, a credential may not be renewed more than 12 months after it has expired. To obtain a reissuance of the credential, an applicant must comply with the requirements of paragraph (k) of this section. When an applicant's credential expires during a time of service with the Armed Forces and there is no reasonable opportunity for renewal, including by mail, this period may be extended. The period of military service following the date of expiration which precluded renewal may be added to the 12-month grace period. The 12-month grace period and any extensions do not affect the expiration date of the credential. A License, MMD, COR, STCW Certificate, MMC, and any endorsements, are not valid for use after the expiration date.

(k) Re-issuance of expired credentials. (1) Whenever an applicant applies for re-issuance of an endorsement as deck officer, engineer officer, or qualified rating more than 12 months after expiration, instead of the requirements of paragraph (g) of this section, the applicant must demonstrate continued professional knowledge by completing a course approved for this purpose, or by passing the complete examination. The examination may be oral-assisted if the expired credential was awarded on an oral exam. The fees set forth in § 10.219 apply to these examinations. In the case of an expired radio officer's endorsement, the endorsement may be issued upon presentation of a valid first- or second-class radiotelegraph operator license issued by the Federal Communications Commission.

(2) An endorsement for chief purser, purser, senior assistant purser, junior assistant purser, hospital corpsman, marine physician assistant, medical doctor, or professional nurse that has been expired for more than 12 months shall be renewed in the same way as a current endorsement of that type. There are no additional requirements for reissuing endorsements for chief purser, purser, senior assistant purser, junior assistant purser, hospital corpsman, marine physician assistant, medical doctor, or professional nurse that have been expired for more than 12 months.

(l) Submission of application materials. The written portion of the application may be submitted by mail, fax, or other electronic means. The written portion of the application may include:

(1) A properly completed application on a Coast Guard furnished form and the evaluation fee required by § 10.219 of this part;

(2) The expired credential to be renewed; or, if it has not expired, a photocopy of the credential, including the back and all attachments;

(3) Proof that the applicant passed the applicable vision, hearing, medical or physical exam as required by § 10.215 of this part;

(4) If the applicant desires to renew a credential with a radar observer endorsement, either the radar observer certificate or a certified copy;

(5) Evidence of, or acceptable substitute for, sea service for the renewal of an officer's endorsement;

(6) For an endorsement as a medical doctor or professional nurse, evidence that the applicant holds a currently valid, appropriate license as physician, surgeon, or registered nurse, issued under the authority of a state or territory of the United States, the Commonwealth of Puerto Rico, or the District of Columbia. Any MMC issued will retain any limitation associated with the medical license; and

(7) The open-book exercise, if required, may be administered through the mail.

§ 10.229 Issuance of duplicate Merchant Mariner Credentials.

(a) Upon request and without examination, a mariner may be issued a duplicate credential after submitting an application with an affidavit describing the circumstances of the loss. The Coast Guard will only issue the duplicate credential after confirming the validity of the mariner's credential and TWIC.

(b) The duplicate will have the same authority, wording, and expiration date as the lost credential. A duplicate credential will reference the serial number, type, place of issue, and date of issue of the replaced credential(s). The duplicate issued will be in the form of an MMC. Until [date 5 years after the effective date of the final rule], if a mariner seeks a duplicate of more than one credential, the MMC issued will reflect endorsements for all credentials lost, and the expiration date will match the earliest expiration date of the credentials lost.

(c) If a person loses a credential by shipwreck or other casualty, a duplicate will be issued free of charge. The term “other casualties” includes any damage to a ship caused by collision, explosion, tornado, wreck, flooding, beaching, grounding, or fire; or personal loss associated with a federally declared natural disaster.

(d) If a person loses a credential by means other than those noted in paragraph (c) of this section and applies for a duplicate, the appropriate fee set out in § 10.219 must be paid.

(e) No application from an alien for a duplicate credential will be accepted unless the alien complies with the requirements of § 10.221 of this part.

(f) The Coast Guard may deny applications for duplicate credentials for any reason listed in § 10.211.

§ 10.231 Additional requirements for raises of grade for officer endorsements.

(a) General. In addition to the requirements of § 10.209, before any person is issued a raise of grade of officer endorsement, the applicant must present satisfactory documentary evidence of eligibility. Each applicant must make written application on a Coast Guard furnished form and, unless exempted under § 10.219(h), submit the evaluation fee set out in § 10.219 of this part.

(b) Surrendering old License or MMC. Upon the issuance of a new endorsement for raise of grade, the applicant must surrender the old License or MMC to the OCMI. If requested, the old License or MMC may be returned to the applicant after cancellation.

(c) Age, experience, training, and assessment. (1) Each applicant for a raise of grade must establish that he or she possesses the age, experience, and training necessary, and has been examined and otherwise assessed as may be required to establish competence to hold the particular endorsement requested, before he or she is entitled to a raise in grade.

(2) Applicants for raise of grade must present to the OCMI at a Regional Examination Center or other Coast Guard-designated facility, letters, discharges, or other official documents certifying to the amount and character of their experience and the names of the vessels on which acquired. Certificates of discharge are returned to the applicant after review by the OCMI. All other documentary evidence of service, or copies thereof, are filed with the application.

(3) Sea service acquired prior to the issuance of the officer endorsement held is generally not accepted as any part of the service required for raise of grade of that endorsement. However, service acquired prior to issuance of an officer endorsement will be accepted for certain crossovers, endorsements, or increases in scope of an MMC, as appropriate. In the limited tonnage categories for deck officers, total accumulated service is a necessary criterion for most raises in grade; service acquired before the issuance of such officer endorsements will, therefore, be accepted.

(4) No raise of grade may be issued to any naturalized citizen on less experience in any grade than would have been required of a citizen of the United States by birth.

(5) Experience and service acquired on foreign vessels while holding a valid U.S. officer endorsement is creditable for establishing eligibility for a raise of grade, subject to evaluation by the OCMI to determine that it is a fair and reasonable equivalent to service acquired on merchant vessels of the United States, with respect to grade, tonnage, horsepower, waters, and operating conditions. An applicant who has obtained the qualifying experience on foreign vessels shall submit satisfactory documentary evidence of such service (including any necessary translations into English) in the forms prescribed by paragraph (c)(2) of this section.

(6) An applicant remains eligible for a raise of grade while on probation as a result of action under part 5 of this chapter. A raise of grade issued to a person on probation will be subject to the same probationary conditions imposed against the applicant's other credentials. The offense for which he or she was placed on probation will be considered on the merits of the case in determining fitness to hold the endorsement applied for. No applicant will be examined for a raise of grade during any period when a suspension without probation or a revocation imposed under part 5 of this chapter is effective against the applicant's credential or while an appeal from these actions is pending.

(d) Professional examination. (1) (i) When the OCMI finds an applicant's experience and training for raise of grade to be satisfactory and the applicant is eligible in all other respects, the OCMI will authorize the examination. Oral-assisted examinations may be administered in accordance with § 11.205(f) of this chapter. The OCMI will place in the applicant's file a record indicating the subjects covered.

(ii) The general instructions for administration of examinations and the lists of subjects for all officer endorsements appear in part 11, subpart I of this chapter.

(2) The qualification requirements for radar observer are contained in § 11.480 of this chapter.

(e) Firefighting certificate. Applicants for endorsements for which § 11.205(d) of this chapter applies must meet the requirements contained in that section.

§ 10.233 Obligations of the holder of a Merchant Mariner Credential.

(a) The holder of a credential may not voluntarily part with it or place it beyond his or her personal control by pledging or depositing it with any other person for any purpose. If the holder violates this section, he or she may be proceeded against under part 5 of this chapter, looking to a suspension or revocation of the License or credential.

(b) Whenever a mariner loses a credential, he or she must immediately report the loss to the Coast Guard. The report must be made in writing, giving the facts incident to its loss.

(c) Invalid credentials must be returned to the Coast Guard upon request.

§ 10.235 Suspension or revocation of Merchant Mariner Credentials.

(a) Any MMC or endorsement is subject to suspension or revocation on the same grounds, in the same manner, and with like procedure as provided in 46 U.S.C. chapter 77.

(b) When any individual's credential is revoked, it is no longer valid for any purpose and any MMC subsequently requested must be applied for as an original. When an endorsement on an individual's MMC is revoked, it is no longer valid and any endorsement of the same type subsequently requested must be applied for as an original. When an officer's endorsement is revoked, the Coast Guard will issue an MMC containing any rating endorsement for which the holder is qualified.

(c) An applicant who has had a TWIC, credential, or endorsement revoked, and who is applying for a subsequent MMC or endorsement, must state in his or her application the date of revocation, the serial number of the document revoked, and the type of document or endorsement revoked.

(d) A person whose credential or endorsement has been revoked or suspended without probation may not be issued a replacement credential or endorsement without approval of the Commandant.

(e) When a credential or endorsement that is about to expire has been suspended, the renewal of the credential or endorsement will be withheld until expiration of the suspension period.

(f) An applicant for renewal or return of a credential with endorsement as master or mate (pilot) of towing vessels whose most recent credential has been suspended or revoked by an administrative law judge for incompetence must complete the practical demonstration required under § 10.227(g)(6)(i).

(g) If the Coast Guard is advised by the Transportation Security Administration that a mariner's TWIC has been revoked, the mariner's credential will immediately become invalid. If a credential is invalidated in this manner, the Coast Guard will notify the applicant in writing of the invalidation, the reason for the invalidation, and their right of appeal.

§ 10.237 Right of appeal.

(a) Any person directly affected by a decision or action taken under this subchapter, by or on behalf of the Coast Guard, may appeal under the provisions of subpart 1.03 of part 1 of this chapter.

(b) If the Coast Guard refuses to grant an applicant an MMC or endorsement, a written statement listing the reason(s) for denial will be provided, unless the Coast Guard determines that such disclosure of information is prohibited by law, regulation, or agency policy.

PART 11—NEWLY REDESIGNATED FROM PART 10 AND AMENDED]

91. The authority citation for part 11 continues to read as follows:

Authority: 14 U.S.C. 633; 31 U.S.C. 9701; 46 U.S.C. 2101, 2103, and 2110; 46 U.S.C. chapter 71; 46 U.S.C. 7502, 7505, 7701, and 8906; Executive Order 10173; Department of Homeland Security Delegation No. 0170.1. Section 11.107 is also issued under the authority of 44 U.S.C. 3507.

92. In newly redesignated § 11.101—

a. Revise paragraphs (a) introductory text and (a)(1) to read as set out below;

b. In paragraph (a)(2), remove the words “certificate or” and, after the words “as amended”, remove the words “in 1995”;

c. In paragraph (b), remove the word “license” and add, in its place, the words “officer endorsements”; remove the words “all licensed personnel shall” and add, in their place, the words “each officer credentialed under this part must”; and, after the words “characteristics of”, remove the word “each” and add, in its place, the word “a”; and

d. In paragraph (c)(1), remove the words “license or license endorsement” and add, in their place, the words “officer endorsement”:

§ 11.101 Purpose of regulations.

(a) These regulations provide—

(1) A means of determining the qualifications an applicant must possess to be eligible for an officer endorsement as a staff officer, deck officer, engineer, pilot, or radio officer on merchant vessels, or for an endorsement to operate uninspected passenger vessels; and

* * * * *

93. Revise newly redesignated § 11.102 to read as follows:

§ 11.102 Incorporation by reference.

(a) Certain material is incorporated by reference into this part with the approval of the Director of the Federal Register under 5 U.S.C. 552(a) and 1 CFR part 51. To enforce any edition other than that specified in this section, the Coast Guard must publish a notice of change in the Federal Register and the material must be available to the public. All approved material is available for inspection at the National Archives and Records Administration (NARA). For information on the availability of this material at NARA, call 202-741-6030 or go to http://www.archives.gov/federal_register/code_of_federal_regulations/ibr_locations.html. Also, it is available for inspection at the Coast Guard, Office of Operating and Environmental Standards (G-PSO), 2100 Second Street SW., Washington, DC 20593-0001, and is available from the sources indicated in this section.

(b) International Maritime Organization (IMO), 4 Albert Embankment, London, SE1, 7SR, England:

(1) The International Convention on Standards of Training, Certification and Watchkeeping for Seafarers, 1978, as amended (the STCW Convention or the STCW), approved for incorporation by reference in § § 11.202, 11.304, 11.603; 11.901, 11.903, 11.1005, and 11.1105.

(2) The Seafarers” Training, Certification and Watchkeeping Code, as amended (the STCW Code), approved for incorporation by reference in § § 11.202, 11.304, 11.603, 11.901, 11.903, 11.1005, and 11.1105.

§ 11.103 [Removed and Reserved]

94. Remove and reserve newly redesignated § 11.103.

§ 11.105 [Removed and Reserved]

95. Remove and reserve newly redesignated § 11.105.

96. In newly redesignated § 11.107, revise paragraphs (b)(1), (2) and (3) to read as follows:

§ 11.107 Paperwork approval.

* * * * *

(b) * * *

(1) OMB 1625-0040-46 CFR 11.201, 11.202, 11.205, 11.470, 11.472, 11.474, 11.542, and 11.544.

(2) OMB 1625-028-46 CFR 11.302, 11.303, 11.304, 11.480.

(3) OMB 1625-0079-46 CFR 11.304 and 11.309.

§ 11.109 [Removed and Reserved]

97. Remove and reserve newly redesignated § 11.109.

§ 11.110 [Removed and Reserved]

98. Remove and reserve newly redesignated § 11.110.

§ 11.111 [Removed and Reserved]

99. Remove and reserve newly redesignated § 11.111.

§ 11.112 [Removed and Reserved]

100. Remove and reserve newly redesignated § 11.112.

§ 11.201 [Amended]

101. In newly redesignated § 11.201—

a. In the section heading, remove the words “licenses and certificates of registry” and add, in their place, the words “officer endorsements and STCW endorsements”;

b. In paragraph (a), remove the words “The applicant for a license or certificate of registry”, and add the words “In addition to the requirements of part 10 of this chapter, the applicant for an officer endorsement”; and, after the words “will issue a”, remove the words “license or certificate of registry” and add, in their place, the words “merchant mariner credential (MMC)”;

c. Remove paragraphs (b) and (j) and redesignate paragraphs (c) through (i) as paragraphs (b) through (h), respectively;

d. In redesignated paragraph (b), remove the text “§ 10.467(h)”; and add, in its place, the text “§ 11.467(h)” and remove the words “of the part, an applicant for a license” and add, in their place, the words “this part, an applicant for an officer endorsement”;

e. Revise redesignated paragraph (c) to read as set out below;

f. In redesignated paragraph (d), remove the words “license or certificate of registry” and add, in their place, the words “officer endorsement”;

g. Revise redesignated paragraph (e) to read as set out below;

h. In redesignated paragraph (f), remove the word “recommended” and add, in its place, the word “encouraged” and remove the words “of ascertaining” and add, in their place, the words “to ascertain”; and before the words “color vision” remove the word “and”; and after the words “color vision”, add the words “, hearing, and general physical condition”; and remove the words “of an officer at sea is cause for denial of a license” and add, in their place, the words “required of an officer at sea is cause for denial of an officer endorsement”;

i. Revise redesignated paragraphs (g) and (h) and add new paragraph (i) to read as follows:

§ 11.201 Eligibility for officer endorsements and STCW endorsements, general.

* * * * *

(c) An applicant for an officer endorsement must have at least 3 months of qualifying service on vessels of appropriate tonnage or horsepower within the 3 years immediately preceding the date of application.

* * * * *

(e) Except as specified in this paragraph, no officer endorsement may be issued to a person who has not attained the age of 21 years. The required evidence of age may be established using any of the items submitted to establish citizenship set out in § 10.209 of this chapter:

(1) An endorsement may be granted to an applicant who has reached the age of 19 years as:

(i) Master of near coastal, Great Lakes and inland, inland, or river vessels of 25-200 GRT;

(ii) Third mate;

(iii) Third assistant engineer;

(iv) Mate of vessels of 200-1600 GRT;

(v) Ballast control operator;

(vi) Assistant engineer (MODU);

(vii) Assistant engineer of fishing industry vessels;

(viii) Mate (pilot) of towing vessels;

(ix) Radio officer;

(x) Assistant engineer (limited-oceans); or

(xi) Designated duty engineer of vessels of not more than 4000 horsepower.

(2) An endorsement may be granted to an applicant who has reached the age of 18 years as:

(i) Limited master of near coastal vessels of not more than 100 GRT;

(ii) Limited master of Great Lakes and inland vessels of not more than 100 GRT;

(iii) Mate of Great Lakes and inland vessels of 25-200 GRT;

(iv) Mate of near coastal vessels of 25-200 GRT;

(v) Operator of uninspected passenger vessels;

(vi) Designated duty engineer of vessels of not more than 1,000 horsepower; or

(vii) Apprentice mate (steersman) of towing vessels.

* * * * *

(g) Applications for an original officer's endorsement, raises of grade, extensions of route, or STCW endorsements must be current and up-to-date with respect to service and the physical examination, as appropriate. Physical examinations and applications are valid for 12 months from the date the application is approved.

(h) Applicants for an endorsement as operator of uninspected passenger vessels must meet the requirements for an officer endorsement.

(i) The Officer in Charge, Marine Inspection (OCMI), may modify the service and examination requirements in this part to satisfy the unique qualification requirements of an applicant. The OCMI may also lower the age requirement for operator of uninspected passenger vessels license applicants. The authority granted by a license will be restricted on its face to reflect any modifications made under the authority of this paragraph. These restrictions may not be removed without the approval of the OCMI issuing the license.

102. Revise newly redesignated § 11.202 to read as follows:

§ 11.202 STCW endorsements.

(a) When an original MMC is issued, renewed, upgraded, or otherwise modified, the OCMI will determine whether the applicant needs to have an STCW endorsement for service on a seagoing vessel and then, if the applicant is qualified, will issue the appropriate endorsement. The OCMI will also issue an STCW endorsement at other times, if circumstances so require and if the applicant is qualified to hold the endorsement.

(b) Basic safety training or instruction. Except as provided in paragraph (f) of this section, an STCW endorsement will be issued only when the candidate provides evidence of having achieved or, if training has been completed, having maintained the minimum standards of competence for the following four areas of basic safety within the previous five years upon assessment of a practical demonstration of skills and abilities:

(1) Personal survival techniques as set out in table A-VI/1-1 of the STCW Code (Incorporated by reference in § 11.102).

(2) Fire prevention and fire-fighting as set out in table A-VI/1-2 of the STCW Code (Incorporated by reference, see § 11.102.).

(3) Elementary first aid as set out in table A-VI/1-3 of the STCW Code (Incorporated by reference, see § 11.102.).

(4) Personal safety and social responsibilities as set out in table A-VI/1-4 of the STCW Code (Incorporated by reference § 11.102.).

(c) Competence in the use of Automatic Radar-Plotting Aids (ARPA). (1) Subject to paragraphs (c)(2) and (f) of this section, each candidate for an STCW endorsement as master or mate for service on vessels in ocean or near-coastal service, must present a certificate of completion from an approved course or from accepted training on an ARPA simulator. The course or training must be sufficient to establish that the applicant is competent to maintain safe navigation through the proper use of ARPA, by correctly interpreting and analyzing the information obtained from that device and taking into account both the limitations of the equipment and the prevailing circumstances and conditions. The simulator used in the course or training must meet or exceed the performance standards established under STCW Regulation I/12 of the 1995 Amendments.

(2) Training and assessment in the use of ARPA are not required for mariners serving exclusively on vessels not fitted with ARPA. However, when any mariner so serving has not completed it, his or her STCW endorsement will indicate this limitation.

(d) Endorsement for operator of radio in the Global Maritime Distress and Safety System (GMDSS). (1) Subject to paragraphs (d)(2) and (f) of this section, each candidate for an STCW endorsement as master or mate for service in vessels in ocean or near-coastal service, shall present:

(i) A certificate for operator of radio in the GMDSS issued by the Federal Communication Commission (FCC); and

(ii) A certificate of completion from a Coast Guard-approved or accepted course for operator of radio in the GMDSS or from another approved or accepted program of training and assessment covering the same areas of competence. The course or program must be sufficient to establish that the applicant is competent to perform radio duties on a vessel participating in the GMDSS and meets the standard of competence under STCW Regulation IV/2.

(2) Paragraph (d)(1) of this section does not apply to a candidate intending to serve only as a pilot, or intending to serve only on vessels not required to comply with the provisions of the GMDSS in Chapter IV of the Convention for the Safety of Life at Sea, 1974, as amended (SOLAS).

(3) Each candidate presenting a certificate described in paragraph (d)(1) of this section may receive a GMDSS endorsement.

(e) Procedures for bridge team work. Except as otherwise provided in paragraph (f) of this section, each candidate for an STCW endorsement as master or mate for service on vessels in ocean or near-coastal service, must present sufficient documentary proof that he or she understands and can effectively apply procedures for bridge team work as an essential aspect of maintaining a safe navigational watch, taking into account the principles of bridge-resource management enumerated in Section B-VIII/2 of the STCW Code.

(f) Notwithstanding paragraph (b) through (e) of this section, § 11.304, and § 11.901, each mariner found qualified to hold any of the following officer endorsements will also be entitled to hold an STCW endorsement corresponding to the service or other limitations on the MMC, because the vessels concerned are not subject to further obligation under STCW because of their special operating conditions as small vessels engaged in domestic voyages:

(1) Masters, mates, or engineers endorsed for service on small passenger vessels that are subject to subchapter T or K of this chapter and that operate beyond the boundary line.

(2) Masters, mates, or engineers endorsed for service on seagoing vessels of less than 200 gross register tons (GRT), other than passenger vessels subject to subchapter H of this chapter.

(g) No mariner serving on, and no owner or operator of any of the following vessels, need hold an STCW endorsement, because they are exempt from application of STCW:

(1) Uninspected passenger vessels as defined in 46 U.S.C. 2101(42).

(2) Fishing vessels as defined in 46 U.S.C. 2101(11)(a).

(3) Fishing vessels used as fish-tender vessels as defined in 46 U.S.C. 2101(11)(c).

(4) Barges as defined in 46 U.S.C. 2101(2), including non-self-propelled mobile offshore drilling units.

(5) Vessels operating exclusively on the Great Lakes or on the inland waters of the U.S. in the Straits of Juan de Fuca inside passage.

103. Revise newly redesignated § 11.203 to read as follows:

§ 11.203 Quick reference table for MMC requirements.

Table 11.203 provides a guide to the requirements for officer endorsements. Provisions in the reference section are controlling.

Table 11.203
Endorsement category | Minimum age | Citizenship | Medical and physical exam | Experience | Recommendations and character check | Firefighting | Professional exam | Demonstration of professional ability | Recency of service | First aid and CPR
Master, mates and operators of uninspected passenger vessels (original) | 21, 11.201(e) Note: exceptions | U.S., 10.209(c)(6) no exceptions | Yes, 10.215 Note: exceptions | Yes, 11.205(e); subpart D | 11.205(c) | 11.205(d) Note: exceptions | Yes, 11.205 (f); 11.910 Note: 11.903(b) | Yes, 11.901(c); 11.903(c) | Yes, 3 months in past 3 years, 11.201(c) | 11.205(e) Note: exceptions.
Engineers (original) | 21, 11.201(e) Note: exceptions | U.S., 10.209(c)(6) no exceptions | Yes, 10.215 Note: exceptions | Yes, 11.205(e); subpart E | 11.205(c) | 11.205(d) | 11.205(f); 11.950 | Yes, 11.901(c); 11.903(c) | Yes, 3 months in past 3 years, 11.201(c) | 11.205(e) Note: exceptions.
Officer raises of grade | 21, 11.201(e) Note: exceptions | U.S., 10.209(c)(6) no exceptions | Yes, 10.215 Note: exceptions | Yes, 10.231(c); subpart D and E | N/A | Yes; 10.231(e) | Yes, 10.231(d); 11.910; 11.920; 11.950 | Yes, 11.901(c); 11.903(c) | Yes, 3 months in past 3 years, 11.201(c) | N/A.
Officer renewals | N/A | U.S., 10.209(c)(6) no exceptions | Yes, 10.215 Note: exceptions | Yes, 10.227(g) Note: exceptions | N/A | N/A | 10.227(g) | Towing officers, 10.227(i) | Yes, 1 year in past 5, 10.227(g) Note: alternative | N/A.
Pilot | 21, 46 U.S.C. 7101 | U.S., 10.209(c)(6) no exceptions | Yes, 10.215 Note: exceptions | Yes, 11.703 | 11.205(c) | N/A | 11.707; 11.910 | N/A | Yes, 11.703, 11.75(e), 11.713 | 11.205(e) Note: exceptions.
Towing vessels | 21, Master 19, Mate 18, App. Mate 11.201(e) | U.S., 10.209(c)(6) no exceptions | Yes, 10.215 Note: exceptions | Yes, 10.464; 10.465; 10.466 | 11.205(c) | Yes, 11.205(d) oceans | Yes, 11.205 (f); 11.910 Note: 11.903(b) | Yes, 11.464; 11.465; 11.901(c) | Yes, 3 months in past 3 years, 11.201(c) | 11.205(e) Note: exceptions.
Uninspected fishing industry vessels | 21, 11.201(e) Note: exceptions | U.S., 10.209(c)(6) no exceptions | Yes, 10.215 Note: exceptions | Deck: 11.462; Eng: 11.530 | 11.205(c) | 11.205(d) Note: exceptions | Yes, 11.205 (f); 11.910 Note: 11.903(b) | N/A | Yes, 3 months in past 3 years, 11.201(c) | 11.205(e) Note: exceptions.
Radio officer | 19, 11.201(e)(1) | U.S., 10.209(c)(6) no exceptions | Yes, 10.215 Note: exceptions | 11.603 | 11.205(c) | N/A | N/A | N/A | N/A | 11.205(e) Note: exceptions.
Staff officer | N/A | U.S., 10.209(c)(6) no exceptions | Yes, 10.215 Note: exceptions | 11.807 | 11.205(c) | N/A | N/A | N/A | N/A | N/A.
Staff officer renewals | N/A | U.S., 10.209(c)(6) no exceptions | Yes, 10.215 Note: exceptions | 10.227(g)(5) | N/A | N/A | N/A | N/A | N/A | N/A
Offshore installation manager, barge supervisor, ballast control operator | 21, 11.201(e) Note: exceptions | U.S., 10.209(c)(6) no exceptions | Yes, 10.215 Note: exceptions | OIM: 11.470 B.S.: 11.472 BCO: 11.474 Eng: 11.540 | 11.205(c) | 11.205(d) | Yes, 11.205(f); 11.920 | N/A | Yes, 3 months in past 3 years, 11.201(c) | 11.205(e) Note: exceptions.
Able seamen | 18, 12.05-3(a)(1) | U.S. or alien admitted for permanent residence, 10.209(c)(6) 10.221 | Yes, 10.215 Note: exceptions | 12.05-7 | N/A | N/A | Yes, 12.05-3(a) | Yes, 12.05-3(c); 12.05-9 | Yes, 1 year in past 5, 10.227(g) Note: alternative | 12.05-3(b).
Qualified members of engine department | N/A | U.S. or alien admitted for permanent residence, 10.209(c)(6) 10.221 | Yes, 10.215 Note: exceptions | 12.15-7 | N/1 | N/A | Yes, 12.15-9 | Yes, 12.15-3(d) | Yes, 1 year in past 5, 10.227(g) Note: alternative | 12.15-3(d).
Entry level ratings | N/A | U.S. or alien admitted for permanent residence, 10.209(c)(6) 10.221 | Yes, 10.215 Note: exceptions | N/A | N/A | N/A | N/A | N/A | N/A | N/A.

§ 11.204 [Removed and reserved]

104. Remove and reserve newly redesignated § 11.204—

105. In newly redesignated § 11.205—

a. Revise the section heading and paragraph (a) to read as set out below;

b. Remove paragraphs (b) through (d) and (j) through (o); and redesignate paragraphs (e) through (i) as paragraphs (b) through (f); and redesignate paragraph (p) as paragraph (g);

c. In redesignated paragraph (b)(1), remove the words “licenses and certificates of registry” and add, in their place, the words “officer or STCW endorsements”; and remove the words “A license” and add, in their place, the words “An MMC”;

d. In redesignated paragraph (b)(2), remove the words “license or certificate of registry” and add, in their place, the words “officer or STCW endorsement”;

e. In redesignated paragraph (b)(3), remove the word “license” and add, in its place, the words “officer or STCW endorsement”; and remove the words “paragraph (e)(1)” and add, in their place, the words “paragraph (b)(1)”;

f. In redesignated paragraph (b)(4), after the words “No applicant for an original” remove the word “license” and add, in its place, the words “officer or STCW endorsement”; and after the words “will be given an original”, remove the word “license” and add, in its place, the words “officer endorsement”; and, after the words “of a foreign”, remove the word “license” and add, in its place, the word “credential”;

g. Revise redesignated paragraph (c) to read as set out below;

h. In redesignated paragraph (d), remove the words “the licenses” and add, in their place, the words “officer endorsements”, and after the words “date of the application for the”, remove the word “license” and add, in its place, the words “officer endorsement”;

i. Revise redesignated paragraphs (d)(1) through (5) to read as set out below;

j. In redesignated paragraph (e), remove the words “license or certificate of registry” and add, in their place, the words “officer endorsement”; and remove the words “§§ 10.429, 10.456, and 10.466” and add, in their place the words “§ § 11.429, 11.456, and 11.466”;

k. In redesignated paragraph (e)(1), remove the words “within the past 12 months” and add, in their place, the words “not more than one year from the date of application”;

l. In redesignated paragraph (f)(1)(i), remove the word “license” wherever it appears and add, in its place, the words “officer endorsement”; and, after the words “500 gross tons, or”, remove the word “a” and add, in its place, the word “an”;

m. In redesignated paragraph (f)(1)(ii), remove the word “licenses” and add, in its place, the words “officer endorsements”;

n. In redesignated paragraph (f)(2), remove the word “license”;

o. In redesignated paragraph (f)(4), remove the words “license as radio officer or a certificate of registry” and add, in their place, the words “staff officer or radio officer endorsement”; and

p. In redesignated paragraph (g), remove the words “license shall” and add, in their place, the words “STCW endorsement must”; and after the words “to the particular”, remove the word “license” and add, in its place, the word “endorsement”; and after the words “The OCMI must be satisfied”, remove the words “as to” and add, in their place, the word “with”; and after the words “The OCMI will place”, remove the words “in the file of each candidate”; and, after the words “the requirements were fulfilled”, add the words “in the file of each candidate”

§ 11.205 Requirements for original officer endorsements and STCW endorsements.

(a) General. In addition to the requirements in part 10 of this chapter and §§ 11.201 through 11.203, the applicant for an original officer endorsement must also satisfy the requirements of this section.

* * * * *

(c) Character check and references. (1) Each applicant for an original officer or STCW endorsement must submit written recommendations concerning the applicant's suitability for duty from a master and two other individuals holding officer endorsements or licenses on vessels on which the applicant has served.

(i) For an officer endorsement as engineer or as pilot, at least one of the recommendations must be from the chief engineer or pilot, respectively, of a vessel on which the applicant has served.

(ii) For an officer endorsement as engineer where service was obtained on vessels not carrying a credentialed engineer and for an officer endorsement as master or mate (pilot) of towing vessels, the recommendations may be by recent marine employers with at least one recommendation from a master, operator, or person in charge of a vessel upon which the applicant has served.

(ii) For an officer endorsement as offshore installation manager, barge supervisor, or ballast control operator, at least one recommendation must be from an offshore installation manager of a unit on which the applicant has served.

(iii) Where an applicant qualifies for an endorsement through an approved training school or program, one of the character references must be an official of that school or program.

(iv) For an endorsement for which no commercial experience may be required, such as master or mate 25-200 gross tons, operator of uninspected passenger vessels, radio officer or certificate of registry, the applicant may have the written recommendations of three persons who have knowledge of the applicant's suitability for duty.

(v) A person may apply for an original officer or STCW endorsement, or officer or STCW endorsement of a different type, while on probation as a result of administrative action under part 5 of this chapter. The offense for which the applicant was placed on probation will be considered in determining his or her fitness to hold the endorsement applied for. An officer or STCW endorsement issued to an applicant on probation will be subject to the same probationary conditions as were imposed against the applicant's other credential. An applicant may not take an examination for an officer or STCW endorsement during any period when a suspension without probation or a revocation is effective against the applicant's currently held license, merchant mariner's document, or MMC, or while an appeal from these actions is pending.

(vi) If an original license, certificate of registry, or endorsement has been issued when information about the applicant's habits of life and character is brought to the attention of the OCMI, if such information warrants the belief that the applicant cannot be entrusted with the duties and responsibilities of the license, certificate of registry, or endorsement issued, or if such information indicates that the application for the license, certificate of registry, or endorsement was false or incomplete, the OCMI may notify the holder in writing that the license, certificate of registry, or endorsement is considered null and void, direct the holder to return the credential to the OCMI, and advise the holder that, upon return of the credential, the appeal procedures of § 10.235 of this chapter apply.

(d) * * *

(1) Officer endorsement as master on vessels of 200 GRT or less in ocean service.

(2) Officer endorsements as master or mate on vessels of over 200 GRT.

(3) All officer endorsements for master or mate (pilot) of towing vessels, except apprentice mate (steersman) of the vessels, on oceans.

(4) All officer endorsements for mobile offshore drilling units.

(5) All officer endorsements for engineers.

* * * * *

§ 11.207 [Removed and Reserved]

106. Remove and reserve newly redesignated § 11.207.

§ 11.209 [Removed and Reserved]

107. Remove and reserve newly redesignated § 11.209.

§ 11.210 [Removed and Reserved]

108. Remove and reserve newly redesignated § 11.210.

§ 11.211 [Amended]

109. In newly redesignated § 11.211—

a. In the section heading, remove the words “licensing purposes” and add, in their place, the words “officer endorsements”;

b. In paragraph (a), remove the words “licensing purposes” and add, in their place, the words, “the purposes of this part”; and remove the words “officials or licensed masters” and add, in their place, the words “officials, or individuals holding an officer endorsement or license as master.”;

c. In paragraph (b) introductory text, remove the word “license” and add, in its place, the words “officer endorsement”;

d. In paragraph (c), after the words “raise of grade” remove the word “license” and add, in its place, the words “officer endorsement”; and after the words “equivalent while holding”; remove the word “a” and add, in its place, the words “an officer endorsement or”; and, after the words “unlimited, nonrestricted” remove the word “licenses” and add in its place the words “officer licenses or endorsements”; and

e. In paragraph (d), after the words “raise of grade of any deck”, remove the word “licenses” and add, in its place, the words “officer endorsement”; and, after the words “required for an unlimited”, remove the word “license” and add, in its place, the words “officer endorsement”.

§ 11.213 [Amended]

110. In newly redesignated § 11.213—

a. In paragraph (a), after the words “in scope of all”, remove the word “license” and add, in its place, the words “officer endorsements”; and after the words “and limit of”, remove the word “license” and add, in its place, the words “officer endorsement”; and, after the words “or chief engineer's unlimited”, remove the word “license” and add, in its place, the words “officer endorsement”;

b. In paragraph (b), remove the words “licensing purposes” wherever they appear and add, in their place, the words “the purposes of this part”;

c. In paragraph (d), remove the word “licenses” wherever it appears and add, in its place, the words “officer endorsements”; after the words “submitted for the” remove the word “license” and add, in its place, the word “endorsement”; and, after the words “submitted for an original”, remove the word “license” and add, in its place, the words “officer endorsement”; and

d. In paragraph (e), after the words “in which a license”, add the words “or officer endorsement”.

§ 11.215 [Removed and Reserved]

111. Remove and reserve § 11.215.

§ 11.217 [Amended]

112. In newly redesignated § 11.217—

a. In the section heading, remove the word “licenses” and add, in its place, the words “officer endorsements”;

b. In paragraph (a)(1), after the words “deck and engineer unlimited”, remove the word “licenses” and add, in its place, the words “officer endorsements”, and remove the words “table 10.109 in § 10.109” and add, in their place, the words “table 10.219 in § 10.219 of this chapter”;

c. In paragraph (a)(2), after words “deck and engineer”, remove the words “license” and add, in its place, the words “officer endorsement”; and remove the words “table 10.109 in § 10.109 of this chapter” and add, in their place, the words “table 10.219 in § 10.219”; and

d. In paragraph (b), remove the word “license” and add, in its place, the word “endorsement”; and remove the words “the applicant is furnished” and add, in their place, the words “the Coast Guard will provide the applicant”.

§ 11.219 [Removed and Reserved]

113. Remove and reserve newly redesignated § 11.219.

§ 11.221 [Removed and Reserved]

114. Remove and reserve newly redesignated § 11.221.

§ 11.223 [Removed and Reserved]

115. Remove and reserve newly redesignated § 11.223.

§ 11.302 [Amended]

116. In newly redesignated § 11.302(e), remove the words “parts 10, 12, 13 or 15,” and add, in their place, the words “parts 10, 11, 12, 13, or 15”.

§ 11.304 [Amended]

117. In newly redesignated § 11.304—

a. In paragraph (a), remove the words “licenses and for qualified ratings of unlicensed personnel” and add, in their place, the words “officer endorsements and for qualified rating endorsements”; and remove the words “licenses and ratings is maintained by Commanding Officer, National Maritime Center, NMC-4B” and add, in their place, the words “endorsements is maintained by the National Maritime Center”; after the words “two-thirds of the required service on deck or in the engine department for deck or engineer”, remove the words “licenses, respectively, and for qualified ratings” and add, in their place, the words “officer endorsements, respectively, and for qualified rating endorsements”;

b. In paragraph (c), remove the words “a license” and add, in their place, the words “an officer endorsement”;

c. In paragraph (d), remove the word “license” and add, in its place, the words “officer endorsement”;

d. In paragraph (e), remove the words “§ 10.202” and add, in their place, the words “§ 11.202” and remove the words “both applies for an STCW endorsement or” and add, in their place, the words “applies for an STCW endorsement” and remove the words “commencing on or after August 1, 1998”;

e. In paragraph (f), remove the words “§ 10.202” wherever they appear and add, in their place, the words “§ 11.202”; remove the words “certificate or endorsement as an officer in charge of an engineering watch” and add, in their place, the words “STCW endorsement as an OICEW or an officer endorsement”; remove the words “commencing on or after August 1, 1998”; and, after the words “training or sea service”, remove the words “commencing on or after August 1, 1998”;

f. In paragraph (g)(6), remove the words “Coast Guard license or document” and add, in their place, the words “MMC endorsements”;

g. In paragraph (g)(7), remove the words “Coast Guard license or document” and add, in their place, the words “MMC endorsement, license, or document”;

h. In paragraph (h) introductory text, remove the word “a license” and add, in its place, the word “an endorsement”;

i. In paragraph (h)(5), remove the word “licensed” and add, in its place, the word “credentialed”;

j. In paragraph (h)(7), remove the word “licensed” and add, in its place, the word “credentialed” and remove the word “number” and add, in its place, the words “TWIC and serial number of the MMC, license, or document held”; and

k. In paragraph (h)(8), remove the words “licenses or documents” and add, in their place, the words “TWIC and serial number of the MMC, license, or document”.

§ 11.309 [Amended]

118. In newly redesignated § 11.309—

a. In paragraph (a) introductory text, remove the words “§ 10.302” and add, in their place, the words “§ 11.302”; and, after the words “hold an STCW”, remove the words “certificate or”;

b. In paragraph (a)(3)(iii), after the words “level of license,” add the word “officer”;

c. In paragraph (a)(4), after the words “maritime license”, add the words “, MMC,”;

d. In paragraph (b), remove the word “licenses” and add, in its place, the word “officer”; and

e. In paragraph (c)(3), remove the words “STCW endorsement” and add, in their place, the words “officer or STCW endorsements”.

§ 11.401 [Amended]

119. In newly redesignated § 11.401—

a. In the section heading, remove the word “licenses” and add, in its place, the words “or STCW endorsements”;

b. In paragraph (a), remove the word “issued” and add, in its place, the words “or MMC endorsement”; and remove the word “licensee” and add, in its place, the word “mariner”; and remove the words “license, without additional”;

c. In paragraph (b), after the words “A license”, add the words or MMC endorsement”; remove the word “licensee” and add, in its place, the word “mariner”; and remove the words “license, without additional”;

d. In paragraph (c), remove the word “licenses” wherever it appears and add, in its place, the words “endorsements”; and, before the words “any gross tons”, remove the word “of” and add, in its place, the word “for”;

e. In paragraph (d), remove the word “licensee”; and add, in its place, the word “mariner”, and after the words “near coastal license” add the words “or MMC endorsement”; and, after the words “service may have”, remove the words “the license” and add, in their place the words “an MMC”;

f. In paragraph (e), after the words “holding a license”, add the words “or MMC endorsement”; and, after the words “near coastal unlimited”, remove the word “license” and add, in its place, the word “endorsement”;

g. In paragraph (f), remove the words “Masters and mates licenses” and add, in their place, the words “Masters' and mates' endorsements”; after the words “required for conventional”, remove the word “licenses” and add, in its place, the words “officer endorsements”; after the words “For example, for”, remove the words “a license” and add, in their place, the words “an officer endorsement”; after the words “requirements for the conventional”, remove the word “license” and add, in its place, the words “officer endorsement”; and remove the words “license endorsement for service on vessels of 200 gross tons or less see individual license” and add, in their place, the words “an endorsement to serve on vessels of 200 gross tons or less see individual endorsement”;

h. In paragraph (g) introductory text, remove the word “license” wherever it appears and add, in its place, the word “endorsement”; after the words “200 gross tons, or”, remove the word “a” and add, in its place, the word “an”; and, after the words “the scope of”, add the word “the”;

i. In paragraph (g)(3), remove the word “licenses” and add, in its place, the word “endorsements”; and

j. In paragraph (h), after the words “for a deck”, remove the word “license” and add, in its place, the words “officer endorsement”; remove the words “A license” and add, in their place, the word “An”; and, after the words “may be issued”, remove the words “a license” and add, in their place, the words “an endorsement”.

§ 11.402 [Amended]

120. In newly redesignated § 11.402—

a. In the section heading, remove the word “licenses” and add, in its place, the word “endorsements”;

b. In paragraph (a), remove the word “license” and add, in its place, the word “endorsement”;

c. In paragraph (b), remove the words “original or raise of grade of a license” and add, in their place, the word “endorsement” and remove the words “§ 10.407(c)” and add, in their place, the words “§ 11.407(e)”; before the words “is limited to”, remove the word “license” and add, in its place, the word “endorsement”; after the words “an unlimited tonnage”, remove the word “license” and add, in its place, the word “endorsement”;

d. In paragraph (c)(1), remove the word “licensed” and add in its place, the word “endorsed”;

e. In paragraph (c)(2), remove the words “licensed capacity” and add, in their place, the words “capacity as an officer”; after the words “for which”, remove the word “licensed” and, add in its place, the word “endorsed”; after the words “next higher grade”, remove the word “license” and add, in its place, the word “endorsement”, and, after the words “limited license”, add the words “or MMC endorsement”;

f. In paragraph (c)(3), after the words “a license”, add the words “or endorsement”; and, after the words “third mate's license”, add the words “or MMC endorsement”; and

g. In paragraph (d), after the word “licenses” wherever it appears, add the words “or endorsements”.

§ 11.403 [Amended]

121. In newly redesignated § 11.403—

a. In the section heading remove the word “licenses” and add, in its place, the words “officer endorsements”; and

b. In the text, remove the word “license” and add, in its place, the words “officer endorsement”.

§ 11.404 [Amended]

122. In newly redesignated § 11.404—

a. In the introductory text, remove the word “license” and add, in its place, the words “an endorsement”; and

b. In paragraph (b), after the words “holding a license”, add the words “or MMC endorsement”.

§ 11.405 [Amended]

123. In newly redesignated § 11.405, after the words “qualify an applicant for” remove the word “license” and add, in its place, the words “an endorsement”; and after the words “holding a license”, add the words “or MMC endorsement”.

§ 11.406 [Amended]

124. In newly redesignated § 11.406—

a. In the introductory text, remove the word “license” and add, in its place, the words “an endorsement”;

b. In paragraph (a), after the words “holding a license”, add the words “or endorsement”;

c. In paragraph (b) introductory text, after the words “holding a license”, add the words “or MMC endorsement”; and

d. In paragraph (c), remove the words “A licensed” and add, in their place, the words “An individual holding an endorsement or license as”; and, after the words “may obtain”, remove the words “a license” and add, in their place, the words “an endorsement”.

§ 11.407 [Amended]

125. In newly redesignated § 11.407—

a. In paragraph (a) introductory text, remove the word “license” and add, in their place, the words “an endorsement”;

b. In paragraph (a)(1), remove the word “license” and add, in its place, the words “officer endorsement”;

c. In paragraph (b), remove the words “a license” and add, in their place, the words “an endorsement”; and

d. In paragraph (c), after the words “holding a license”, add the words “or MMC endorsement” and after the words “qualify the applicant for” remove the words “a license” and add, in their place, the words “an endorsement”.

§ 11.410 [Amended]

126. In newly redesignated § 11.410—

a. In the section heading, remove the word “licenses” and add, in its place, the words “officer endorsements”;

b. In paragraph (a) introductory text, remove the word “Licenses” and add, its their place, “Endorsements”;

c. In paragraph (b), remove the word “license” and add, in its place, the word “endorsement”; and

d. In paragraph (c), remove the words “A license” and add, in their place, the words “An officer's endorsement”.

§ 11.412 [Amended]

127. In newly redesignated § 11.412—

a. In the introductory text, remove the words “a license” and add, in their place, the words “an endorsement”;

b. In paragraph (a), after the words “holding a license”, add the words “or MMC endorsement”; and

c. In paragraph (b), after the words “holding a license”, add the words “or MMC endorsement”; and, after the words “eligible for this”, remove the word “license” and add, in its place, the word “endorsement”.

§ 11.414 [Amended]

128. In newly redesignated § 11.414—

a. In the introductory text, remove the words “a license” and add, in their place, the words “an endorsement”; and

b. In paragraph (a), after the words “holding a license” add the words “or MMC endorsement”.

§ 11.416 [Amended]

129. In newly redesignated § 11.416, remove the words “a license” and add, in their place, the words “an endorsement”; and, after the words “holding a certificate”, add the words “or endorsement”.

§ 11.418 [Amended]

130. In newly redesignated § 11.418—

a. In the introductory text, remove the words “a license” and add, in their place, the words “an endorsement”;

b. In paragraph (a), after the words “holding a license” add the words “or MMC endorsement”;

c. In paragraph (b), after the words “The holder of a license” add the words “or MMC endorsement”; and, after the words “is eligible for”, remove the words “a license” and add, in their place, the words “an endorsement”.

§ 11.420 [Amended]

131. In newly redesignated § 11.420, after the words “qualify an applicant for” remove the words “a license” and add, in their place, the words “an endorsement”; and after the words “position while holding a license” add the words “or endorsement”.

§ 11.421 [Amended]

131A. In newly redesignated § 11.421, remove the words “a license” and add, in their place, the words “an endorsement”; and, after the words “holding a certificate”, add the words “or endorsement”.

§ 11.422 [Amended]

132. In newly redesignated § 11.422—

a. In the section heading, remove the word “licenses” and add, in its place, the word “endorsements”;

b. In paragraph (a), remove the word “licenses” and add, in its place, the word “endorsements”; and remove the word “license” and add, in its place, the word “endorsement”;

c. In paragraph (b) introductory text, remove the word “licenses” and add, in its place, the word “endorsements”;

d. In paragraphs (b)(1) and (b)(2), remove the word “license” wherever it appears and add, in its place, the word “endorsement”;

e. In paragraph (b)(3), remove the word “license” and add, in its place, the words “officer endorsement”;

f. In paragraph (b)(4), after the words “increment on the”, remove the word “license” and add, in its place, the words “officer's license or MMC endorsement”;

g. In paragraph (c), after the words “vessels upon which”, remove the words “licensed personnel are not required” and add, in their place, the words “no personnel need an officer endorsement or license”; and, after the words “required to engage”, remove the words “licensed individuals” and add, in their place, the words “individuals with officer endorsements”; and

h. In paragraph (e), remove the word “license” and add, in its place, the words “officer endorsement”.

§ 11.424 [Amended]

133. In newly redesignated § 11.424—

a. In paragraph (a) introductory text, remove the words “a license” and add, in their place, the words “an officer endorsement”;

b. In paragraph (a)(1), after the words “holding a license”, add the words “or MMC endorsement”;

c. In paragraph (a)(2), remove the word “licensed”;

d. In paragraph (b), remove the words “endorsement on this license” and add, in their place, the words “officer endorsement”; and, after the words “master's license”, add the words “or MMC endorsement”; and

e. In paragraph (c), remove the words “§ 10.401(g) of this subpart” and add, in their place, the words “§ 11.401(g)”.

§ 11.426 [Amended]

134. In newly redesignated § 11.426—

a. In paragraph (a), remove the words “a license” and add, in its place, the words “an endorsement”;

b. In paragraph (a)(1), after the words “holding a license” add the words “or endorsement”;

c. In paragraph (a)(2), remove the word “licensed”; and

d. In paragraph (b), remove the words “an endorsement on this license” and add, in its place, the words “this officer endorsement”; and, after the words “of the master's license”, add the words “or MMC endorsement”.

§ 11.427 [Amended]

135. In newly redesignated § 11.427—

a. In paragraph (a) introductory text, remove the word “license” and add, in its place, the word “endorsement”;

b. In paragraph (a)(2), after the words “holding a license”, add the words “or MMC endorsement”;

c. In paragraph (b), after the words “holder of a license”, add the words “or MMC endorsement”; and, after the words “may obtain this”, remove the word “license” and add, in its place, the word “endorsement”;

d. In paragraph (d), after the words “A license”, add the words “or MMC endorsement”; and

e. In paragraph (e), after the words “a tonnage endorsement”, remove the word “of” and add, in its place, the word “for”.

§ 11.428 [Amended]

136. In newly redesignated § 11.428—

a. In paragraph (a), remove the words “a license” and add, in its place, the words “an endorsement”; and

b. In paragraph (b), remove the words “endorsement on this license” and add, in their place, the word “endorsement”; and, after the words “issuance of the license”, add the words “or MMC endorsement”.

§ 11.429 [Amended]

137. In newly redesignated § 11.429—

a. In paragraph (a) introductory text after the words “Limited masters’ ”, remove the word “licenses” and add, in its place, the word “endorsements”; after the words “educational institutions.”, remove the words “A license” and add, in their place, the words “An endorsement”; and, after the words “obtain this restricted”, remove the word “license” and add, in its place, the word “endorsement”;

b. In paragraph (a)(1), after the words “for which the” remove the word “license” and add, in its place, the word “endorsement”;

c. In paragraph (b), remove the words “§ 10.205(h) of this part” and add in their place, the words “§ 11.205(h)”; and

d. In paragraph (c), after the words “obtain an endorsement”, remove the words “on this license” and after the words “issuance of the license” add the words “or MMC endorsement”.

§ 11.430 [Amended]

138. In newly redesignated § 11.430—

a. In the section heading, remove the word “Licenses” and add, in its place, the word “Endorsements”; and

b. In the text, after the words “Any license”, wherever they appear, add the words “or MMC endorsement”; after the word “licenses”, wherever it appears, add the words “and MMC endorsements”; and, after the words “COLREGS or the”, remove the words “license must be endorsed with an exclusion from” and add, in their place, the words “endorsement must exclude”.

§ 11.431 [Amended]

139. In newly redesignated § 11.431—

a. In the section heading, remove the word “licenses”, and add, in its place, the word “endorsements”;

b. In paragraph (a), remove the word “licenses”, and add, in its place, the word “endorsements”; and

c. In paragraph (b), remove the word “licenses”, and add, in its place, the word “endorsements”; and remove the words “§ 10” and add, in their place, the words “§ 11”.

§ 11.433 [Amended]

140. In newly redesignated § 11.433—

a. In the introductory text, remove the word “license” and add, in its place, the words “an endorsement”; and

b. In paragraph (c), after the words “holding a license”, add the word “or MMC endorsement”.

§ 11.435 [Amended]

141. In newly redesignated § 11.435—

a. In the introductory text, remove the word “license”, and add, in its place, the word “endorsement”; and

b. In paragraph (b), after the words “mate/pilot first class pilot license”, add the words “or MMC endorsement”.

§ 11.437 [Amended]

142. In newly redesignated § 11.437—

a. In paragraph (a) introductory text, remove the word “license”, and add, in its place, the word “endorsement”; and

b. In paragraph (a)(3), after the words “holding a license”, add the words “or MMC endorsement”.

§ 11.442 [Amended]

143. In newly redesignated § 11.442—

a. In the introductory text, remove the words “a license”, and add, in their place, the words “an endorsement”; and

b. In paragraphs (a) and (b), after the words “holding a license”, wherever they appear, add the words “or MMC endorsement”.

§ 11.444 [Amended]

144. In newly redesignated § 11.444—

a. In the introductory text, remove the word “license” and add, in its place, the words “an endorsement”;

b. In paragraph (a), after the words “holding a certificate”, add the words “or endorsement”; and

c. In paragraph (b), after the words “holding a license”, add the words “or MMC endorsement”.

§ 11.446 [Amended]

145. In newly redesignated § 11.446—

a. In the introductory text, remove the words “a license”, and add, in their place, the words “an endorsement”;

b. In paragraph (a), after the words “holding a license”, add the words “or MMC endorsement”; and

c. In paragraph (b), after the words “holding a license”, wherever they appear, add the words “or MMC endorsement” and after the words “eligible for this”, remove the word “license” and add, in its place, the word “endorsement”.

§ 11.448 [Amended]

146. In newly redesignated § 11.448, after the words “an applicant for”, remove the words “a license” and add, in their place, the words “an endorsement”; and after the words “holding a certificate”, add the words “or endorsement”.

§ 11.450 [Amended]

147. In newly redesignated § 11.450—

a. In the section heading, remove the word “licenses” and add, in its place, the word “endorsements”;

b. In paragraph (a), remove the word “licenses” and add, in its place, the word “endorsements”; and remove the words “§ 10.422” each time they appear and add, in their place, the words “§ 11.422”;

c. In paragraph (c), after the words “vessels upon which”, remove the words “licensed personnel” and add, in their place, the words “personnel with licenses or endorsements”; and, after the words “required to engage”, remove the words “licensed individuals” and add, in their place, the words “individuals with endorsements”; and

d. In paragraph (d), remove the word “license” and add, in its place, the word “endorsement”.

§ 11.452 [Amended]

148. In newly redesignated § 11.452—

a. In paragraph (a), after the words “qualify an applicant for”, remove the words “a license” and add, in their place, the words “an endorsement”; and after the words “holding a license”, add the words “or MMC endorsement”; and after the words “otherwise the”, remove the word “license” and add, in its place, the word “endorsement”; and

b. In paragraph (b), after the words “In order to obtain an endorsement”, remove the words “on this license”; and after the words “master's license” add the words “or MMC endorsement”.

§ 11.454 [Amended]

149. In newly redesignated § 11.454—

a. In paragraph (a), after the words “qualify an applicant for”, remove the words “a license” and add, in their place, the words “an endorsement”; and after the words “otherwise the”, remove the word “license” and add, in its place, the word “endorsement”;

b. In paragraph (b), after the words “In order to obtain an endorsement”, remove the words “on this license”;

c. In paragraph (c), before the words “as master of steam”, remove the words “A license” and add, in their place, the words “An endorsement”; and

d. In paragraph (d), after the words “The holder of a license” add the words “or MMC endorsement”; and after the words “may obtain this”, remove the word “license” and add, in its place, the word “endorsement”; and, after the words “otherwise the”, remove the word “license” and add, in its place, the word “endorsement”.

§ 11.455 [Amended]

150. In newly redesignated § 11.455—

a. In paragraph (a), after the words “qualify an applicant for”, remove the words “a license” and add, in their place, the words “an endorsement”; and after the words “otherwise the”, remove the word “license” and add, in its place, the word “endorsement”; and

b. In paragraph (b), after the words “In order to obtain an endorsement”, remove the words “on this license”; and, after the words “issuance of the”, remove the word “license” and add, in its place, the word “endorsement”.

§ 11.456 [Amended]

151. In newly redesignated § 11.456—

a. In the introductory text, after the words “Limited masters” remove the word “licenses” and add, in its place, the word “endorsements”; and before the words “issued under this”, remove the words “A license” and add, in their place, the words “An endorsement”; and after the words “In order to obtain this restricted”, remove the word “license” and add, in its place, the word “endorsement”;

b. In paragraph (a), remove the word “license” and add, in its place, the word “endorsement”; and

c. In paragraph (d), after the words “required by”, remove the text “§ 10” and add, in its place, the text “§ 11”.

§ 11.457 [Amended]

152. In newly redesignated § 11.457—

a. In paragraph (a), after the words “An applicant for”, remove the words “a license” and add, in their place, the words “an endorsement”; and after the words “requirements of”, remove the text “§ 10” and add, in its place, the text “§ 11”; and

b. In paragraph (b), after the words “In order to obtain an endorsement”, remove the words “on this license”; and, after the words “issuance of the license”, add the words “or MMC endorsement”.

§ 11.459 [Amended]

153. In newly redesignated § 11.459—

a. In paragraph (a), after the words “An applicant for”, remove the words “a license” and add, in their place, the words “an endorsement”; and

b. In paragraph (b), after the words “An applicant for”, remove the words “a license” and add, in their place, the words “an endorsement”; and after the words “steam or motor”, remove the word “license” and add, in its place, the word “endorsement”.

§ 11.462 [Amended]

154. In newly redesignated § 11.462—

a. In the section heading, remove the word “Licenses” and add, in its place, the word “Endorsements”.

b. In paragraph (a) introductory text, remove the word “licenses” and add, in its place, the word “endorsements”;

c. In paragraph (b), before the words “as master or mate”, remove the word “Licenses” and add, in its place, the word “Endorsements”; and after the words “industry vessel”, remove the word “license” and add, in its place, the word “endorsement”; and, after the words “requirements of”, remove the words “§ 10.401(g) of this subpart” and add, in its place, the text “§ 11.401(g)”;

d. In paragraph (c) introductory text, after the words “An applicant for”, remove the words “a license” and add, in their place, the words “an endorsement”; and after the words “must have been as”, remove the words “as licensed master, as unlicensed master, or as licensed mate” and add, in their place, the words “master, or as mate”; and after the words “while holding a license”, add the words “or MMC endorsement”;

e. In paragraphs (c)(1) and (c)(2), remove the words “a license of” wherever they appear and add, in their place, the words “an endorsement for”;

f. In paragraph (c)(3), remove the words “a license of” wherever they appear and add, in their place, the words “an endorsement for”; and before the words “is limited to”, remove the word “license” and add, in its place, the word “endorsement”; and before the words “as master of”, remove the words “A license” and add, in their place, the words “An endorsement”;

g. In paragraph (c)(4) introductory text, after the words “The tonnage limitation” remove the words “on this license” and add, in their place, the words “for this endorsement”;

h. In paragraphs (c)(4)(v) and (c)(4)(vi), after the words “holding a license” wherever they appear, add the words “or MMC endorsement”; and, after the words “limitation on the”, remove the words “master's license” wherever they appear and add, in their place, the word “MMC”;

i. In paragraphs (d) introductory text, (d)(1), and (d)(2), remove the words “a license” wherever they appear and add, in their place, the words “an endorsement”;

j. In paragraph (d)(3), after the words “To qualify for”, remove the words “a license” and add, in their place, the words “an endorsement”; and, before the words “is limited to”, remove the word “license” and add, in its place, the word “endorsement”;

k. In paragraph (d)(4), after the words “limitation on this”, remove the word “license” and add, in its place, the word “endorsement”;

l. In paragraph (d)(4)(iv), after the words “holding a license”, add the words “or MMC endorsement”; and, after the words “limitation on the”, remove the words “mate's license” and add, in their place, the word “MMC”;

m. In paragraph (d)(4)(v), after the words “while holding”, remove the words “a license” and add, in their place, the words “an endorsement”; and, after the words “limitation on the”, remove the words “mate's license” and add, in their place, the word “MMC”; and

n. In paragraph (d)(4)(vi), after the words “holding a license”, add the words “or MMC endorsement”; and after the words “limitation on the”, remove the words “mate's license” and add, in their place, the word “MMC”.

§ 11.463 [Amended]

155. In newly redesignated § 11.463—

a. In the section heading, remove the words “licenses for” and add, in their place, the words “endorsements as”;

b. In paragraph (a), remove the word “licenses” and add, in its place, the word “endorsements”; and

c. In paragraphs (b) and (c), remove the words “a license” wherever they appear and add, in their place, the words “an endorsement”.

156. In newly redesignated § 11.464—

a. In the section heading, remove the word “licenses” and add, in its place, the word “endorsements”;

b. In paragraph (a), remove the words “a license as master of towing vessels endorsed” and add, in their place, the words “an endorsement as master of towing vessels” and remove the words “Table 10.464-1” and add, in their place, the words “Table 11.464(a) of this section”;

c. Redesignate Table 10.464-1 as Table 11.464(a) and revise it to read as set out below;

d. In paragraph (b), after the words “to obtain an”, remove the words “a license” and add, in their place, the words “an endorsement”; and, after the words “columns 2 through 5 of”, remove the words “Table 10.464-2” and add, in their place, the words “Table 11.464(b) of this section”;

e. Redesignate Table 10.464-2 as Table 11.464(b) and revise the heading to read as set out below;

f. In paragraph (c), after the words “hold a license”, add the words “or MMC endorsement”; and after the words “added to your”, remove the word “license” and add, in its place, the word “MMC”;

g. In paragraph (d), after the words “training and have your”, remove the words “license endorsed” and add, in their place, the words “MMC include an endorsement”;

h. In paragraph (e), remove the words “licensed mariner with appropriate” and add, in their place, the words “mariner with the appropriate endorsement and”;

i. In paragraph (f) introductory text, after the words “If you hold a license”, add the words “or MMC endorsement”; and, after the words “restrictions on your”, remove the word “license” and add, in its place, the word “endorsement”;

j. In paragraph (f)(2)(i), after the words “described in”, remove the text “§ 10” and add, in its place, the text “§ 11”;

k. In paragraph (f)(3), after the words “Your license”, add the words “or MMC”; and, after the words “does not need”, add the words “to include”; and

l. Remove paragraph (g).

§ 11.464 Requirements for endorsements as master of towing vessels.

* * * * *

Table 11.464(A).—Requirements for Endorsement as Master¹ of Towing Vessels
1: Route endorsed | 2: Total service ² | 3: TOS ³ on T/V as mate (pilot) | 4: TOS ³ on T/V as mate (pilot) not as harbor assist | 5: TOS ³ on particular route | 6: Sub-ordinate route authorized
(1) OCEANS (O) | 48 | 18 of 48 | 12 of 18 | 3 of 18 | NC, GL-I.
(2) NEAR-COASTAL (NC) | 48 | 18 of 48 | 12 of 18 | 3 of 18 | GL-I.
(3) GREAT LAKES-INLAND (GL-I) | 48 | 18 of 48 | 12 of 18 | 3 of 18
(4) WESTERN RIVERS (WR) | 48 | 18 of 48 | 12 of 18 | 3 of 18
¹ If you hold an endorsement as master of towing vessels you may have an endorsement—as mate (pilot) of towing vessels for a route superior to your current route on which you have no operating experience—placed on your MMC after passing an examination for that additional route. After you complete 90 days of experience and complete a TOAR on that route, we will add it to your endorsement as master of towing vessels and remove the one for mate (pilot) of towing vessels.
² Service is in months.
³ TOS is time of service.

* * * * *

Table 11.464(b)—Requirements for endorsement as master of towing vessels (limited).

* * * * *

157. In newly redesignated § 11.465—

a. In the section heading, remove the word “licenses” and add, in its place, the word “endorsements”;

b. In paragraph (a), after the words “like to obtain”, remove the words “a license” and add, in their place, the words “an endorsement”; and, after the words “column 1 of” remove the words “Table 10.465-1” and add, in their place, the words “Table 11.465(a) of this section”; and after the words “hold a license” wherever they appear, add the words “or MMC endorsement”; and, before the words “with a route endorsed”, remove the words “A license” and add, in their place, the words “An endorsement”;

c. Redesignate Table 10.465-1 as Table 11.465(a) and revise it to read as set out below;

d. In paragraph (b), after the words “training and have”, remove the words “license endorsed” and add, in their place, the words “MMC include an endorsement”;

e. In paragraph (c), remove the words “licensed mariner with appropriate” and add, in their place, the words “mariner with the appropriate endorsement an”;

f. In paragraph (d) introductory text, after the words “hold a license” add the words “or MMC endorsement” and after the words “on your license” add the words “or MMC”;

g. In paragraph (d)(2) introductory text, after the words “described in” remove the words “§ 10” and add, in their place, the words “§ 11” and redesignate the second paragraph as (d)(3) and after the words “Your license” add the words “or MMC” and after the words “does not need” add the words “to include”;

h. In paragraph (e) after the words “required by” remove the words “§ 10” and add, in their place, the words “§ 11”; and

i. Remove paragraph (f).

§ 11.465 Requirements for endorsements as mate (pilot) of towing vessels.

* * * * *

Table 11.465(A).—Requirements for Endorsement as Mate (Pilot¹) of Towing Vessels
1: Route endorsed | 2: Total service² | 3: TOS³ on T/V as apprentice mate (Steersman) | 4: TOS³ on particular route | 5: TOAR⁴ or an approved course | 6: 30 Days of observation and training while holding mater (limited) and pass a limited examination | 7: Subordinate route authorized
(1) OCEANS (O) | 30 | 12 of 30 | 3 of 12 | YES | YES | NC, GL-I
(2) NEAR-COASTAL (NC) | 30 | 12 of 30 | 3 of 12 | YES | YES | GL-I,
(3) GREAT LAKES-INLAND (GL-I) | 30 | 12 of 30 | 3 of 12 | YES | YES |
(5) WESTERN RIVERS (WR) | 30 | 12 of 30 | 3 of 12 | YES | NO (90 days service required)I |
¹For all inland routes, as well as Western Rivers, the endorsement as pilot of towing vessels is equivalent to that as mate of towing vessels. All qualifications and equivalencies are the same.
² Service is in months unless otherwise indicated.
³ TOS is time of service.
⁴ TOAR is Towing Officers' Assessment Record.

* * * * *

158. In newly redesignated § 11.466—

a. In paragraph (a), after the words “As Table” remove the word “10” and add, in its place, the word “11” and after the words “like to obtain”, remove the words “a license” and add, in their place, the words “an endorsement”;

b. Redesignate Table 10.466-1 as Table 11.466(a) and revise it to read as follows; and

c. In paragraph (b), after the words “hold a license” add the words “or endorsement” and after the words “endorsement will go on your” remove the word “license” and add, in its place, the word “MMC” and after the words “may have the” remove the words “restricted endorsement” and add, in their place, the word “restriction”.

§ 11.466 Requirements for endorsements as apprentice mate (steersman) of towing vessels.

* * * * *

Table 11.466(A).—Requirements For Endorsement as Apprentice Mate (Steersman) of Towing Vessels
1: License type | 2: Route endorsed | 3: Total service¹ | 4: TOS² on T/V | 5: TOS² on particular route | 6: Pass examination³
(1) APPRENTICE MATE (STEERSMAN) | OCEANS (O) | 18 | 12 of 18 | 3 of 18 | YES
| NEAR-COASTAL (Nc) | 18 | 12 of 18 | 3 of 18 | YES
| GREAT LAKES- | 18 | 12 of 18 | 3 of 18 | YES
| INLAND (Gl-I) | 18 | 12 of 18 | 3 of 18 | YES
| WESTERN RIVERS (WR) | 18 | 12 of 18 | 3 of 18 | YES
(2) APPRENTICE MATE (STEERSMAN) (LIMITED) | NOT APPLICABLE | 18 | 12 of 18 | 3 of 18 | YES

* * * * *

§ 11.467 [Amended]

159. In newly redesignated § 11.467—

a. In the section heading, remove the words “Licenses for operators” and add, in their place, the words “Endorsement as”;

b. In paragraph (a), remove the words “all applicants for the license” and add, in their place, the words “an applicant for the endorsement”;

c. In paragraph (b), remove the word “licenses” wherever it appears and add, in its place, the word “endorsements” and after the words “local area under paragraph” remove the word “(f)” and add, in its place, the word “(g)”;

d. In paragraph (c), before the words “as operator of” remove the words “a license” and add, in their place, the words “an endorsement” and after the words “uninspected passenger vessel” remove the words “with a near coastal endorsement” and add, in their place, the words “on near-coastal waters”;

e. In paragraph (d), before the words “as operator of” remove the words “a license” and add, in their place, the words “an endorsement” and after the words “uninspected passenger vessel” remove the words “with a Great Lakes and inland waters endorsement” and add, in their place, the words “on the Great Lakes and inland waters”;

f. In paragraph (e), before the words “as operator of” remove the words “a license” and add, in their place, the words “an endorsement” and after the words “uninspected passenger vessel” remove the words “with an inland endorsement” and add, in their place, the words “on inland waters”;

g. Remove paragraph (f), redesignate paragraph (g) as paragraph (f) and redesignate paragraph (h) as paragraph (g);

h. In newly redesignated paragraph (f) introductory text, after the words “uninspected passenger vessel” remove the word “licenses” and add, in its place, the word “endorsements” and before the words “issued under this paragraph” remove the words “A license” and add, in its place, the words “An endorsement” and after the words “obtain this restricted” remove the word “license” and add, in its place, the word “endorsement”;

i. In newly redesignated paragraph (f)(1), remove the word “license” and add, in its place, the word “endorsement”;

j. In newly redesignated paragraph (f)(4), remove the words § 10.205(h)” and add, in their place, the words “§ 10.205(d)”; and

k. In newly redesignated paragraph (g), remove the words “a license” wherever they appear and add, in their place, the words “an endorsement”.

§ 11.468 [Amended]

160. In newly redesignated § 11.468—

a. In the section heading and text, remove the word “Licenses” wherever it appears and add, in its place, the words “Officer Endorsements”; and

b. In the text remove the word “license” and add, in its place, the word “endorsement”.

161. In newly redesignated § 11.470—

a. In the section heading, remove the words “Licenses for” and add, in their place, the words “Officer endorsements as”;

b. Revise paragraph (a) introductory text to read as follows;

c. In paragraph (b) introductory text, remove the words “a license or” and add, in their place, the word “an”;

d. In paragraph (b)(2)(i), remove the words “an OIM Unrestricted license or endorsement” and add, in their place, the words “a license or MMC endorsement as OIM Unrestricted”;

e. In paragraph (d)(2)(iv), remove the words “§ 10.205(g)” and add, in their place, the words “§ 11.205(d)”;

f. In paragraph (c), after the words “unlimited license” add the words “or MMC endorsement”;

g. In paragraph (d) introductory text, remove the words “a license” and add, in their place, the word “an”;

h. In paragraph (d)(2)(i), remove the words “OIM Surface Units license or endorsement” and add, in their place, the words “license or MMC endorsement as OIM Surface Units”;

i. In paragraph (d)(2)(iv), remove the words “§ 10.205(g)” and add, in their place, the words “§ 11.205(d)”;

j. In paragraph (e), after the words “unlimited license” add the words “or MMC endorsement”;

k. In paragraph (f)(2)(i), remove the words “license or”;

l. In paragraph (f)(2)(iii), remove the words “§ 10.205(g)” and add, in their place, the words “§ 11.205(d)”;

m. In paragraph (g) introductory text, after the words “unlimited license” add the words “or MMC endorsement”;

n. In paragraph (h) introductory text, remove the words “a license or” and add, in their place, the word “an”;

o. In paragraph (h)(2)(iii), remove the words “§ 10.205(g)” and add, in their place, the words “§ 11.205(d)”;

p. In paragraph (i), after the words “unlimited license” add the words “or MMC endorsement”;

q. In paragraph (j) introductory text, remove the words “a license or” and add, in their place, the word “an”;

r. In paragraph (j)(2)(i), remove the words “OIM Bottom Bearing Units license or endorsement” and add, in their place, the words “a license or MMC endorsement as OIM Bottom Bearing Units”;

s. In paragraph (j)(2)(iii), remove the words “§ 10.205(g)” and add, in their place, the words “§ 11.205(d)”; and

t. In paragraph (k), after the words “unlimited license” add the words “or MMC endorsement”.

§ 11.470 Officer endorsements as offshore installation manager.

(a) Officer endorsements as offshore installation manager (OIM) include:

* * * * *

§ 11.472 [Amended]

162. In newly redesignated § 11.472—

a. In the section heading, remove the words “License for” and add, in their place, the words “Officer endorsements as”;

b. In paragraph (a) introductory text, remove the words “a license or” and add, in their place, the word “an”;

c. In paragraph (a)(2)(i), remove the words “barge supervisor license or endorsement” and add, in their place, the words “license or MMC endorsement as barge supervisor”;

d. In paragraph (a)(2)(iii), remove the words “§ 10.205(g)” and add, in their place, the words “§ 11.205(d)”; and

e. In paragraph (b), after the words “unlimited license” add the words “or MMC endorsement”.

§ 11.474 [Amended]

163. In newly redesignated § 11.474—

a. In the section heading, remove the words “License for” and add, in their place, the words “Officer endorsements as”;

b. In paragraph (a) introductory text, remove the words “a license” and add, in its place, the words “an endorsement”;

c. In paragraph (a)(1)(i) and (ii), remove the words “a licensed” wherever they appear and add, in their place, the words “an individual holding a license or MMC endorsement as”;

d. In paragraph (a)(2)(i), remove the words “barge supervisor or ballast control operator license or endorsement” and add, in their place, the words “license or MMC endorsement as barge supervisor or ballast control operator”;

e. In paragraph (a)(2)(iii), remove the words “§ 10.205(g)” and add, in their place, the words “§ 11.205(d)”;

f. In paragraph (b), after the words “unlimited license” add the words “or MMC endorsement” and remove the word “licensed” and add, in its place, the words “an individual holding an endorsement as”;

§ 11.476 [Removed and Reserved]

164. Remove and reserve § 11.476.

§ 11.480 [Amended]

165. In newly redesignated § 11.480—

a. In paragraph (b) introductory text, remove the words “deck officer's license” and add, in their place, the word “MMC”;

b. In paragraph (c), remove the words “Endorsement as” wherever they appear;

c. In paragraph (f), remove the last sentence;

d. In paragraph (g), after the words “printed on the” remove the word “license” and add, in its place, the word “MMC”;

e. In paragraph (i), after the words “renew the license” wherever they appear, add the words “or MMC”;

f. In paragraph (j), after the words “grade of a license” add the words “or MMC endorsement”; and

g. In paragraph (k), after the words “date of the” remove the word “license” and add, in its place, the word “MMC”.

§ 11.482 [Amended]

166. In newly redesignated § 11.482—

a. In paragraph (a), after the words “endorsement authorizing” remove the words “an applicant” and add, in their place, the words “a mariner”; and after the words “applies to all” remove the words “licenses except those for” and add, in their place, the words “MMCs except”; and before the words “master or mate authorizing” remove the words “those for”; and after the words “Holders of any of these” remove the word “licenses” and add, in its place, the word “endorsements”; and remove the words “the licenses and without the endorsement” and add, in their place, the words “their MMC or license”;

b. In paragraph (c), after the words “scope of the license” add the words “or MMC”; and

c. In paragraph (d), after the words “same as the license” add the words “or MMC”; and remove the words “ on which it is endorsed” and add, in their place, the words “on which it is included”; and after the words “renewed with the” remove the word “license” and add, in its place, the word “MMC”.

§ 11.491 [Amended]

167. In newly redesignated § 11.491—

a. In the section heading, remove the word “Licenses” and add, in it place, the word “Officer endorsements”; and

b. In the text, before the words “for service on” remove the word “license” and add, in its place, the words “officer endorsement” and after the words “restrictions placed on the license” add the words “or MMC”.

§ 11.493 [Amended]

168. In newly redesignated § 11.493(a), remove the words “a license” and add, in their place, the words “an endorsement”.

§ 11.495 [Amended]

169. In newly redesignated § 11.495(a), remove the words “a license” and add, in their place, the words “an endorsement”.

§ 11.497 [Amended]

170. In newly redesignated § 11.497(a), remove the words “a license” and add, in their place, the words “an endorsement”.

§ 11.501 [Amended]

171. In newly redesignated § 11.501—

a. In the section heading, remove the word “licenses” and add, in its place, the word “endorsements”;

b. In paragraph (a) introductory text, remove the word “Licenses” and add, in its place, the words “Engineer endorsements”;

c. In paragraph (b) introductory text, remove the word “licenses” and add, in its place, the word “endorsements”;

d. In paragraph (c) introductory text, after the words “Engineer licenses” add the words “or MMC endorsements”; and

e. In paragraph (e), after the words “holding an engineer license” add the words “or MMC endorsement” and after the words “limitations of the license” add the words “or MMC”.

§ 11.502 [Amended]

172. In newly redesignated § 11.502—

a. In the section heading, remove the word “licenses” and add, in its place, the word “endorsements”;

b. In paragraph (a), after the words “engineer licenses” add the words “or MMC endorsements”;

c. In paragraph (b) introductory text, remove the words “a licensed applicant desires to obtain an endorsement on an engineer license in the other propulsion mode (steam or motor)” and add, in their place, the words “an applicant desires to add a propulsion mode to his or her endorsement” and after the words “holding a license” add the words “or MMC endorsement”;

d. In paragraph (b)(1), remove the words “licensed capacity” and add, in their place, the words “capacity as their endorsement”;

e. In paragraph (b)(2), remove the words “a licensed officer at a lower license level” and add, in their place, the words “an engineer officer at a lower level”; and

f. In paragraph (c), after the words “of an engineer license” add the words “or MMC endorsement” and remove the text “§ 10” and add, in their place, the text “§ 11”.

§ 11.503 [Amended]

173. In newly redesignated § 11.503—

a. In paragraph (a), after the words “Engineer licenses” add the words “and endorsements” and after the words “as provided in” remove the text “§ 10” and add, in its place, the text “§ 11” and after the words “designated duty engineer” remove the word “license” and after the words “placed on a license” add the words “or MMC endorsement”;

b. In paragraph (b), after the words “an engineer license” add the words “or MMC endorsement”; and after the words “designated duty engineer” remove the word “license”; and after the words “limitation is placed on the” remove the word “license” and add, in its place, the word “MMC”; and before the words “is limited to the” remove the word “license” and add, in its place, the word “endorsement”; and after the words “an unlimited horsepower” remove the word “license” and add, in its place, the word “endorsement”;

c. In paragraph (c) introductory text, remove the words “engineer licenses” and add, in their place, the words “an engineer license or MMC endorsement”;

d. In paragraph (c)(1), remove the word “licensed” and add, in its place, the word “endorsed”;

e. In paragraph (c)(2), after the words “Six months of service” add the words “as an officer”; and before the words “capacity other than” remove the word “licensed”; and after the words “for which licensed” add the words “or endorsed”; and after the words “next higher grade” remove the word “license” and add, in its place, the word “endorsement”; and after the words “issuance of the limited license” add the words “or MMC endorsement”;

f. In paragraph (c)(3), after the words “holding a license” add the words “or MMC endorsement” and after the words “assistant engineer's (limited-oceans)” remove the word “license” and add, in its place, the word “endorsement”;

g. In paragraph (c)(4), after the words “holding a license” add the words “or MMC endorsement” and after the words “third assistant engineer's” remove the word “license” and add, in its place, the word “endorsement”; and

h. In paragraph (d), after the words “applicant's license” add the words “or MMC endorsement”.

§ 11.504 [Amended]

174. In newly redesignated § 11.504—

a. In the section heading, remove the word “licenses” and add, in its place, the word “endorsements”; and

b. In the text, remove the words “a license” and add, in their place, the words “an endorsement”.

175. In newly redesignated § 11.505—

a. In the section heading, remove the word “license” and add, in its place, the word “officer”;

b. In the text, remove the word “license” and add, in its place, the word “endorsement”; and

c. Redesignate Figure 10.505 as Figure 11.505 and revise it to read as follows:

§ 11.505 Engineer officer structure.

Figure 11.505—Engineer officer endorsement structure

BILLING CODE 4910-15-P

BILLING CODE 4910-15-C

§ 11.510 [Amended]

176. In newly redesignated § 11.510—

a. In the introductory text, remove the word “license” and add, in its place, the word “endorsement”; and

b. In paragraph (b), after the words “holding a license” add the words or MMC endorsement”.

§ 11.512 [Amended]

177. In newly redesignated § 11.512, after the words “qualify an applicant for” remove the word “license” and add, in its place, the word “endorsement” and after the words “holding a license” add the words or MMC endorsement”.

§ 11.514 [Amended]

178. In newly redesignated § 11.514—

a. In the introductory text, after the words “qualify an applicant for” remove the word “license” and add, in its place, the word “endorsement”; and

b. In paragraphs (a) and (b) introductory text, after the words “holding a license”, wherever they appear, add the words “or MMC endorsement”.

§ 11.516 [Amended]

179. In newly redesignated § 11.516, in paragraph (a) introductory text, after the words “an applicant for”, remove the word “license” and add, in its place, the word “endorsement”.

180. Revise newly redesignated § 11.518 to read as follows:

§ 11.518 Service requirements for chief engineer (limited-oceans) of steam and/or motor vessels.

The minimum service required to qualify an applicant for endorsement as chief engineer (limited-oceans) of steam and/or motor vessels is five years total service in the engineroom of vessels. Two years of this service must have been as an engineer officer. Thirty months of the service must have been as a qualified member of the engine department or equivalent supervisory position.

181. Revise newly redesignated § 11.520 to read as follows:

§ 11.520 Service requirements for chief engineer (limited-near coastal) of steam and/or motor vessels.

The minimum service required to qualify an applicant for endorsement as chief engineer (limited near coastal) of steam and/or motor vessels is four years total service in the engineroom of vessels. One year of this service must have been as an engineer officer. Two years of the service must have been as a qualified member of the engine department or equivalent supervisory position.

182. Revise newly redesignated § 11.522 to read as follows:

§ 11.522 Service requirements for assistant engineer (limited-oceans) of steam and/or motor vessels.

The minimum service required to qualify an applicant for endorsement as assistant engineer (limited-oceans) of steam and/or motor vessels is three years of service in the engineroom of vessels. Eighteen months of this service must have been as a qualified member of the engine department or equivalent supervisory position.

183. Amend newly redesignated § 11.524 by revising paragraphs (a) and (b) introductory text to read as follows:

§ 11.524 Service requirements for designated duty engineer of steam and/or motor vessels.

(a) Designated duty engineer endorsements are issued in three levels of horsepower limitations dependent upon the total service of the applicant and completion of appropriate examination. These MMCs are limited to vessels of not more than 500 gross tons on certain waters as specified in § 11.501.

(b) The service requirements for endorsements as designated duty engineer are:

* * * * *

184. Revise newly redesignated § 11.530 to read as follows:

§ 11.530 Endorsements for engineers of uninspected fishing industry vessels.

(a) This section applies to endorsements for chief and assistant engineers of all vessels, however propelled, navigating the high seas, which are documented to engage in the fishing industry, with the exception of:

(1) Wooden ships of primitive build;

(2) Unrigged vessels; and,

(3) Vessels of less than 200 gross tons.

(b) Endorsements as chief engineer and assistant engineer of uninspected fishing industry vessels are issued for ocean waters and with horsepower limitations in accordance with the provisions of § 11.503.

(c) For an endorsement as chief engineer, the applicant must have served four years in the engineroom of vessels. One year of this service must have been as an assistant engineer officer or equivalent supervisory position.

(d) For an endorsement as assistant engineer, an applicant must have served three years in the engine room of vessels.

(e) Two-thirds of the service required under this section must have been on motor vessels.

(f) Applicants may request an orally assisted examination on the subjects listed in subpart I of this part.

185. Revise newly redesignated § 11.540 to read as follows:

§ 11.540 Endorsements for engineers of mobile offshore drilling units.

Endorsements as chief engineer (MODU) or assistant engineer (MODU) authorize service on certain self-propelled or non-self-propelled units of any horsepower where authorized by the vessel's certificate of inspection.

§ 11.542 [Amended]

186. In newly redesignated § 11.542—

a. In the section heading, remove the words “License for” and add, in their place, the words “Endorsement as”;

b. In the introductory text and paragraph (c), remove the words “a license” wherever they appear and add, in their place, the words “an endorsement”; and

c. In paragraph (b), remove the number “10” and add, in its place, the number “11”.

§ 11.544 [Amended]

187. In newly redesignated § 11.544—

a. In the section heading, remove the words “License for” and add, in their place, the words “Endorsement as”;

b. In the introductory text and paragraph (c), remove the words “a license” wherever they appear and add, in their place, the words “an endorsement”;

c. In paragraph (a)(3), remove the words “Commanding Officer” and add, in their place, the word “The”; and

d. In paragraph (b), remove the number “10” and add, in its place, the number “11”.

188. Revise newly redesignated § 11.551 to read as follows:

§ 11.551 Endorsements for service on offshore supply vessels.

Each endorsement for service on OSVs as Chief Engineer (OSV) or Engineer (OSV) authorizes service on OSVs as defined in 46 U.S.C. 2101(19) and as interpreted under 46 U.S.C. 14104(b), subject to any restrictions placed on the MMC.

§ 11.553 [Amended]

189. In newly redesignated § 11.553, paragraph (a), remove the words “a license” and add, in their place, the words “an endorsement”.

§ 11.555 [Amended]

190. In newly redesignated § 11.555, paragraph (a), remove the words “a license” and add, in their place, the words “an endorsement”.

191. Revise newly redesignated § 11.601 to read as follows:

§ 11.601 Applicability.

This subpart provides for endorsement as radio officers for employment on vessels, and for the issue of STCW endorsements for those qualified to serve as radio operators on vessels subject to the provisions on the Global Maritime Distress and Safety System (GMDSS) of Chapter IV of SOLAS.

192. In newly redesignated § 11.603 revise the heading and paragraphs (a) and (c) and remove and reserve paragraph (b) to read as follows:

§ 11.603 Requirements for radio officers' endorsements, and STCW endorsements for GMDSS radio operators.

(a) Each applicant for an original endorsement or renewal of license shall present a current first or second class radiotelegraph operator license issued by the Federal Communications Commission. The applicant shall enter on the endorsement application form the number, class, and date of issuance of his or her Federal Communications Commission license.

(b) [Reserved]

(c) Each applicant who furnishes evidence that he or she meets the standard of competence set out in STCW Regulation IV/2 (incorporated by reference in Sec. 11.102), including the competence to transmit and receive information using subsystems of GMDSS, to fulfill the functional requirements of GMDSS, and to provide radio services in emergencies is entitled to hold an STCW endorsement suitable for performing duties associated with GMDSS.

* * * * *

193. Revise newly redesignated § 11.701 to read as follows:

§ 11.701 Scope of pilot endorsements.

(a) An applicant for an endorsement as first-class pilot need not hold any other officer endorsement issued under this part.

(b) The issuance of an endorsement as first-class pilot to an individual qualifies that individual to serve as pilot over the route(s) specified on the endorsement, subject to any limitations imposed under paragraph (c) of this section.

(c) The Officer in Charge, Marine Inspection, issuing an endorsement as first-class pilot, imposes appropriate limitations commensurate with the experience of the applicant, with respect to class or type of vessel, tonnage, route, and waters.

(d) A license or MMC endorsement issued for service as a master, mate, or operator of uninspected towing vessels authorizes service as a pilot under the provisions of § 15.812 of this subchapter. Therefore, first-class pilot endorsements will not be issued with tonnage limitations of 1600 gross tons or less.

194. In newly redesignated § 11.703—

a. Revise paragraphs (a) and (c) to read as set out below; and

b. In paragraph (d), after the words “holding a license”, add the words “or MMC endorsement”:

§ 11.703 Service requirements.

(a) The minimum service required to qualify an applicant for an endorsement as first-class pilot is predicated upon the nature of the waters for which pilotage is desired.

* * * * *

(c) Completion of a course of pilot training approved by the National Maritime Center, under subpart C of this part may be substituted for a portion of the service requirements of this section in accordance with § 11.304. Additionally, round trips made during this training may apply toward the route familiarization requirements of § 11.705. An individual using substituted service must have at least nine months of shipboard service.

* * * * *

195. In newly redesignated § 11.705, revise paragraphs (b) and (c) to read as follows:

§ Route familiarization requirements.

* * * * *

(b) An applicant holding no other deck officer endorsement seeking an endorsement as first-class pilot shall furnish evidence of having completed a minimum number of round trips, while serving as quartermaster, wheelsman, able seaman, apprentice pilot, or in an equivalent capacity, standing regular watches at the wheel or in the pilot house as part of routine duties, over the route sought. Evidence of having completed a minimum number of round trips while serving as an observer, properly certified by the master and/or pilot of the vessel, is also acceptable. The range of round trips for an endorsement is a minimum of 12 round trips and a maximum of 20 round trips. An applicant may have additional routes added to the first-class pilot endorsement by meeting the requirements in paragraph (c) of this section.

(c) An applicant who currently holds a deck officer license or MMC endorsement seeking an endorsement as first-class pilot for a particular route shall furnish evidence of having completed the number of round trips over the route, specified by the Officer In Charge, Marine Inspection, within the range limitations of this paragraph, for the particular grade of existing license or MMC endorsement held. The range of round trips for an endorsement is a minimum of eight round trips and a maximum of 15 round trips.

* * * * *

196. Revise newly redesignated § 11.707 to read as follows:

§ 11.707 Examination requirements.

(a) An applicant for an endorsement as first class pilot, except as noted in paragraph (b) of this section, is required to pass the examination described in subpart I of this part.

(b) An applicant for an extension of route, or an applicant holding a license or MMC endorsement as master or mate authorized to serve on vessels of over 1,600 gross tons seeking an endorsement as first class pilot, is required to pass those portions of the examination described in subpart I of this part that concern the specific route for which endorsement is sought.

197. In newly redesignated § 11.709——

a. In paragraph (c), remove the words “§ 10.205 (d)” and add, in their place, “§ 10.215”;

b. In paragraph (d), wherever the phrase “license or endorsement” appears, insert the word “MMC” before the word “endorsement”; and

c. Revise paragraph (b) to read as follows:

§ 11.709 Annual physical examination requirements.

* * * * *

(b) Every person holding a license or MMC endorsement as first-class pilot shall have a thorough physical examination each year.

* * * * *

§ 11.711 [Amended]

198. In newly redesignated § 11.711—

a. In paragraphs (a) and (d), after the words “first class pilot”, remove the words “license or”; and

b. In paragraph (b), after the words “additional round trips,” remove the words “license or” and, after the words “contained in § ” remove the number “10” and add, in its place, the number “11”.

§ 11.713 [Amended]

199. In newly redesignated § 11.713—

a. In paragraphs (a) and (b), wherever the phrase “license or endorsement” appears, insert the word “MMC” before the word “endorsement”; and

b. In paragraph (b), after the words “of the renewed” remove the words “license or”.

§ 11.803 [Removed and Reserved]

200. Remove and reserve newly redesignated § 11.803.

201. Revise newly redesignated § 11.805 to read as follows:

§ 11.805 General requirements.

(a) The applicant for an endorsement as staff officer is not required to take any examination; however, the applicant shall present to the Officer in Charge, Marine Inspection a letter justifying the need for the endorsement.

(b) [Reserved]

(c) An applicant for a higher grade in the staff department shall apply in the same manner as for an original endorsement and shall surrender the previous Coast Guard issued credentials upon issuance of the new MMC. A staff officer may serve in a lower grade of service for which he or she is registered.

(d) Title 46 U.S.C. 8302 addresses uniforms for staff officers who are members of the Naval Reserve.

(e) A duplicate MMC may be issued by the Officer in Charge, Marine Inspection. (See § 10.229.)

(f) An MMC is valid for a term of five years from the date of issuance. Procedures for renewing endorsements are found in § 10.227. .

(g) Each applicant for an original or a higher grade of endorsement, as described by paragraph (c) of this section, shall produce evidence of having passed a chemical test for dangerous drugs or of qualifying for an exception from testing in § 16.220 of this subchapter. An applicant who fails a chemical test for dangerous drugs will not be issued an MMC.

202. In newly redesignated § 11.807—

a. In paragraph (a) introductory text, after the words “The applicant for” remove the words “a certificate of registry” and add, in their place, the words “an endorsement”;

b. In paragraph (c), after the words “an applicant for” remove the words “a certificate of registry” and add, in their place, the words “an endorsement”;

c. In paragraph (d), after the words “an applicant for” remove the words “a certificate of registry” and add, in their place, the words “an endorsement”, and after the words “may issue the” remove the words “certificate of registry” and add, in their place, the word “MMC”;

d. Add new paragraphs (a)(7) and (8) to read as follows:

§ 11.807 Experience requirements for registry.

(a) * * *

* * * * *

(7) Marine physician assistant. Successful completion of an accredited course of instruction for a physician's assistant or nurse practitioner program.

(8) Hospital corpsman. A rating of at least hospital corpsman or health services technician, first class in the U.S. Navy, U.S. Coast Guard, U.S. Marine Corps, or an equivalent rating in the U.S. Army (not less than staff sergeant, Medical Department, U.S.A.), or in the U.S. Air Force (not less than technical sergeant, Medical Department, U.S.A.F.), and a period of satisfactory service of at least one month in a military hospital or U.S. Public Health Service Hospital.

* * * * *

§ 11.809 [Removed and Reserved]

203. Remove and reserve newly redesignated § 11.809.

204. In newly redesignated § 11.901—

a. In paragraph (a), remove the word “license” and add, in its place, the word “endorsement”, and remove the number “10” and add, in its place, the number “11”;

b. In paragraph (b) introductory text, remove the word “license” and add, in its place, the word “endorsement”;

c. In paragraph (b)(2), remove the word “licenses” and add, in its place, the word “endorsements”;

d. In paragraph (c) introductory text, remove the number “10” wherever it appears and add, in its place, the number “11”; and

e. Revise paragraph (b)(1) to read as follows:

§ 11.901 General provisions.

* * * * *

(b) * * *

(1) MMCs endorsed for restricted routes for reduced service (master or mate of vessels of not more than 200 gross tons, operator of uninspected passenger vessels or master or mate (pilot) of towing vessels); or

* * * * *

§ 11.903 [Amended]

205. In newly redesignated § 11.903—

a. In the section heading, remove the word “Licenses” and add, in its place, the word “Endorsements”;

b. In paragraph (a) introductory text, remove the word “licenses” and add, in its place, the word “endorsements”;

c. In paragraph (b) introductory text, remove the word “licenses” and add, in its place, the word “endorsements”;

d. In paragraphs (b)(2) and (3), remove the word “license”;

e. In paragraph (c) introductory text, remove the word “licenses” and add, in its place, the word “endorsements”, and remove the number “10” and add, in its place, the number “11”;

f. In paragraph (d), remove the words “a license” and add, in their place, the words “an endorsement” and remove the number “10” wherever it appears and add, in its place, the number “11”; and

g. Redesigante Table 10.903-1 as Table 11.903(c).

206. In newly redesignated § 11.910—

a. Revise the section heading and introductory text as set out below;

b. Redesignate Table 10.910-1 as Table 11.910-1 and revise the heading and subheading to read as set out below; and

c. In Table 10.910-2—

i. Redesignate Table 10.910-2 as Table 11.910-2;

ii. In the subheading for newly redesignated Table 11.910-2, remove the word “License” and add, in its place, the word “Endorsement”;

iii. In the first column entitled “Examination topics”, on line 182, remove the words “Licensing & Certification” and add, in their place, the word “Credentialing”;

iv. In footnotes 6 and 7, remove the word “licenses” wherever it may appear, and add, in its place, the words “officer endorsements”; and

v. In footnote 8, remove the word “licenses”:

§ 11.910 Subjects for deck officer endorsements.

Table 11.910-1 gives the codes used in table 11.910-2 for all deck officers. Table 11.910-2 indicates the examination subjects for each endorsement, by code number. Figures in the body of the table, in place of the letter “x”, refer to notes.

Table 11.910-1 Codes for Deck Officer Endorsements

Deck Officer Endorsements:

* * * * *

207. In newly redesignated § 11.920—

a. Revise the section heading and introductory text to read as set out below;

b. Redesignate Table 10.920-1 as Table 11.920-1 and revise it to read as set out below; and

c. Redesignate Table 10.920-2 as Table 11.920-2 and in the first column entitled “Examination topics”, on line 138, remove the words “Licensing and certification” and add, in their place, the word “Credentialing”:

§ 11.920 Subjects for MODU endorsements.

Table 11.920-1 gives the codes used in Table 11.920-2 for MODU endorsements. Table 11.920-2 indicates the examination subjects for each endorsement by the code number.

Table 11.920-1 Codes for MODU Endorsements

* * * * *

208. In newly redesignated § 11.950, revise the section heading and redesignate Table 10.950 as Table 11.950 and revise the heading to read as follows:

§ 11.950 Subjects for engineer endorsements.

Table 11.950 Subjects for Engineer Endorsements

* * * * *

209. Revise newly redesignated § 11.1005 to read as follows:

§ 11.1005 General requirements for officers.

To serve on a Ro-Ro passenger ship after January 31, 1997, a person endorsed as master, chief mate, mate, chief engineer, or engineer shall meet the appropriate requirements of STCW Regulation V/2 and Section A-V/2 of the STCW Code (incorporated by reference in § 11.102) and shall hold documentary evidence to show his or her meeting these requirements.

210. Revise newly redesignated § 11.1105 introductory text and paragraph (a) to read as follows:

§ 11.1105 General requirements for officer's endorsements.

If you are a master, mate, chief mate, engineer, or chief engineer, then, before you may serve on a passenger ship, you must—

(a) Meet the appropriate requirements of the STCW Regulation V/3 and of section A-V/3 of the STCW Code (incorporated by reference in § 11.102); and

* * * * *

PART 12—CERTIFICATION OF SEAMEN

211. The authority citation for part 12 is revised to read as follows:

Authority: 31 U.S.C. 9701; 46 U.S.C. 2101, 2103, 2110, 7301, 7302, 7503, 7505, 7701, and 70105; Department of Homeland Security Delegation No. 0170.1.

§ 12.01-1 [Amended]

212. In § 12.01-1—

a. In paragraph (a)(2), after the words “and to receive the”, remove the words “certificate or”; and

b. Remove paragraphs (a)(3) and (c).

213. Revise § 12.01-3 to read as follows:

§ 12.01-3 Incorporation by reference.

(a) Certain material is incorporated by reference into this part with the approval of the Director of the Federal Register under 5 U.S.C. 552(a) and 1 CFR part 51. To enforce any edition other than that specified in this section, the Coast Guard must publish notice of change in the Federal Register and the material must be available to the public. All approved material is available for inspection at the National Archives and Records Administration (NARA). For information on the availability of this material at NARA, call 202-741-6030 or go to http://www.archives.gov/federal_register/code_of_federal_regulations/ibr_locations.html. Also, it is available for inspection at the Coast Guard, Office of Operating and Environmental Standards (G-PSO), 2100 Second Street SW., Washington, DC 20593-0001, and is available from the sources indicated in this section.

(b) International Maritime Organization (IMO), 4 Albert Embankment, London, SE1 7SR, England.

(1) The International Convention on Standards of Training, Certification and Watchkeeping for Seafarers, 1978, as amended (the STCW Convention or the STCW) , incorporation by reference approved for § § 12.01-1, 12.02-7, 12.02-11, 12.03-1, 12.05-3, 12.05-7, 12.05-11, 12.10-3; 12.10-5, 12.10-7, 12.10-9, 12.15-3, 12.15-7, 12.25-45, 12.30-5, and 12.35-5.

(2) The Seafarers’ Training, Certification and Watchkeeping Code (the STCW Code), incorporation by reference approved for § § 12.01-1, 12.02-7, 12.02-11, 12.03-1, 12.05-3, 12.05-7, 12.05-11, 12.10-3, 12.10-5, 12.10-7, 12.10-9, 12.15-3, 12.15-7, 12.25-45, 12.30-5, and 12.35-5.

§ 12.01-6 [Removed and Reserved]

214. Remove and reserve § 12.01-6.

§ 12.01-7 [Removed and Reserved]

215. Remove and reserve § 12.01-7.

§ 12.02-3 [Removed and Reserved]

216. Remove and reserve § 12.02-3.

§ 12.02-4 [Removed and Reserved]

217. Remove and reserve § 12.02-4.

§ 12.02-5 [Removed and Reserved]

218. Remove and reserve § 12.02-5.

§ 12.02-7 [Amended]

219. In § 12.02-7—

a. In paragraph (a), remove the words “shall be issued, at the option of the seaman, a continuous discharge book, a certificate of identification, or merchant mariner's document representing such certificate of identification which shall be retained by him. This book or certificate of identification or merchant mariner's document will bear a number, and this same number shall be shown on all certificates of service or efficiency issued to the holder of the book or certificate or document.” and add, in their place, the words “must carry a valid Merchant Mariner Credential (MMC) or Merchant Mariner Document (MMD) with all appropriate rating endorsements for the position served and a valid Transportation Worker Identification Credential (TWIC).”;

b. In paragraph (b), remove the words “continuous discharge book or certificate of identification or merchant mariner's document representing such a certificate” and add, in their place, the words “valid MMC or MMD with all applicable rating endorsements for the position sought and a valid TWIC”; and after the words “before a shipping commissioner” and after the words “who do not possess”, remove the words “one of these documents” and add, in their places, the words “these credentials”;

c. In paragraph (c)(1), remove the words “licensed officer and registered staff officer, shall possess a valid certificate of service, or merchant mariner's document representing such certificate, issued by an Officer in Charge, Marine Inspection” and add, in their place, the words “officer and staff officer, must possess a valid MMC or MMD with all appropriate endorsements for the position served”;

d. In paragraphs (c)(2) and (c)(3), remove the words “certificate of service or efficiency is”, wherever they appear, and add, in their place, the words “endorsements are”;

e. In paragraph (c)(3), after the words “below the rank of”, remove the word “licensed”;

f. In paragraph (d), remove the words “After January 31, 1997, each” and add, in their place, the word “Each”; and remove the word “tons” and add, in its place, the words “tonnage (200 gross register tons)”;

g. In paragraph (e), remove the words “After January 31, 2002, each” and add, in their place, the word “Each”; and

h. In paragraph (f), remove the words “no unlicensed person” and add, in their place, the words “no person subject to this part”.

§ 12.02-9 [Removed and Reserved]

220. Remove and reserve § 12.02-9.

§ 12.02-10 [Removed and Reserved]

221. Remove and reserve § 12.02-10.

222. Revise § 12.02-11 to read as follows:

§ 12.02-11 General provisions respecting rating endorsements.

(a)(1) An MMC with a deck officer endorsement will also be endorsed for “any rating in the deck department, except able seaman”, and will authorize the holder to serve in any rating capacity in the deck department, except able seaman. If a deck officer qualifies as able seaman, the MMC will be endorsed, “any rating in the deck department, including able seaman”, and such endorsement will be deemed to include an endorsement as lifeboatman.

(2) An MMC issued to an engineer officer endorsed for inspected vessels of over 2,000 horsepower will be endorsed for “any rating in the engine department”, and will authorize the holder to serve in any rating capacity in the engine department. If an engineer officer qualifies as a lifeboatman, the further endorsement, “lifeboatman”, will be placed on the MMC.

(b) The authorized holder of any valid rating endorsement may serve in any capacity in the staff department of a vessel, except in those capacities requiring a staff officer; except that, whenever the service includes the handling of food, no person may be so employed unless his or her credential bears the food handler's endorsement “(F.H.)”.

(c) A rating endorsement as able seaman or as lifeboatman must authorize service as lifeboatman.

(d) When a rating endorsement is issued, renewed, or endorsed, the Officer in Charge, Marine Inspection, will determine whether the holder of the credential is required to hold an STCW endorsement for service on a seagoing vessel, and then, if the holder is qualified, the Officer in Charge, Marine Inspection will issue the appropriate endorsement. The Officer in Charge, Marine Inspection, will also issue an STCW endorsement at other times, if circumstances so require and if the holder of the document is qualified to hold the endorsement. The Officer in Charge, Marine Inspection, will issue an STCW endorsement for the following ratings:

(1) A rating forming part of a navigational watch on a seagoing ship of 500 GT or more if the holder of the credential is qualified in according to STCW Regulation II/4 of the STCW Code (Incorporated by reference, see § 12.01-3.), to perform the navigational function at the support level.

(2) A rating forming part of a watch in a manned engineroom, or designated to perform duties in a periodically unmanned engineroom, on a seagoing ship driven by main propulsion machinery of 750 kW (1,000 hp) of propulsion power or more, if the holder is qualified in according to STCW Regulation III/4 and Section A-iii/4 of the STCW Code, to perform the marine-engineering function at the support level.

(e) At the request of the holder of the document, the Officer in Charge, Marine Inspection, may add an endorsement to indicate that a qualified holder has received basic safety-training or instruction required under Chapter VI of STCW.

§ 12.02-12 [Removed and Reserved]

223. Remove and reserve § 12.02-12.

§ 12.02-13 [Removed and Reserved]

224. Remove and reserve § 12.02-13.

§ 12.02-14 [Removed and Reserved]

225. Remove and reserve § 12.02-14.

§ 12.02-15 [Removed and Reserved]

226. Remove and reserve § 12.02-15.

§ 12.02-17 [Amended]

227. In § 12.02-17—

a. In the section heading, remove the words “Preparation and issuance of documents” and add, in their place, the words “Examination procedures and denial of rating endorsements.”;

b. In paragraph (a), remove the words “of a person for a merchant mariner's document” and add, in their place, the words “for a rating endorsement”;

c. Remove paragraphs (b), (c), (d), (e), and (h);

d. Redesignate paragraph (f) as paragraph (b) and remove the words “certificate of service or efficiency” and add, in their place, the words “rating endorsement”; and after the words “examined and refused”, remove the words “a certificate” and add, in their place, the words “the endorsement”; and

e. Redesignate paragraph (g) as paragraph (c), and remove the word “certificate” and add, in its place, the words “rating endorsement”.

§ § 12.02-18 through 12.02-27 [Removed and Reserved]

228. Remove and reserve § § 12.02-18 through 12.02-27.

§ 12.03-1 [Amended]

229. In § 12.03-1—

a. In paragraph (a) introductory text, after the words “part 10 of this”, remove the word “chapter”, and add, in its place, the word “subchapter”; remove the text “§ 10.302” and add, in its place, the text “§ 11.302”; after the words “used to qualify” add the words “an applicant”; after the words “hold an STCW”, remove the words “certificate or endorsement”, and add, in their place, the words “or rating”; and remove the words “for service on or after February 1, 2002,”;

b. In paragraph (a)(3)(iii), remove the words “license, endorsement,” and add, in their place, the words “Coast Guard credential”;

c. In paragraph (a)(4), remove the words “a maritime license or document” and add, in their place, the words “Coast Guard credential”;

d. In paragraph (b), after the words “training necessary for”, remove the word “licenses” and add, in its place, the words “both officer”;

e. In paragraph (c) introductory text, before the words “particular training does”, add the word “the”; and

f. In paragraph (c)(2), remove the words “Commanding Officer,”; and after the words “National Maritime Center”, add the text “(NMC)”.

§ 12.05-1 [Amended]

230. In paragraph (a), remove the words “employed in a rating” and add, in their place, the words “serving under the authority of a rating endorsement”; and remove the words “a merchant mariner's document” and add, in their place, the words “an MMC or MMD endorsement”.

§ 12.05-3 [Amended]

231. In § 12.05-3—

a. In paragraph (a)(2), remove the word “examination” and add, in its place, the words “and medical examination in § 10.215 of this subchapter”; and

b. In paragraph (b) introductory text, remove the words “valid for any period on or after February 1, 2002,”.

§ 12.05-7 [Amended]

232. In § 12.05-7—

a. In paragraph (a) introductory text, before the words “able seaman” add the words “endorsement as”; and

b. Remove paragraphs (c), (d), and (e).

§ 12.05-9 [Amended]

233. In paragraph (e), remove the words “is in valid possession of a certificate as able seaman endorsed” and add, in their place, the words “holds a valid MMC or MMD endorsed as able seaman”; and after the words “service to qualify for”, remove the word “a certificate as able seaman endorsed” and add, in their place, the words “an endorsement as able seaman”; after the words “issued a new”, remove the word “document” and add, in its place, the word “MMC”; after the words “for cancellation the” remove the word “document” and add, in its place, the word “credential”; remove the words “by a medical officer of the Public Health Service”; and after the words “determine his competency”, add the words “as set forth in § 10.215 of this chapter”.

§ 12.05-11 [Amended]

234. In § 12.05-11—

a. In the section heading, remove the words “merchant mariner's document endorsed” and add, in their place, the word “endorsements”;

b. In paragraph (a), remove the words “a merchant mariner's document” and add, in their place, the words “an MMC or MMD”; remove the word “unlicensed”; and after the words “when serving”, remove the words “in as a “rating forming part of a navigational watch” ” and add, in their place, the words “as a rating forming part of a navigational watch (RFPNW)”; and

c. In paragraph (b), remove the words “A merchant mariner's document” and add, in their place, the words “An MMC or MMD”; remove the words “a certificate of efficiency” and add, in their place, the words “an endorsement”; and remove the words “without further endorsement”.

§ 12.10-1 [Amended]

235. In § 12.10-1—

a. In the section heading, remove the word “Certification” and add, in its place, the word “Credentials”; and

b. In the text, remove the words “employed in a rating” and add, in their place, the words “serving under the authority of a rating endorsement”; remove the words “certificated lifeboatmen shall produce a certificate as lifeboatman or merchant mariner's document” and add, in their place, the words “lifeboatmen must produce an MMC or MMD”; and remove the words “certificate of efficiency” and add, in their place, the word “endorsement”.

§ 12.10-3 [Amended]

236. In § 12.10-3—

a. In paragraph (a) introductory text, remove the word “certification” and add, in its place, the words “an endorsement”;

b. In paragraph (a)(5), after the words “training vessel”, remove the word “and” and add, in its place, the word “or”;

c. In paragraph (b), remove the word “certification” and add, in its place, the words “an endorsement”; and

d. In paragraph (c), remove the word “certified” and add, in its place, the words “eligible for an endorsement”.

§ 12.10-5 [Amended]

237. In § 12.10-5—

a. In paragraph (a) introductory text, remove the word “certified” and add, in its place, the words “issued an endorsement”; and

b. In paragraph (d), remove the words “After July 31, 1998, each” and add, in their place, the word “Each” and remove the words “certificate endorsed for” and add, in their place, the words “endorsement with an STCW endorsement for”.

§ 12.10-7 [Amended]

238. In § 12.10-7—

a. In the section heading, after the words “provisions respecting”, remove the words “merchant mariner's documents” and add, in their place, the words “an MMC or MMD” ; and

b. In the introductory text, before the words “endorsed as able seaman”, remove the words “A merchant mariner's document and” and add, in their place, the words “An MMC or MMD”; and after the words “equivalent of”, remove the words “a certificate as lifeboatman or of”; after the words “will be accepted” remove the words “as either of these wherever either is” and add, in their place, the words “wherever a lifeboatman is”; after the words “that, when”, remove the words “the holder documented as”; and remove the word “certified” and add, in its place, the word “endorsed”.

239. In § 12.10-9, revise the heading, paragraph (a) and paragraph (b) introductory text to read as follows:

§ 12.10-9 Endorsement for proficiency in fast rescue boats.

(a) Each person engaged or employed as a lifeboatman proficient in fast rescue boats must hold an appropriately endorsed MMC or MMD.

(b) To be eligible for an MMC endorsed for proficiency in fast rescue boats, an applicant must—

* * * * *

§ 12.13-3 [Amended]

240. In § 12.13-3 text, remove the words “license or document” and add, in their place, the word “MMC”.

§ 12.15-1 [Amended]

241. In § 12.15-1—

a. In the section heading, remove the word “Certification” and add, in its place, the word “Credentials”;

b. In paragraph (a), remove the words “employed in a rating” and add, in their place, the words “serving under the authority of a rating endorsement” and after the words “vessel requiring” remove the word “certificated” and after the words “shall produce” remove the words “a certificate” and add, in their place, the words “an endorsement”; and

c. In paragraph (b), remove the word “certificate” and add, in its place, the word “endorsement”.

§ 12.15-3 [Amended]

242. In § 12.15-3—

a. In paragraph (a), after the words “any person below”, remove the words “the rating of licensed”; and after the words “who holds”, remove the words “a certificate of service as such” and add, in their place, the words “an MMC or MMD endorsed as”; and, after the words “Coast Guard”, remove the words “or predecessor authority”;

b. In paragraph (b), after the words “considered a rating”, remove the words “not above that of” and add, in their place, the words “equal to”; and after the words “passer or wiper”, remove the words “, but equal thereto”;

c. In paragraph (c), remove the word “certification” and add, in its place, the words “an endorsement”;

d. In paragraph (d) introductory text, remove the words “After July 31, 1998, an” and add, in their place, the word “An”; and remove the word “certification” and add, in its place, the word “endorsement”; and

e. In paragraph (e), remove the words “After July 31, 1998, an” and add, in their place, the word “An”; and remove the word “certification” and add, in its place, the word “endorsement”.

243. Revise § 12.15-5 to read as follows:

§ 12.15-5 Physical and medical requirements.

The physical and medical requirements for an endorsement as QMED are found in part 10 of this chapter.

§ 12.15-7 [Amended]

244. In § 12.15-7—

a. In paragraph (a), after the words “applicant for”, remove the words “a certificate of service” and add, in their place, the words “an endorsement”;

b. In paragraph (b)(1), after the words “graduate of a school ship may”, remove the words “be rated” and add, in their place, the words “qualify for a rating endorsement”; and

c. In paragraph (c), after the words “qualified rating”, add the words “in the engineer department”.

§ 12.15-9 [Amended]

245. In § 12.15-9—

a. In paragraph (a), remove the word “certification” and add, in its place, the word “endorsement”;

b. In paragraph (c), remove the word “certification” and add, in its place, the words “an endorsement”; and

c. In paragraph (d), remove the word “certification” and add, in its place, the words “an endorsement”.

§ 12.15-11 [Amended]

246. In § 12.15-11—

a. In the section heading, remove the words “merchant mariner's documents endorsed” and add, in their place, the words “an endorsement”; and

b. In the introductory text, after the words “The holder of”, remove the words “a merchant mariner's document endorsed”, and add, in their place, the words “an endorsement”; after the words “Each qualified member of the engine department rating”, remove the words “for which a holder of a merchant mariner's document is qualified must be endorsed separately” and add, in their place, the words “must be a separate endorsement”; and after the words “all ratings covered by”, remove the words “a certificate as a qualified member of the engine department, the certification” and add, in their place, the words “an endorsement as a QMED, the endorsement”.

§ 12.15-13 [Amended]

247. In § 12.15-13—

a. In paragraph (a) introductory text, remove the words “a certificate”, and add, in their place, the words “an endorsement”; and remove the words “a merchant mariner's document”, and add, in their place, the words “an MMC or MMD”;

b. In paragraph (b), remove the words “merchant mariner's document”, and add, in their place, the word “MMC”; and

c. In paragraph (c), remove the words “a merchant mariner's document”, and add, in their place, the words “an MMC or MMD”; remove the word “unlicensed”; and after the words “entered on his”, remove the word “document” and add, in its place, the words “or her credential”.

§ 12.15-15 [Amended]

248. In § 12.15-15—

a. In paragraph (a) introductory text, remove the words “a certificate”, and add, in their place, the words “an endorsement”; remove the words “a merchant mariner's document”, and add, in their place, the words “an MMC or MMD”; and remove the word “certification” and add, in its place, the word “endorsement”;

b. In paragraph (b), remove the words “current merchant mariner's document held by the applicant”, and add, in their place, the words “applicant's MMC”; and

c. In paragraph (c), remove the words “a merchant mariner's document”, and add, in their place, the words “an MMC or MMD”; and remove the word “unlicensed” and after the words “entered on his”, remove the word “document” and add, in its place, the words “or her credential”.

§ 12.25-1 [Amended]

249. In § 12.25-1—

a. In the section heading, remove the word “Certification” and add, in its place, the word “Credentials”; and

b. In the text, remove the word “certificated” and remove the words “a merchant mariner's document” and add, in their place, the words “an MMC or MMD with the appropriate endorsement”.

250. Revise § 12.25-10 to read as follows:

§ 12.25-10 General requirements.

(a) Rating endorsements shall be issued without professional examination to applicants in capacities other than able seaman, lifeboatman, tankerman, or qualified member of the engine department. For example, ordinary seaman—wiper—steward's department (F.H.). Holders of MMCs or MMDs endorsed as ordinary seaman may serve in any unqualified rating in the deck department. Holders of MMCs or MMDs endorsed as wiper may serve in any unqualified rating in the engine department. MMCs or MMDs endorsed as steward's department (F.H.) will authorize the holder's service in any capacity in the steward's department. (See § 12.02-11(b) for unqualified ratings in the staff department.)

(b) When the holder of an endorsement is qualified as a food handler, the steward's department endorsement will be followed by the further endorsement (F.H.).

251. Revise § 12.25-20 to read as follows:

§ 12.25-20 Physical and medical requirements.

The physical and medical requirements for this subpart are found in part 10.

252. Revise § 12.15-25 to read as follows:

§ 12.25-25 Members of Merchant Marine Cadet Corp.

No ratings other than cadet (deck) or cadet (engine), as appropriate, and lifeboatman will be shown on an MMC issued to a member of the U.S. Merchant Marine Cadet Corps. The MMC will also indicate that it is valid only while the holder is a cadet in the U.S. Maritime Administration training program. The MMC must be surrendered upon the holder being endorsed in any other rating or upon being issued an officer's endorsement and the rating of cadet (deck) or cadet (engine) will be omitted.

§ 12.25-30 [Amended]

253. In § 12.25-30, in the text, remove the words “merchant mariner's document” and add, in their place, the words “MMC endorsed”; and remove the words “documents or certificates” and add, in their place, the word “endorsements”.

§ 12.25-35 [Amended]

254. In § 12.35-35—

a. In paragraph (a), remove the words “a merchant mariner's document” and add, in their place, the words “an endorsement”; and

b. In paragraph (b), remove the words “merchant mariner's document with”.

§ 12.25-40 [Amended]

255. In § 12.25-40-in the text, remove the words “a merchant mariner's document” and add, in their place, the words “an endorsement”.

§ 12.25-45 [Amended]

256. In § 12.25-45, in the text, remove the words “certificates or”.

§ 12.30-1 [Amended]

257. In § 12.30-1, in the text, remove the words “certification of” and add, in their place, the words “endorsements for”.

§ 12.30-3 [Removed and Reserved]

258. Remove and reserve § 12.30-3.

§ 12.30-5 [Amended]

259. In § 12.30-5, in the text, remove the words “after January 31, 1997,”; and remove the word “MMD” and add, in its place, the word “endorsement”.

§ 12.35-1 [Amended]

260. In § 12.35-1, in the text, remove the word “certification” and add, in its place, the word “qualification”; and remove the word “§ 12.35-3” and add, in its place, the words “part 10”.

§ 12.35-3 [Removed and Reserved]

261. Remove and reserve § 12.35-3.

§ 12.35-5 [Amended]

262. In § 12.35-5—

a. In the introductory text, remove the words “If you are an unlicensed person then before you” and add, in their place, the words “A mariner with no endorsements,”; and remove the words “you must” and add, in their place, the words “only after meeting the following conditions”; and

b. In paragraph (b), remove the words “you do meet”, and add, in their place, the words “the mariner meets”.

PART 13—CERTIFICATION OF TANKERMEN

263. The authority citation for part 13 continues to read as follows:

Authority: 46 U.S.C. 3703, 7317, 8105, 8703, 9102; Department of Homeland Security Delegation No. 0170.1.

§ 13.101 [Amended]

264. In § 13.101, remove the words “to a merchant mariner's document” and add, in their place, the words “on a merchant mariner credential”.

§ 13.103 [Removed and Reserved]

265. Remove and reserve § 13.103.

266. Add new § 13.106 to read as follows:

§ 13.106 Requirement to hold an MMC.

An applicant for any endorsement in this part must also meet the requirements for the MMC on which the endorsement would appear. These requirements are set out in part 10 of this chapter.

§ 13.107 [Amended]

267. In § 13.107—

a. In paragraphs (a), (b), (c), (d), (e), and (f), remove the word “MMD” wherever it appears, and add, in its place, the word “MMC”;

b. In paragraph (a), remove the words “engineer's license” and add, in its place, the words “engineer license or engineer endorsement”;

c. In paragraph (d), place quotation marks (“”) before and after the words “Tankerman-Engineer”; after the words “No person licensed”, add the words “or credentialed”; and remove the number “10”, and add, in its place, the number “11”.

d. In paragraph (f), remove the text “10.105”, and add, in their place, the text “10.217”; and remove the word “chapter”, and add, in its place, the word “title”.

§ 13.109 [Amended]

268. In § 13.109(c), remove the text “10.105” and add, in their place, the text “10.217”; and remove the word “MMD” and add, in its place, the word “MMC”.

§ 13.111 [Amended]

269. In § 13.111—

a. In the section heading, after the word “Restricted” add the word “tankerman”;

b. In paragraph (a), remove the words “46 CFR 10.105” and add, in their place, the words “§ 10.217 of this chapter”; and

c. In paragraph (d)(3), after the words “passing a physical”, add the words “and medical”; and remove the words “in accordance with § 13.125” and add, in their place, the words “according to § 10.215 of this chapter”.

§ 13.119 [Amended]

270. Remove the word “MMD” and add, in its place, the words “merchant mariner's document or merchant mariner credential on which the endorsement appears”.

§ 13.120 [Amended]

271. In § 13.120, in the section heading, before the word “endorsement”, add the word “tankerman”; remove the number “12.02-27” and add, in its place, the number “10.227”; and remove the word “MMD” and add, in its place, the word “MMC”.

§ 13.121 [Amended]

272. In § 13.121—

a. In the section heading, remove the word “training” and after the word “tankerman”, add the word “endorsements”; and

b. In paragraph (a), remove the number “10” wherever it may appear and add, in its place, the number “11”.

§ 13.125 [Amended]

273. In § 13.125—

a. In the section heading, after the word “Physical” add the words “and medical”.

b. In the text, remove the words “10.205(d) of this chapter, excluding paragraph (d)(2) of that section” and add, in their place, the words “10.215 of this chapter”.

§ 13.129 [Amended]

274. In § 13.129—

a. In the section heading, after the word “tankerman”, add the word “endorsements”.

b. In Table 13.129, in the column “Physical required”, remove the numbers “13.125”, “13.111(b)”, “13.111(c)”, and “13.111(d)(3)” wherever they appear and add, in their place, the number “10.215”.

§ 13.201 [Amended]

275. In § 13.201(c), after the word “physical” add the words “and medical”; and remove the words “in accordance with § 13.125” and add, in their place, the words “according to § 10.215 of this chapter”.

§ 13.203 [Amended]

276. In § 13.203—

a. In paragraph (a)(1), after the words “service as a”, remove the word “licensed”; after the words “deck officer or”, remove the words “a licensed”; and before the word “engineering”, add the word “an”;

b. In paragraph (a)(2), remove the word “unlicensed” and add, in its place, the word “rating”; and

c. In paragraph (c) introductory text, after the word “MMD”, add the words “or MMC”.

§ 13.207 [Amended]

277. In § 13.207, in the text, remove the words “license or a tankerman endorsement” and add, in their place, the words “license, tankerman endorsement, or officer endorsement on an MMC”.

§ 13.301 [Amended]

278. In § 13.301(c), after the word “physical” add the words “and medical”; and remove the words “in accordance with § 13.125” and add, in their place, the words “according to § 10.215 of this chapter”.

§ 13.303 [Amended]

279. In § 13.303(c) introductory text, after the word “MMD” add the words “or MMC”.

§ 13.307 [Amended]

280. In § 13.307(a), remove the words “license or a tankerman endorsement” and add, in their place, the words “license, tankerman endorsement on an MMD or MMC, or an officer endorsement on an MMC”.

§ 13.401 [Amended]

281. In § 13.401(c), after the word “physical” add the words “and medical”; and remove the words “in accordance with § 13.125” and add, in their place, the number “according to § 10.215 of this chapter”.

§ 13.403 [Amended]

282. In § 13.403(b) introductory text, after the word “MMD” add the words “or MMC”.

§ 13.407 [Amended]

283. In § 13.407, in the text, remove the words “for a license or endorsement” and add, in their place, the words “to the Coast Guard for any other endorsement or credential”.

§ 13.501 [Amended]

284. In § 13.501(c), after the word “physical” add the words “and medical”; and remove the words “in accordance with § 13.125” and add, in their place, the words “according to § 10.215 of this chapter”.

§ 13.503 [Amended]

285. In § 13.503—

a. In paragraph (a)(1), remove the words “a licensed” and add, in their place, the word “an”; and remove the word “of” and add, in its place, the word “on”;

b. In paragraph (a)(2), remove the word “unlicensed” and add, in its place, the word “rating”; and

c. In paragraph (b), after the word “MMD”, add the words “or MMC”.

§ 13.505 [Amended]

286. In § 13.505(a)(2), remove the words “licensed and unlicensed” and add, in their place, the words “officer, rating, and cadet”.

§ 13.507 [Amended]

287. In § 13.507, in the text, remove the words “license or tankerman endorsement” and add, in their place, the words “license, tankerman endorsement, or officer endorsement on an MMC”.

PART 14—SHIPMENT AND DISCHARGE OF MERCHANT MARINERS

288. The authority citation for part 14 is revised to read as follows:

Authority: 5 U.S.C. 552; 46 U.S.C. Chapters 103 and 104; 46 U.S.C. 70105.

§ 14.205 [Amended]

289. In § 14.205, in the text, remove the words “every document, certificate,” and add, in their place, the words “a valid Transportation Worker Identification Credential and every document, certificate, credential,”.

§ 14.207 [Amended]

290. In § 14.207(a)(1), after the words “specify at least the name, the”, remove the words “number of the license or merchant mariner's document” and add the words “TWIC number and license, MMD, or MMC number,”.

§ 14.307 [Amended]

291. In § 14.307(a), remove the words “and merchant mariner's document number” and add, in their place, the words “TWIC number, and MMD or MMC number”.

PART 15—MANNING REQUIREMENTS

292. The authority citation for part 15 is revised to read as follows:

Authority: 46 U.S.C. 2101, 2103, 3306, 3703, 8101, 8102, 8104, 8105, 8301, 8304, 8502, 8503, 8701, 8702, 8901, 8902, 8903, 8904, 8905(b), 8906, 9102, and 70105; and Department of Homeland Security Delegation No. 0170.1.

§ 15.103 [Amended]

293. In § 15.103—

a. In paragraph (b), remove the words “of licensed individuals and members of the crew” and add, in their place, the words “number of officers and rated crew”; and after the words “minimum qualifications concerning licenses”, add the words “and MMC endorsements”;

b. In paragraph (c), remove the words “licensed individuals” and add, in their place, the word “officers”; and

c. In paragraph (g), remove the words “Licensed personnel” and add, in their place, the word “Personnel”; after the words “an appropriate STCW”, remove the words “certificate or endorsement” and add, in their place, the words “endorsement on their license or MMC”; and before the words “endorsement will be expressly limited”, remove the words “certificate or”.

Subpart B—[Removed and Reserved]

294. Remove and reserve subpart B, consisting of § 15.301.

295. Revise § 15.401 to read as follows:

§ 15.401 Employment and service within restrictions of credential.

A person may not employ or engage an individual, and an individual may not serve, in a position in which an individual is required by law or regulation to hold a license, certificate of registry, merchant mariner's document, transportation worker identification credential, and/or merchant mariner credential, unless the individual holds all credentials required, as appropriate, authorizing service in the capacity in which the individual is engaged or employed and the individual serves within any restrictions placed on the credential.

§ 15.405 [Amended]

296. In § 15.405, in the text, remove the words “licensed, registered, or certificated” and add, in their place, the word “credentialed”.

§ 15.410 [Amended]

297. In § 15.410—

a. In the section heading, remove the word “Licensed” and add, in its place, the word “Credentialed”; and

b. In the text, remove the words “a licensed individual” and add, in their place, the words “an individual holding a license or merchant mariner credential authorizing them”.

§ 15.515 [Amended]

298. In § 15.515(b) introductory text, remove the words “issued by the Coast Guard” and add, in their place, the words “or appropriate officer endorsement on their merchant mariner credential”.

§ 15.520 [Amended]

299. In § 15.520—

a. In paragraph (b), remove the words “licensed individuals” and add, in their place, the word “officers”;

b. In paragraph (c), after the words “A license”, add the words “or officer endorsement on an MMC”; and after the words “operation specified on the”, remove the word “license” and add, in its place, the word “credential”;

c. In paragraph (d), after the words “endorsed as an OIM”, add the words “or an MMC with master and OIM officer endorsements”;

d. In paragraph (e), after the words “who holds a license”, add the words “or MMC officer endorsement”; and after the words “as master endorsed as OIM”, add the words “or an MMC with master and OIM officer endorsements”;

e. In paragraph (f), after the words “holds a license or” add the words “MMC officer”;

f. In paragraph (g), after the words “appropriate license”, add the words “or MMC officer endorsement”; and, after the words “holding a license or”, add the words “MMC officer”; and

g. In paragraphs (h), (i), and (l), after the words “holding a license or”, add the words “MMC officer”.

§ 15.605 [Amended]

300. In § 15.605—

a. In the section heading, remove the word “Licensed” and add, in its place, the word “Credentialed”;

b. In the introductory text, remove the word “licensed” and add, in its place, the word “credentialed”;

c. In paragraph (a), remove the words “, carrying not more than six passengers,”; and after the words “holding a license”, add the words “or MMC endorsed”; and after the words “as operator”, add the words “of uninspected passenger vessels”; and

d. In paragraph (b), remove the word “licensed” and add, in its place, the word “credentialed”.

§ 15.610 [Amended]

301. In § 15.610—

a. In paragraph (a), after the words “and control of a person”, remove the word “licensed” and add, in its place, the words “holding a license or MMC officer endorsement”; and after the words “endorsement on his or her license”, add the words “or MMC”;

b. Remove paragraphs (b) and (c);

c. Redesignate paragraph (d) as paragraph (b);

d. In newly redesignated paragraph (b) introductory text, remove the words “who holds a first-class pilot's license or” and add, in their place, the words “meeting the requirements of paragraph (a) of this section who holds either a first-class pilot's license or MMC officer”; and remove the words “paragraph (d)(1) or paragraph (d)(2)” and add, in their place, the words “paragraphs (b)(1) or (b)(2)”.

§ 15.701 [Amended]

302. In § 15.701(b), after the words “must hold a license”, add the words “or MMC officer endorsement”; and remove the words “part 10” and add, in their place, the words “parts 10 and 11”.

§ 15.705 [Amended]

303. In § 15.705—

a. In paragraph (b), remove the words “licensed individuals” and add, in their place, the word “officers”; and after the words “deck department other than”, remove the word “licensed”;

b. In paragraph (c) introductory text, remove the words “licensed individuals” and add, in their place, the word “officers”; and

c. In paragraphs (d) and (e)(1) and (2), remove the word “licensed” wherever it appears.

§ 15.710 [Amended]

304. In § 15.710 introductory text, after the words “on the working hours of”, remove the words “licensed individuals” and add, in their place, the words “credentialed officers”; and after the words “master or other”, remove the words “licensed individual” and add, in their place, the words “credentialed officer”.

305. In § 15.720—

a. In the section heading, remove the words “licensed and/or documented” and add, in their place, the word “credentialed”;

b. In paragraph (a), remove the words “utilize non-U.S. licensed and documented” and add, in their place, the words “use non-U.S. credentialed”; and

c. In paragraph (d), remove the words “license or document” wherever they appear and add, in their place, the word “credential”.

§ 15.725 [Amended]

306. In § 15.725, in the text, remove the words “licensed or documented” and add, in their place, the word “credentialed”.

§ 15.730 [Amended]

307. In § 15.730, paragraph (d), remove the words “licensed individuals” wherever they may appear and add, in their place, the word “officers”; and after the words “spoken directly by the”, remove the words “licensed individual” and add, in their place, the word “officer”.

§ 15.805 [Amended]

308. In § 15.805—

a. In paragraph (a) introductory text, after the words “license as master”, add the words “or a valid MMC with endorsement as “master” ”;

b. In paragraph (a)(5) introductory text, remove the word “licensed” and add, in its place, the words “holding a license or MMC endorsed”; and

c. In paragraph (a)(5)(ii), remove the word “endorsed” and add, in its place, the words “or MMC with officer endorsement”.

§ 15.810 [Amended]

309. In § 15.810—

a. In paragraph (a), remove the word “licensed”;

b. In paragraph (b) introductory text, remove the word “licensed” and add, in its place, the words “mariners holding a license or MMC officer endorsement as”;

c. In paragraph (b), remove the word “licensed” wherever it appears;

d. In paragraph (c), after the words “appropriate license”, add the words “or MMC”;

e. In paragraph (d) introductory text, remove the words “hold a license” and add, in their place, the words “satisfy the requirements of § 15.805(a)(5) or hold a license or MMC”;

f. In paragraph (d)(2) introductory text, after the words “officer's license”, add the words “or MMC”; and

g. In paragraph (d)(2)(ii), remove the word “endorsed” and add, in its place, the words “or MMC with officer endorsement”.

§ 15.812 [Amended]

310. In § 15.812—

a. In paragraph (b)(1), remove the words “issued by the Coast Guard”, and add, in their place, the words “or MMC officer endorsement”; and remove the word “license” and add, in its place, the word “credential”;

b. In paragraph (b)(2) introductory text, remove the words “issued by the Coast Guard” and add, in their place, the words “or MMC officer endorsement”; and remove the word “license” and add, in its place, the word “credential”;

c. In paragraph (b)(2)(ii), remove the number “10.713” and add, in its place, the number “11.713”;

d. In paragraph (b)(3) introductory text, remove the words “issued by the Coast Guard” and add, in their place, the words “or MMC officer endorsement”; and remove the word “license” and add, in its place, the word “credential”;

e. In paragraph (b)(3)(ii), remove the number “10.713” and add, in its place, the number “11.713”;

f. In paragraph (b)(3)(iii), remove the number “10.709” and add, in its place, the number “11.709”;

g. In paragraph (c) introductory text, remove the words “issued by the Coast Guard” and add, in their place, the words “or MMC officer endorsement”; and remove the word “license” and add, in its place, the word “credential”;

h. In paragraph (c)(2), remove the number “10.713” and add, in its place, the number “11.713”;

i. In paragraph (c)(3), remove the number “10.709” and add, in its place, the number “11.709”;

j. In table 15.812(e)(1), in the heading to the second column, after the words “First Class Pilot's licenses”, add the words “or MMC officer endorsements”;

k. In table 15.812(e)(2), in the heading to the second column, after the words “First Class Pilot's licenses”, add the words “or MMC officer endorsements”; and remove the word “Operator” wherever it may appear, and add, in its place, the words “Master, Mate (Pilot) of towing vessels”;

l. In paragraph (f)(1), remove the words “a federally licensed” and add, in its place, the words “an individual holding a valid license or MMC endorsed as”;

m. In paragraph (f)(1)(i), remove the words “Federal license” and add, in their place, the words “authority of a license or MMC”; and

n. In paragraph (f)(2) introductory text, after the words “with either two”, remove the word “licensed” and add, in its place, the word “credentialed”; and after the words “on the bridge or”, remove the words “a federally licensed” and add, in their place, the words “an individual holding a valid license or MMC endorsed as”.

§ 15.815 [Amended]

311. In § 15.815—

a. In paragraph (a), remove the words “licensed deck individuals” and add, in their place, the words “deck officers”; and

b. In paragraph (c), remove the words “be licensed” and add, in their place, the words “hold a license or MMC officer endorsement”; and after the words “service as master”, remove the words “, mate, or operator” and add, in their place, the words “or mate”.

§ 15.820 [Amended]

312. In § 15.820—

a. In paragraph (a) introductory text, remove the words “appropriate license” and add, in their place, the words “MMC or license endorsed”; and after the words “as chief engineer or”, remove the words “a license”;

b. In paragraph (a)(3), remove the words “a licensed individual” and add, in their place, the words “an individual with a license or the appropriate MMC officer endorsement”; and

c. In paragraph (b), remove the words “appropriate license” and add, in their place, the words “appropriately endorsed license or MMC”.

§ 15.825 [Amended]

313. In § 15.825—

a. In paragraph (a), remove the words “appropriate license” and add, in their place, the words “appropriately endorsed license or MMC”; and

b. In paragraph (b), remove the word “licensed” and add, in its place, the word “credentialed”.

§ 15.835 [Amended]

314. In § 15.835, in the text, remove the number “10” and add, in its place, the number “11”.

§ 15.840 [Amended]

315. In § 15.840, paragraph (a), remove the words “licensed individuals” and add, in their place, the words “individuals serving as deck officers”.

§ 15.860 [Amended]

316. In § 15.860—

a. In paragraph (a), after the words “merchant mariner's documents” add the words “or MMCs”;

b. In paragraph (f) introductory text, after the words “merchant mariner's documents”, add the words “or MMCs”;

c. In paragraph (f)(3), remove the words “licensed person” and add, in their place, the words “credentialed officer”;

d. In paragraph (f)(4), remove the words “licensed or unlicensed person” and add, in their place, the words “officer or crewmember”; and

e. In table 15.860(a)(2), in the first column, sixth row, remove the words “Licensed Person” and add, in their place, the words “Credentialed Officer”; and, in the first column, seventh row, remove the words “Licensed or Unlicensed Person” and add, in their place, the words “Credentialed Officer or Crewmember”.

§ 15.901 [Amended]

317. In § 15.901, paragraphs (a), (b), (c), and (d), after the words “holding a license” wherever they appear, add the words “or MMC endorsed”; after the words “on the individual's license” wherever they appear, add the words “or MMC”; and, remove the words “authorizing service” wherever they appear.

§ 15.905 [Amended]

318. In § 15.905 (a), (b), and (c), after the words “holding a license” wherever they appear, add the words “or MMC endorsed”; and after the words “on the individual's license”, wherever they appear, add the words “or MMC”.

319. Revise § 15.910 to read as follows:

§ 15.910 Towing vessels.

No person may serve as a master or mate (pilot) of any towing vessel without meeting the requirements of § § 15.805(a)(5) or 15.810(d).

§ 15.915 [Amended]

320. In § 15.915—

a. In the introductory text, after the words “following licenses”, add the words “and MMC officer endorsements”; and after the words “on the license” add the words “or MMC”; and

b. In paragraphs (a) introductory text, (b), (c), and (d), after the word “license”, wherever it appears, add the words “or endorsement”.

§ 15.1001 [Amended]

321. In § 15.1001 remove the words “an appropriately endorsed Federal first class pilot's license issued by the Coast Guard” and add, in their place, the words “a valid MMC or license with appropriate endorsement as a first-class pilot”.

§ 15.1103 [Amended]

322. In § 15.1103—

a. In the section heading, remove the words “restrictions of a license, document, and” and add, in their place, the words “the restrictions of an”;

b. In paragraph (c), remove the words “After January 31, 2002, on” and add, in their place, the word “On”;

c. In paragraph (d), remove the words “§ 10.1005 (if licensed) or § 12.30-5 (if unlicensed) of this chapter” and add, in their place, the words “§ § 11.1005 or 12.30-5 of this chapter, as appropriate,”;

d. In paragraph (e) introductory text, remove the words “§ 10.1105 (if licensed) or § 12.30-5 (if unlicensed) of this chapter” and add, in their place, the words “§ § 11.1005 or 12.30-5 of this chapter, as appropriate,”;

e. In paragraph (f), remove the words “After January 31, 2002, on” and add, in their place, the word “On”; and, after the words “appropriate certificate”, add the words “or endorsement”; and

f. In paragraph (h), remove the words “After January 31, 2002, on” and add, in their place, the word “On” and remove the words “in accordance with § 10.205 or § 10.209” and add, in their place, the words “according to § § 11.205 or 11.209”.

§ 15.1105 [Amended]

323. In § 15.1105(a) introductory text, (b), and (c) introductory text, remove the words “After January 31, 1997, on” and add, in their place, the word “On”.

§ 15.1107 [Amended]

324. In § 15.1107—

a. In the introductory text, after the words “mariner holding a license”, add the words “, merchant mariner credential”; and

b. In paragraph (c), remove the words “licenses, documents, or endorsements” and add, in their place, the word “credentials”.

§ 15.1111 [Amended]

325. In § 15.1111(a), remove the words “After January 31, 1997, each” and add, in their place, the word “Each”.

PART 16—CHEMICAL TESTING

326. The authority citation for part 16 continues to read as follows:

Authority: 46 U.S.C. 2103, 3306, 7101, 7301, and 7701; Department of Homeland Security Delegation No. 0170.1.

327. In § 16.105, add, in alphabetical order, a definition for “credential” and revise the the introductory text and paragraphs (a) and (b) introductory text of the definition for “crewmember” to read as follows:

§ 16.105 Definitions of terms used in this part.

* * * * *

Credential is a term used to refer to any or all of the following:

(1) Merchant mariner's document.

(2) License.

(3) STCW endorsement.

(4) Certificate of registry.

(5) Merchant mariner credential.

Crewmember means an individual who is—

(a) On board a vessel acting under the authority of a credential issued under this subchapter, whether or not the individual is a member of the vessel's crew; or

(b) Engaged or employed on board a vessel owned in the United States that is required by law or regulation to engage, employ, or be operated by an individual holding a credential issued under this subchapter, except for the following:

* * * * *

§ 16.113 [Amended]

328. In § 16.113(a), remove the words “documented and licensed” and add, in their place, the word “credentialed”.

§ 16.201 [Amended]

329. In § 16.201—

a. In paragraph (c), after the words “If an individual holding”, remove the words “a license, certificate of registry, or merchant mariner's document” and add, in their place, the words “a credential”; and, after the words “against his or her”, remove the words “license, certificate of registry, or merchant mariner's document” and add, in their place, the word “credential”; and

b. In paragraph (d), remove the words “a license, certificate of registry, or merchant mariner's document” and add, in their place, the words “a credential”.

330. Revise § 16.220(a) and (b) to read as follows:

§ 16.220 Periodic testing requirements.

(a) Except as provided by paragraph (c) of this section and § 10.209(c)(9) of this chapter, an applicant must pass a chemical test for dangerous drugs for—

(1) An original issuance of a license, certificate of registry (COR), merchant mariner's document, or merchant mariner credential;

(2) The first issuance, raise in grade, or renewal of an officer endorsement on a merchant mariner credential;

(3) A raise in grade of a license or COR;

(4) The first endorsement as an able seaman, lifeboatman, qualified member of the engine department, or tankerman; or

(5) A reissuance of a credential with a new expiration date. The applicant must provide the results of the test to the Coast Guard Regional Examination Center (REC) at the time of submitting an application. The test results must be completed and dated not more than 185 days before submission of the application.

(b) Unless excepted under paragraph (c) of this section, each pilot required by this subchapter to receive an annual physical examination must pass a chemical test for dangerous drugs as a part of that examination. The individual must provide the results of each test required by this section to the REC when the pilot applies for a license or MMC renewal or when requested by the Coast Guard.

* * * * *

§ 16.230 [Amended]

331. In § 16.230—

a. In paragraph (b)(1), remove the words “hold a license issued by the Coast Guard” and add in their place the words “hold a license or MMC endorsed as master, mate, or operator”; and

b. In paragraph (k), remove the words “license or merchant mariner's document” and add, in their place, the word “credential”.

§ 16.250 [Amended]

332. In paragraph (a), remove the words “license, certificate of registry, or merchant mariner's document” and add, in their place, the word “credential”.

PART 26—OPERATIONS

333. The authority citation for part 26 continues to read as follows:

Authority: 46 U.S.C. 3306, 4104, 6101, 8105; Pub. L. 103-206, 107 Stat. 2439; E.O. 12234, 45 FR 58801, 3 CFR, 1980 Comp., p. 277; Department of Homeland Security Delegation No. 0170.1.

Subpart 26.20—[Amended]

334. In the heading to subpart 26.20, remove the word “License” and add, in its place, the word “Credential”.

§ 26.20-1 [Amended]

335. In § 26.20-1, in the text, after the words “valid Coast Guard license” add the words “or MMC officer endorsement”; and after the words “must have the license” add the words “or merchant mariner credential”.

PART 28—REQUIREMENTS FOR COMMERCIAL FISHING INDUSTRY VESSELS

336. The authority citation for part 28 continues to read as follows:

Authority: 46 U.S.C. 3316, 4502, 4505, 4506, 6104, 10603; Department of Homeland Security Delegation No. 0170.1.

§ 28.275 [Amended]

337. In § 28.275—

a. In paragraph (a)(2) introductory text, remove the words “merchant mariner's license” and add, in their place, the words “license or officer endorsement”; and remove the words “64 CFR” and add, in their place, the text “§ ”; and

b. In paragraph (a)(3) introductory text, remove the words “merchant mariner's license” and add, in their place, the words “license or officer endorsement”; and remove the words “46 CFR” and add, in their place, the text “§ ”.

PART 30—GENERAL PROVISIONS

338. The authority citation for part 30 continues to read as follows:

Authority: 46 U.S.C. 2103, 3306, 3703; Pub. L. 103-206, 107 Stat. 2439; 49 U.S.C. 5103, 5106; Department of Homeland Security Delegation No. 0170.1; Section 30.01-2 also issued under the authority of 44 U.S.C. 3507; Section 30.01-05 also issued under the authority of Sec. 4109, Pub. L. 101-380, 104 Stat. 515.

§ 30.10-71 [Amended]

339. In § 30.10-71, in the introductory text, remove the words “merchant mariners” documents” and add, in their place, the word “endorsements”.

PART 31—INSPECTION AND CERTIFICATION

340. The authority citation for part 31 continues to read as follows:

Authority: 33 U.S.C. 1321(j); 46 U.S.C. 2103, 3205, 3306, 3307, 3703; 46 U.S.C. Chapter 701; 49 U.S.C. 5103, 5106; E.O. 12234, 45 FR 58801, 3 CFR, 1980 Comp., p. 277; E.O. 12777, 56 FR 54757, 3 CFR, 1991 Comp., p. 351; Department of Homeland Security Delegation No. 0170.1. Section 31.10-21 also issued under the authority of Sect. 4109, Pub. L. 101-380, 104 Stat. 515.

§ 31.15-1 [Amended]

341. In § 31.15-1, in the section heading, remove the words “Licensed officers” and add, in their place, the word “Officers”.

PART 35—OPERATIONS

342. The authority citation for part 35 continues to read as follows:

Authority: 33 U.S.C. 1321(j); 46 U.S.C. 3306, 3703, 6101; 49 U.S.C. 5103, 5106; E.O. 12234, 45 FR 58801, 3 CFR, 1980 Comp., p. 277; E.O. 12777, 56 FR 54757, 3 CFR, 1991 Comp., p. 351; Department of Homeland Security Delegation No. 0170.1.

§ 35.05-1 [Amended]

343. In § 35.05-1—

a. In the section heading, remove the words “Licensed officers” and add, in their place, the word “Officers”; and

b. In the text, remove the words “licensed” and “certificated” wherever they appear.

PART 42—DOMESTIC AND FOREIGN VOYAGES BY SEA

344. The authority citation for part 42 continues to read as follows:

Authority: 46 U.S.C. 5101-5116; Department of Homeland Security Delegation No. 0170.1; section 42.01-5 also issued under the authority of 44 U.S.C. 3507.

345. Add new § 42.05-70 to read as follows:

§ 42.05-70 Credential.

As used in this subchapter, credential means any or all of the following:

(a) Merchant mariner's document.

(b) License.

(c) STCW endorsement.

(d) Certificate of registry.

(e) Merchant mariner credential.

§ 42.07-50 [Amended]

346. In § 42.07-50(b)(5), remove the words “license or merchant mariner's document” and add, in their place, the word “credential”.

PART 58—MAIN AND AUXILIARY MACHINERY AND RELATED SYSTEMS

347. The authority citation for part 58 continues to read as follows:

Authority: 43 U.S.C. 1333; 46 U.S.C. 3306, 3703; E.O. 12234, 45 FR 58801, 3 CFR, 1980 Comp., p. 277; Department of Homeland Security Delegation No. 0170.1.

§ 58.16-19 [Amended]

348. In § 58.16-19(b), remove the word “licensed” and add, in its place, the word “credentialed”.

PART 61—PERIODIC TESTS AND INSPECTIONS

349. The authority citation for part 61 continues to read as follows:

Authority: 43 U.S.C. 1333; 46 U.S.C. 2103, 3306, 3307, 3703; E.O. 12234, 45 FR 58801, 3 CFR 1980 Comp., p. 277; Department of Homeland Security Delegation No. 0170.1.

§ 61.15-10 [Amended]

350. In § 61.15-10(a), remove the words “a licensed” and add, in their place, the words “an appropriately credentialed”.

PART 78—OPERATIONS

351. The authority citation for part 78 continues to read as follows:

Authority: 33 U.S.C. 1321(j); 46 U.S.C. 2103, 3306, 6101; 49 U.S.C. 5103, 5106; E.O. 12234, 45 FR 58801, 3 CFR, 1980 Comp., p. 277; E.O. 12777, 56 FR 54757, 3 CFR, 1991 Comp., p. 351; Department of Homeland Security Delegation No. 0170.1.

Subpart 78.65—[Amended]

352. In the heading to subpart 78.65, remove the word “License” and add, in its place, the words “Merchant Mariner Credential”;

353. Revise § 78.65-1 to read as follows:

§ 78.65-1 Officers.

All officers on a vessel must have their merchant mariner credentials conspicuously displayed.

PART 97—OPERATIONS

354. The authority citation for part 97 continues to read as follows:

Authority: 33 U.S.C. 1321(j); 46 U.S.C. 2103, 3306, 6101; 49 U.S.C. 5103, 5106; E.O. 12234, 45 FR 58801, 3 CFR, 1980 Comp., p. 277; E.O. 12777, 56 FR 54757; 3 CFR, 1991 Comp., p. 351; Department of Homeland Security Delegation No. 0170.1.

Subpart 97.53—[Amended]

355. In the heading to subpart 97.53, remove the word “License” and add, in its place, the words “Merchant Mariner Credential”;

356. Revise § 97.53-1 to read as follows:

§ 97.53-1 Officers.

All officers on a vessel must have their merchant mariner credentials conspicuously displayed.

PART 98—SPECIAL CONSTRUCTION, ARRANGEMENT, AND OTHER PROVISIONS FOR CERTAIN DANGEROUS CARGOES IN BULK

357. The authority citation for part 98 continues to read as follows:

Authority: 33 U.S.C. 1903; 46 U.S.C. 3306, 3307, 3703; 49 U.S.C. App. 1804; E.O. 12234, 45 FR 58801, 3 CFR, 1980 Comp., p. 277; Department of Homeland Security Delegation No. 0170.1.

§ 98.30-17 [Amended]

358. In § 98.30-17—

a. In paragraph (b)(1), before the words “merchant mariner's document”, add the words “endorsement on his or her merchant mariner credential or”; and

b. In paragraph (b)(2), remove the words “license or certificate” and add, in their place, the words “merchant mariner credential, license, or certificate”; and remove the words “on his or her MMD”.

PART 105—COMMERCIAL FISHING VESSELS DISPENSING PETROLEUM PRODUCTS

359. The authority citation for part 105 continues to read as follows:

Authority: 33 U.S.C. 1321(j); 46 U.S.C. 3306, 3703, 4502; 49 U.S.C. App. 1804; E.O. 11735, 38 FR 21243, 3 CFR, 1971-1975 Comp., p. 793; Department of Homeland Security Delegation No. 0170.1.

§ 105.05-10 [Amended]

360. In § 105.05-10(c)(2), remove the word “licensed”.

§ 105.45-1 [Amended]

361. In § 105.45-1—

a. In paragraph (a)(1), remove the word “documents” and add, in its place, the words “merchant mariner credentials or merchant mariner's documents”;

b. In paragraph (b)(1), remove the words “merchant mariner's document” and add, in their place, the words “merchant mariner credential or merchant mariner's document”; and

c. In paragraph (c)(2), remove the word “license” and add, in its place, the words “license or merchant mariner credential”.

PART 114—GENERAL PROVISIONS

362. The authority citation for part 114 continues to read as follows:

Authority: 46 U.S.C. 2103, 3306, 3703; Pub. L. 103μ206, 107 Stat. 2439; 49 U.S.C. App. 1804; Department of Homeland Security No. 0170.1; § 114.900 also issued under 44 U.S.C. 3507.

§ 114.400 [Amended]

363. In § 114.400(b), in the definition for “Master”, remove the word “license” and add, in its place, the words “license or merchant mariner credential”.

PART 115—INSPECTION AND CERTIFICATION

364. The authority citation for part 115 is revised to read as follows:

Authority: 33 U.S.C. 1321(j); 46 U.S.C. 2103, 3205, 3306, 3307; 49 U.S.C. App. 1804; E.O. 11735, 38 FR 21243, 3 CFR, 1971μ1975 Comp., p. 743; E.O. 12234, 45 FR 58801, 3 CFR, 1980 Comp., p. 277; Department of Homeland Security Delegation No. 0170.1.

§ 115.113 [Amended]

365. In § 115.113(b)(1)(iii), remove the word “licensed” and add, in its place, the word “credentialed”.

PART 122—OPERATIONS

366. The authority citation for part 122 continues to read as follows:

Authority: 46 U.S.C. 2103, 3306, 6101; E.O. 12234, 45 FR 58801, 3 CFR, 1980 Comp., p. 277; Department of Homeland Security Delegation No. 0170.1.

§ 122.402 [Amended]

367. In § 122.402—

a. In the section heading, remove the word “Licenses” and add, in its place, the word “Officers”; and

b. In the text, remove the words “licensed individual” and add, in their place, the word “officer”; and remove the words “shall have his or her “license” and add, in their place, the words “must have his or her license or merchant mariner credential”.

§ 122.910 [Amended]

368. In § 122.910, in the text, after the words “An individual holding a” add the words “merchant mariner credential,”; and after the words “suspension or revocation of a” remove the words “license, certificate, or document” and add, in their place, the word “credential”.

PART 125-GENERAL

369. The authority for part 125 continues to read as follows:

Authority: 46 U.S.C. 2103, 3306, 3307; 49 U.S.C. App. 1804; Department of Homeland Security Delegation No. 0170.1.

370. In § 125.160 add, in alphabetical order, a definition for the term “credential” to read as follows:

§ 125.160 Definitions.

* * * * *

Credential means any or all of the following:

(1) Merchant mariner's document.

(2) License.

(3) STCW endorsement.

(4) Certificate of registry.

(5) Merchant mariner credential.

* * * * *

PART 131—OPERATIONS

371. The authority citation for part 131 continues to read as follows:

Authority: 33 U.S.C. 1321(j); 46 U.S.C. 3306, 6101, 10104; E.O. 12234, 3 CFR, 1980 Comp., p. 277; E.O. 12777, 3 CFR, 1991 Comp., p. 351; Department of Homeland Security Delegation No. 0170.1.

§ 131.410 [Amended]

372. In § 131.410, remove the words “merchant mariner's document”, wherever they appear, and add, in their place, the words “merchant mariner credential or merchant mariner's document”.

§ 131.905 [Amended]

373. In § 131.905(b), after the words “the suspension or revocation of” add the words “credentials”.

374. Revise § 131.955 to read as follows:—

§ 131.955 Display of merchant mariner credential.

Each officer on a vessel must conspicuously display his or her license or merchant mariner credential as required by 46 U.S.C. 7110.

PART 151—BARGES CARRYING BULK LIQUID HAZARDOUS MATERIAL CARGOES

375. The authority citation for part 151 continues to read as follows:

Authority: 33 U.S.C. 1903; 46 U.S.C. 3703; Department of Homeland Security Delegation No. 0170.1.

§ 151.03-53 [Amended]

376. In § 151.03-53 introductory text, remove the words “merchant mariner's documents” and add, in their place, the words “merchant mariner credentials or merchant mariner's document”.

PART 166—DESIGNATION AND APPROVAL OF NAUTICAL SCHOOL SHIPS

377. The authority citation for part 166 continues to read as follows:

Authority: 46 U.S.C. 2103, 3306, 8105; 46 U.S.C. App. 1295g; Department of Homeland Security Delegation No. 0170.1.

§ 166.01 [Amended]

378. In § 166.01(a), remove the words “or merchant mariner's documents” and add, in their place, the words “on merchant mariner credentials or merchant mariner's documents”.

PART 169—SAILING SCHOOL VESSELS

379. The authority citation for part 169 continues to read as follows:

Authority: 33 U.S.C. 1321(j); 46 U.S.C. 3306, 6101; Pub. L. 103-206, 107 Stat. 2439; E.O. 11735, 38 FR 21243, 3 CFR, 1971-1975 Comp., p. 793; Department of Homeland Security Delegation No. 0170.1; § 169.117 also issued under the authority of 44 U.S.C. 3507.

§ 169.107 [Amended]

380. In § 169.107, in the definition for “Master”, remove the word “licensed” and add, in its place, the word “credentialed”.

§ 169.805 [Amended]

381. In § 169.805—

a. In the section heading, remove the word “licenses” and add, in its place, the words “merchant mariner credentials”; and

b. In the text, remove the words “Licensed personnel” and add, in their place, the word “Officers”; and remove the words “shall have their licenses” and add, in their place, the words “must have their license or merchant mariner credential”.

PART 175—GENERAL PROVISIONS

382. The authority citation for part 175 continues to read as follows:

Authority: 46 U.S.C. 2103, 3205, 3306, 3703; Pub. L 103-206, 107 Stat. 2439; 49 U.S.C. App. 1804; Department of Homeland Security Delegation No. 0170.1; 175.900 also issued under authority of 44 U.S.C. 3507.

§ 175.118 [Amended]

383. In § 175.118(c)(3), after the words “All officers must be”, remove the word “licensed” and add, in its place, the word “endorsed”; remove the words “licensed engineer” and add, in their place, the words “an appropriately endorsed engineer officer”; remove the words “merchant mariner documents” and add, in their place, the words “merchant mariner credentials or merchant mariner's document”; and remove the words “unlicensed deck crew must be rated as” and add, in their place, the words “rated deck crew must be”.

§ 175.400 [Amended]

384. In § 175.400, in the definition for “Master”, remove the word “license” and add, in its place, the words “merchant mariner credential”.

PART 176—INSPECTION AND CERTIFICATION

385. The authority citation is revised to read as follows:

Authority: 33 U.S.C. 1321(j); 46 U.S.C. 2103, 3205, 3306, 3307; 49 U.S.C. App. 1804; E.O. 11735, 38 FR 21243, 3 CFR, 1971-1975 Comp., p. 743; E.O. 12234, 45 FR 58801, 3 CFR, 1980 Comp., p. 277; Department of Homeland Security Delegation No. 0170.1.

§ 176.113 [Amended]

386. In § 176.113(b)(1)(iii), remove the word “licensed”.

PART 185—OPERATIONS

387. The authority citation continues to read as follows:

Authority: 46 U.S.C. 2103, 3306, 6101; E.O. 12234, 45 FR 58801, 3 CFR, 1980 Comp., p. 277; Department of Homeland Security Delegation No. 0170.1.

388. Revise § 185.402 to read as follows:

§ 185.402 Officers.

Each officer employed on any vessel subject to this subchapter must have his or her license or merchant mariner credential on board and available for examination at all times when the vessel is operating.

§ 185.910 [Amended]

389. In § 185.910, after the words “individual holding a”, add the words “merchant mariner credential,”; and, after the words “suspension or revocation of a”, add the words “merchant mariner credential,”.

PART 196—OPERATIONS

390. The authority citation for part 196 continues to read as follows:

Authority: 33 U.S.C. 1321(j); 46 U.S.C. 2213, 3306, 5115, 6101; E.O. 12777, 56 FR 54757, 3 CFR, 1991 Comp., p. 351; E.O. 12234, 45 FR 58801, 3 CFR, 1980 Comp., p. 277; Department of Homeland Security Delegation No. 0170.1.

Subpart 196.53—[Amended]

391. In the heading to subpart 196.53, remove the word “License” and add, in its place, the word “Credential”.

392. Revise § 196.53-1 to read as follows:

§ 196.53-1 Officers.

All officers on a vessel must have their licenses or merchant mariner credentials conspicuously displayed.

PART 199—LIFESAVING SYSTEMS FOR CERTAIN INSPECTED VESSELS

393. The authority citation for part 199 continues to read as follows:

Authority: 46 U.S.C. 3306, 3703; Pub. L 103-206, 107 Stat. 2439; Department of Homeland Security Delegation No. 0170.1.

§ 199.30 [Amended]

394. In § 199.30, in the definition for “Certificated person”, after the words “merchant mariner's document”, add the words “or merchant mariner credential”.

PART 401—GREAT LAKES PILOTAGE REGULATIONS

395. The authority citation for part 401 continues to read as follows:

Authority: 46 U.S.C. 2104(a), 6101, 7701, 8105, 9303, 9304 and 70105; Department of Homeland Security Delegation No. 0170.1; 46 CFR 401.105 also issued under the authority of 44 U.S.C. 3507.

§ 401.110 [Amended]

396. In § 401.110—

a. In paragraph (a)(8), after the word “license”, add the words “or merchant mariner credential”; and

b. In paragraph (a)(12), after the words “who holds a license”, add the words “or merchant mariner credential endorsed”.

c. Add a new paragraph (a)(17) to read as follows:

§ 401.110 Definitions.

(a) * * *

(17) Merchant Mariner Credential or MMC means the qualification document for all merchant mariners issued by the Coast Guard under 46 CFR part 10. The individual Merchant Mariner Document, License, and Certificate of Registry enumerated in 46 U.S.C. Subtitle II, Part E will be issued in the form of a Merchant Mariner Credential (MMC). An MMC will combine the separate qualification documents previously issued under 46 U.S.C. Subtitle II, Part E and STCW endorsements into a single certificate, which will be endorsed to reflect a mariner's level of qualification.

§ 401.210 [Amended]

397. In § 401.210—

a. In paragraph(a)(1), after the words “individual holds a”, remove the word “license” and add, in its place, the words “merchant mariner credential endorsed”.

b. In paragraph (a)(6), after the words “Coast Guard”, add the words “or a valid Transportation Worker Identification Credential”.

§ 401.220 [Amended]

398. In § 401.220(d), remove the word “license” and add, in its place, the word “endorsement”.

§ 401.230 [Amended]

399. In § 401.230(a), remove the word “license” and add, in its place, the word “endorsement”.

§ 401.250 [Amended]

400. In § 401.250(d), after the words “whenever his or her license”, add the words “or merchant mariner credential officer endorsement”; after the words “simultaneously with his or her license”, add the words “and/or merchant mariner credential”; after the words “If the license”, add the words “or officer endorsement”; and after the words “with the suspended license”, add the words “or officer endorsement”.

PART 402—GREAT LAKES PILOTAGE RULES AND ORDERS

401. The authority citation for part 402 continues to read as follows:

Authority: 46 U.S.C. 2104(a), 8105, 9303, 9304; 49 CFR 1.46 (mmm).

§ 402.220 [Amended]

402. In § 402.220(a)(1), (a)(2), and (a)(3), remove the word “license” wherever it appears and add, in its place, the word “endorsement”.

Dated: April 19, 2006.
C.E. Bone,
Rear Admiral, Acting Assistant Commandant for Prevention.

[FR Doc. 06-4509 Filed 5-12-06; 12:25 pm]

BILLING CODE 4910-15-P